DEPARTMENT OF COMMERCE

National Oceanic and Atmospheric Administration

[Docket No. 100630282-0282-01; I.D. GF001]

RIN 0648-ZC18

Availability of Grant Funds for Fiscal Year 2011

AGENCY: National Oceanic and Atmospheric Administration (NOAA), Commerce.

ACTION: Notice.

SUMMARY: The National Oceanic and Atmospheric Administration publishes this notice to provide the general public with a consolidated source of program and application information related to its competitive grant and cooperative agreement award offerings for fiscal year (FY) 2011. This Omnibus notice is designed to replace the multiple Federal Register notices that traditionally advertised the availability of NOAA's discretionary funds for its various programs. It should be noted that additional program initiatives may be announced through subsequent Federal Register notices. All announcements will also be available through the Grants.gov Web site.

DATES: Proposals must be received by the date and time indicated under each program listing in the SUPPLEMENTARY INFORMATION section of this notice.

ADDRESSES: Proposals must be submitted to the addresses listed in the SUPPLEMENTARY INFORMATION section of this notice for each program. This Federal Register notice and the Federal Funding Opportunity (FFO) announcement for each program may be found on the Grants.gov Web site. The URL for Grants.gov is http://www.grants.gov.

FOR FURTHER INFORMATION CONTACT: Please contact the person listed within this notice as the information contact under each program.

SUPPLEMENTARY INFORMATION: Applicants must comply with all requirements contained in the Federal Funding Opportunity announcement for each of the programs listed in this omnibus notice. The FFO announcements are available at http://www.grants.gov.

This notice describes the basic information and requirements for competitive grant/cooperative agreement programs offered by NOAA. These programs are open to any applicant who meets the eligibility criteria provided in each entry. To be considered for an award in a competitive grant/cooperative agreement program, an eligible applicant must submit a complete and responsive application to the appropriate program office. An award is made upon conclusion of the evaluation and selection process for the respective program.

Table of Contents

I. Background

II. NOAA Project Competitions Listed by NOAA Mission Goals

III. Electronic Access

IV. NOAA Project Competitions

National Marine Fisheries Service (NMFS)

1. Coral Reef Conservation Program Fishery Management Council Coral Reef Conservation Cooperative Agreements

2. Fiscal Year 2011 Community-based Marine Debris Removal Project Grants

3. Fiscal Year 2011 Open Rivers Initiative

4. Fiscal Year 2011 NOAA Chesapeake Bay Watershed Education and Training (BWET)

5. NOAA New England Bay Watershed Education and Training (B-WET) Program

6. Fiscal Year 2011 Monkfish Research Set-Aside

7. Fiscal Year 2011 Scallop Research Set-Aside

8. John H. Prescott Marine Mammal Rescue Assistance Grant Program (Prescott Grant Program) for Fiscal Year 2011

9. Protected Species Cooperative Conservation

10. Bluefin Tuna Research Program

11. Cooperative Research Program

12. Fiscal Year 2011 Gulf of Mexico NOAA Bay Watershed Education and Training (B-WET) Program

13. Marine Fisheries Initiative (MARFIN)

National Ocean Service (NOS)

1. Fiscal Year 2011 Coastal Resilience Networks Program

2. Fiscal Year 2011 NOAA Hawaii Program Bay Watershed Education and Training (B-WET)

3. Fiscal Year 2011 Implementation of the U.S. Integrated Ocean Observing System (IOOS)

4. Coral Reef Conservation Program International Coral Reef Conservation Cooperative Agreements

5. Fiscal Year 2011 Regional Ecosystem Prediction Program (REPP) Concept of Operations for Models To Support Regional Coastal Ecosystem Management

6. Fiscal Year 2011 Regional Ecosystem Prediction Program (REPP) Pulley Ridge

7. Harmful Algal Bloom Programs

8. Fiscal Year 2011 NOAA California Bay Watershed Education and Training Program

9. Fiscal Year 2011 NOAA Pacific Northwest Bay Watershed Education and Training (B-WET) Program

10. Coral Reef Conservation Program Domestic Coral Reef Conservation Grants

11. Coral Reef Conservation Program State and Territorial Coral Reef Conservation Cooperative Agreements

12. National Estuarine Research Reserve Graduate Research Fellowship Program for Fiscal Year 2011

13. National Estuarine Research Reserve System (NERRS) Land Acquisition and Construction Program for Fiscal Year 2011

National Weather Service (NWS)

1. Collaborative Science, Technology, and Applied Research (CSTAR) Program

2. Meteotsunami Warning Project

Oceanic and Atmospheric Research (OAR)

1. Fiscal Year 2011 Climate Program Office

2. Fiscal Year 2011 NMFS—Sea Grant Fellowships in Population Dynamics

3. Fiscal Year 2012 National Sea Grant College Program Dean John A. Knauss Marine Policy Fellowship

4. Fiscal Year 2011 NMFS—Sea Grant Fellowships in Marine Resource Economics

5. Fiscal Year 2011 Small Grants for Marine Archaeological Exploration

6. Fiscal Year 2011 Joint Hurricane Testbed

Office of the Under Secretary (USEC)

1. Environmental Literacy Grants for Formal K-12 Education

2. Financial Assistance to Establish Five NOAA Cooperative Science Centers at Minority Serving Institutions

National Environmental Satellite Data and Information Service (NESDIS)

1. Climate Data Record Program Office for Fiscal Year 2011

I. Background

Each of the grant opportunities listed in this notice provides: A description of the program, funding availability, statutory authority, catalog of federal domestic assistance (CFDA) number, application deadline, address for submitting proposals, information contacts, eligibility requirements, cost sharing requirements, and intergovernmental review under Executive Order 12372.

II. NOAA Project Competitions Listed by NOAA Mission Goals

This section lists NOAA's mission goals, which are based on the NOAA Strategic Plan. All awards issued by NOAA must meet at least one of NOAA's mission goals. Below each mission goal statement, you will find a list of the fiscal year 2011 project competitions that address that mission goal.

A. Protect, Restore, and Manage the Use of Coastal and Ocean Resources Through an Ecosystem Approach to Management

Summary Description: NOAA's goal to protect, restore, and manage the use of living marine and coastal and ocean resources is critical to public health and the vitality of the U.S. economy. With its Exclusive Economic Zone of 3.4 million square miles, the United States manages the largest marine territory of any nation in the world. The value of the ocean economy to the United States is more than $138 billion. The value added annually to the national economy by the commercial and recreational fishing industry alone is over $47 billion. U.S. aquaculture sales total almost $1 billion annually. To achieve balance among ecological, environmental, and social influences, NOAA has adopted an ecosystem approach to management, a concept that is central to the recommendations of the 2004 report of the U.S. Commission on Ocean Policy and the Administration's response to it, the U.S. Ocean Action Plan. NOAA's Ecosystems Goal responds to a specific mandate from Congress for NOAA to be a lead Federal agency in this conservation, management, and restoration effort. Recent statutory revisions (e.g., the Magnuson-Stevens Reauthorization Act and the Marine Debris Research, Prevention and Reduction Act) and emerging legislative changes are broadening this mission for NOAA, opening a new chapter in NOAA's stewardship of the nation's living marine resources and management of the coasts.

Funded proposals should help achieve the following outcomes: A healthy and productive coastal and marine ecosystem that benefits society; and a well-informed public that acts as a steward of coastal and marine ecosystems.

Program Names:

1. Coral Reef Conservation Program Fishery Management Council Coral Reef Conservation Cooperative Agreements

2. Fiscal Year 2011 Community-based Marine Debris Removal Project Grants

3. Fiscal Year 2011 Open Rivers Initiative

4. Fiscal Year 2011 NOAA Chesapeake Bay Watershed Education and Training (B-WET)

5. NOAA New England Bay Watershed Education and Training (B-WET) Program

6. Fiscal Year 2011 Monkfish Research Set-Aside

7. Fiscal Year 2011 Scallop Research Set-Aside

8. John H. Prescott Marine Mammal Rescue Assistance Grant Program (Prescott Grant Program) for Fiscal Year 2011

9. Protected Species Cooperative Conservation

10. Fiscal Year 2011 Gulf of Mexico NOAA Bay Watershed Education and Training (B-WET) Program

11. Marine Fisheries Initiative (MARFIN)

12. Bluefin Tuna Research Program

13. Cooperative Research Program

14. Fiscal Year 2011 Coastal Resilience Networks Program

15. Fiscal Year 2011 NOAA Hawaii Program Bay Watershed Education and Training (B-WET)

16. Fiscal Year 2011 Implementation of the U.S. Integrated Ocean Observing System (IOOS)

17. Coral Reef Conservation Program International Coral Reef Conservation Cooperative Agreements

18. Fiscal Year 2011 Regional Ecosystem Prediction Program (REPP) Concept of Operations for Models to Support Regional Coastal Ecosystem Management

19. Harmful Algal Bloom Programs

20. Fiscal Year 2011 Regional Ecosystem Prediction Program (REPP) Pulley Ridge

21. Fiscal Year 2011 NOAA California Bay Watershed Education and Training Program

22. Fiscal Year 2011 NOAA Pacific Northwest Bay Watershed Education and Training (B-WET) Program

23. Coral Reef Conservation Program Domestic Coral Reef Conservation Grants

24. National Estuarine Research Reserve Graduate Research Fellowship Program for Fiscal Year 2011

25. National Estuarine Research Reserve System (NERRS) Land Acquisition and Construction Program for Fiscal Year 2011

26. Coral Reef Conservation Program State and Territorial Coral Reef Conservation Cooperative Agreements

27. Fiscal Year 2011 NMFS-Sea Grant Fellowships in Population Dynamics

28. Fiscal Year 2011 NMFS-Sea Grant Fellowships in Marine Resource Economics

29. Fiscal Year 2012 National Sea Grant College Program Dean John A. Knauss Marine Policy Fellowship

30. Fiscal Year 2011 Small Grants for Marine Archaeological Exploration

31. Financial Assistance to Establish Five NOAA Cooperative Science Centers at Minority Serving Institutions

B. Understand Climate Variability and Change To Enhance Society's Ability To Plan and Respond

Summary Description: Climate variability and change influence the well-being of society, the environment, and the economy. Numerous long-term changes in climate already have been observed. The changes include those in arctic surface temperatures and sea ice, ocean salinity and carbonate chemistry, and frequency and intensity of extreme weather such as heat and cold waves, droughts, and floods. Decision makers are challenged with addressing major climatic events compounded by issues such as population growth, economic growth, public health concerns, changes in geographic distribution of marine species, loss of habitat, and changes in land-use practices. They require a new generation of climate services. Through legislation, executive orders, and international agreements, NOAA has a long-standing commitment to provide reliable and timely climate research and information. To meet the demand for expanded services, the Climate Goal will focus research to improve understanding of complex climate processes and to enhance the predictive capacity of the global climate system. The Climate Goal's priority is to focus on the development and delivery of climate information and services that assist decision makers with national and international policy decision making, and assessing risks to ecosystems and the U.S. economy in sectors and areas that are sensitive to impacts from climate variability and change.

Funded proposals should help achieve the following outcomes: A predictive understanding of the global climate system on time scales of weeks to decades to a century with quantified uncertainties sufficient for making informed and reasoned decisions; and use of NOAA's climate products by climate-sensitive sectors and the climate-literate public to support their plans and decisions.

Program Names:

1. Fiscal Year 2011 Coastal Resilience Networks Program

2. Fiscal Year 2011 NOAA Hawaii Program Bay Watershed Education and Training (B-WET)

3. Fiscal Year 2011 Implementation of the U.S. Integrated Ocean Observing System (IOOS)

4. National Estuarine Research Reserve Graduate Research Fellowship Program for Fiscal Year 2011

5. Collaborative Science, Technology, and Applied Research (CSTAR) Program

6. Fiscal Year 2011 Climate Program Office

7. Fiscal Year 2012 National Sea Grant College Program Dean John A. Knauss Marine Policy Fellowship

8. Financial Assistance to Establish Five NOAA Cooperative Science Centers at Minority Serving Institutions

9. Climate Data Record Program Office for Fiscal Year 2011

C. Serve Society's Needs for Weather and Water Information

Summary Description: Floods, droughts, hurricanes, tornadoes, tsunamis, wildfires, and other severe weather events cause $11.4 billion in damage each year in the United States. Weather is directly linked to public health and safety, and nearly one-third of the U.S. economy (approximately $4 trillion, in 2005 dollars) is sensitive to weather and climate. With so much at stake, NOAA's role in understanding, observing, forecasting, and warning of environmental events is expanding. NOAA will continue to collect and analyze environmental data and to issue forecasts and warnings that help protect health, life, and property and enhance the U.S. economy. Future needs can be better met by exploring new concepts and applications through robust weather and water research. A commitment to public benefits shapes NOAA's role within the U.S. weather enterprise, including its partners in the private sector, academia, and government. These partners add value to NOAA services and help disseminate critical environmental information. We will work more closely with our partners and will develop new partnerships so that the public understands and is satisfied with our information. Together, NOAA and its partners will continuously improve existing service and expand to support evolving national needs, including space weather, freshwater and coastal ecosystems, and air quality prediction services.

Funded proposals should help achieve the following outcomes: Reduced loss of life, injury, and damage to the economy; better, quicker, and more valuable weather and water information to support improved decisions; and increased customer satisfaction with weather and water information and services.

Program Names:

1. Fiscal Year 2011 Coastal Resilience Networks Program

2. Fiscal Year 2011 NOAA Hawaii Program Bay Watershed Education and Training (B-WET)

3. Fiscal Year 2011 Implementation of the U.S. Integrated Ocean Observing System (IOOS)

4. National Estuarine Research Reserve Graduate Research Fellowship Program for Fiscal Year 2011

5. Collaborative Science, Technology, and Applied Research (CSTAR) Program

6. Meteotsunami Warning Project

7. Fiscal Year 2012 National Sea Grant College Program Dean John A. Knauss Marine Policy Fellowship

8. Fiscal Year 2011 Joint Hurricane Testbed

9. Financial Assistance to Establish Five NOAA Cooperative Science Centers at Minority Serving Institutions

D. Support the Nation's Commerce With Information for Safe, Efficient, and Environmentally Sound Transportation

Summary Description: NOAA responds to the specific demands of air, sea, and surface transportation with consistent, timely, and accurate information to aid sound and routine operational decision making. All modes of transportation are affected by significant challenges as they operate in the elements of nature. The natural environment is, in turn, affected by our transportation systems. Safe, efficient, and environmentally sound transportation systems are crucial to the nation's commerce, and thus to the nation's economy. For example, more than 78 percent of U.S. overseas trade by weight and 38 percent by value comes and goes by ship. Nine million barrels of oil come through U.S. ports daily, and 8,000 foreign vessels make 50,000 port calls annually. Vessel traffic in the U.S. Marine Transportation System, which ships over 95 percent of foreign trade by tonnage, will double by 2020 and contribute roughly $2 trillion annually to the U.S. economy. NOAA provides information products for transportation systems, including marine and surface weather forecasts, navigational charts, realtime oceanographic information, and Global Positioning System augmentation. NOAA works with the Federal Aviation Administration and industry to improve the weather resilience of aviation systems. NOAA also provides emergency response services to save lives and money and to protect the coastal environment, including hazardous material spill response and search and rescue functions. NOAA works with federal, state, and local partners to ensure the efficient and environmentally sound operation and development of ports.

Funded proposals should help achieve the following outcomes: Safe, secure, efficient, and seamless movement of goods and people in the U.S. transportation system; and environmentally sound development and use of the U.S. transportation system.

Program Names:

1. Fiscal Year 2011 Implementation of the U.S. Integrated Ocean Observing System (IOOS)

2. Collaborative Science, Technology, and Applied Research (CSTAR) Program

3. Fiscal Year 2012 National Sea Grant College Program Dean John A. Knauss Marine Policy Fellowship

4. Financial Assistance to Establish Five NOAA Cooperative Science Centers at Minority Serving Institutions

E. Provide Critical Support for NOAA's Mission

Summary Description: SATELLITE SUBGOAL: Environmental satellites are a major component of NOAA's global efforts to better observe, understand, and predict various environmental phenomena. The backbone of the NOAA satellites includes the Geostationary Operational Environmental Satellite (GOES) and Polar-orbiting Operational Environmental Satellite (POES) programs. GOES and POES are operated to provide critical atmospheric, oceanic, climatic, solar, and space data to protect life and property across the United States. The satellites carry scientific instruments and communications equipment to support the delivery of weather information and aid search and rescue operations. NOAA is acquiring the next generation of each satellite system, including ground processing systems. In concert with the National Aeronautics and Space Administration (NASA), acquisition of the next-generation geostationary satellite (GOES-R) series is underway. The Department of Defense (DoD), NASA, and NOAA are joined with industry partners to build the follow-on series of polar orbiting satellites, the National Polarorbiting Operational Environmental Satellite System. NOAA's satellite systems support other NOAA offices in the delivery of improved severe storm warnings, weather forecasts, climate predictions, oceanic and ecosystems research and analyses, and satellite-aided search and rescue services.

Fleet Services Subgoal: NOAA operates a fleet of 20 ships and 10 aircraft to ensure continuous observation of critical environmental conditions. The Fleet Services Subgoal manages these platforms to increase the number of ship operating days and aircraft flight hours to meet NOAA's data collection requirements. It provides ship and aircraft support for NOAA's four Mission Goals, upgrades NOAA's fleet of ships and aircraft, and partners with the programs to facilitate the development, demonstration, and deployment of new observation platforms, such as Autonomous Underwater Vehicles and Unmanned Aerial Systems.

Modeling and Observing Infrastructure (MObI) Subgoal: The MObI Subgoal's analyses and operational capabilities provide critical infrastructure and support for the integrated monitoring and improved understanding of the Earth's environment. The subgoal enables NOAA's operational forecast products and services and provides NOAA a strategic investment portfolio recommendation encompassing observing, modeling, and high-performance computing capabilities. NOAA's internal forecasting, assessment, and stewardship capabilities—as well as the capabilities of partners and customers—require integrated oceanic and atmospheric data. Furthermore, NOAA's operations require modeling support, high-performance computing, observing system design and analysis, research and development of improved modeling and data assimilation, and guidance on the architecture of observation and data management systems. MObI also manages the integration of NOAA's observing systems and associated data with those of other federal agencies and nations under the Global Earth Observation System of Systems (GEOSS), which is being built by the Group on Earth Observations (GEO) on the basis of a 10-Year Implementation Plan running from 2005 to 2015. GEOSS seeks to connect the producers of environmental data and decision-support tools with the end users of these products, with the aim of enhancing the relevance of Earth observations to global issues. The end result is to be a global public infrastructure that generates comprehensive, near-real-time environmental data, information and analyses for a wide range of users.

Leadership and Corporate Services Subgoal: The Leadership and Corporate Services Subgoal strives to produce cost-effective, value-added solutions in the cross-cutting areas of Line Office and Headquarters management, workforce management, acquisition and grants, facilities, financial services, Homeland Security, IT, and administrative services. This is accomplished by effective and strategic leadership at corporate and Line Office levels that optimize agency performance and mission accomplishment through streamlined, results oriented processes. The development of long-range facility and IT modernization plans provides the investment framework to ensure that NOAA's facility and IT portfolio will continue to support a safe, secure, and state-of-the-art work environment. The development of streamlined acquisition and workforce management processes will enable NOAA to effectively fulfill its research and scope.

Funded proposals should help achieve the following outcomes: A continuous stream of satellite data and information with the quality and accuracy to meet users requirements for spatial and temporal sampling and timeliness of delivery; adequate number of ship operating days and aircraft flight hours needed to meet NOAA's data collection requirements with high customer satisfaction; integrated observing system architectures, data management architectures, and computing and modeling capabilities to better enable NOAA's mission; a united NOAA working together—guided by a clear strategic vision for planning, programming, and execution—to achieve NOAA's goals; secure, reliable, and robust information flows within NOAA and out to the public; modern and sustainable facilities providing safe and effective work environment; efficient and effective financial, administrative, and acquisition management services; workforce management processes that support a diverse and competent workforce; and integrated Homeland Security and emergency response capabilities.

Program Names:

1. Fiscal Year 2011 NOAA Chesapeake Bay Watershed Education and Training (B-WET)

2. National Estuarine Research Reserve Graduate Research Fellowship Program for Fiscal Year 2011

3. Fiscal Year 2012 National Sea Grant College Program Dean John A. Knauss Marine Policy Fellowship

4. Environmental Literacy Grants for Formal K-12 Education

5. Financial Assistance to Establish Five NOAA Cooperative Science Centers at Minority Serving Institutions

III. Electronic Access

The full funding announcement for each program is available via the Grants.gov Web site at: http://www.grants.gov. Electronic applications for the NOAA Programs listed in this announcement may be accessed, downloaded, and submitted to that Web site.

The due dates and times for paper and electronic submissions are identical. NOAA strongly recommends that you do not wait until the application deadline to begin the application process through Grants.gov. Your application must be received and validated by Grants.gov no later than the due date and time. Please Note: Validation or rejection of your application by Grants.gov may take up to 2 business days after your submission. Please consider the Grants.gov validation/rejection process in developing your application submission time line.

Grants.gov

Getting started with Grants.gov is easy. Users should note that there are two key features on the Web site: Find Grant Opportunities and Apply for Grants. The site is designed to support these two features and your use of them.

While you can begin searching for grant opportunities immediately, it is recommended that you complete the steps to Get Started (below) ahead of time. This will help ensure you are registered with Grants.gov and can submit your application when you find an opportunity for which you would like to apply.

Applications From Individuals

In order for you to apply as an individual, the announcement must specify that the program is open to individuals and it must be published on the Grants.gov Web site. Individuals must register with the Credential Provider (see Grants.gov “Get Started”) and with Grants.gov (see Grants.gov “Get Started”). Individuals do not need a DUNS number to register (see Grants.gov “Get Started”) and submit their applications. The system will generate a default value in that field.

Grants.gov Registration and Application Submission Procedures

This section provides the registration and application submission instructions for NOAA program applications. Please read the following instructions carefully and completely.

1. Electronic Delivery. NOAA is participating in the Grants.gov Initiative that provides the Grant Community a single site to find and apply for grant funding opportunities. NOAA encourages applicants to submit their applications electronically through: http://www.grants.gov/applicants/apply_for_grants.jsp.

2. Registration Process Using Grants.gov.

The following provides some helpful tips for applicants when applying on-line using Grants.gov/Apply.

a. Instructions. On the site, you will find step-by-step instructions which enable you to apply for NOAA funds. The Grants.gov/Apply feature includes a simple, unified application process that makes it possible for applicants to apply for grants online. There are six “Get Started” steps to complete at Grants.gov. The information applicants need to understand and execute the steps can be found at: http://www.grants.gov/applicants/get_registered.jsp. Applicants should read the Get Started steps carefully. The site also contains registration checklists to help you walk through the process. NOAA recommends that you download the checklists and prepare the information requested before beginning the registration process. Reviewing and assembling required information before beginning the registration process will make the process fast and smooth and save time.

b. DUNS Requirement. All applicants (except individuals) applying for funding, including renewal funding, must have a Dun and Bradstreet Universal Data Numbering System (DUNS) number. The DUNS number must be included in the data entry field labeled “Organizational Duns” on the form SF-424. Instructions for obtaining a DUNS number can be found at the following Web site: http://www.grants.gov/applicants/get_registered.jsp.

c. Central Contractor Registry. In addition to having a DUNS number (as applicable), all applicants applying electronically through Grants.gov must register with the Central Contractor Registry. The http://www.grants.gov Web site at http://www.grants.gov/applicants/get_registered.jsp provides step-by-step instructions for registering in the Central Contractor Registry. All applicants filing electronically must register with the Central Contractor Registry and receive User Name and password from Grants.gov in order to apply on line. Failure to register with the Central Contractor Registry will result in your application being rejected by the Grants.gov portal.

The registration process is a separate process from submitting an application. Applicants are, therefore, encouraged to register early. The registration process can take approximately two weeks to be completed. Therefore, registration should be done in sufficient time to ensure it does not impact your ability to meet required submission deadlines. You will be able to submit your application online anytime after you receive your User Name and password from Grants.gov.

d. Electronic Signature. Applications submitted through Grants.gov constitute submission as electronically signed applications. The registration and e-authentication process establishes the Authorized Organization Representative (AOR). When you submit the application through Grants.gov, the name of your authorized organization representative on file will be inserted into the signature line of the application. Applicants must register the individual who is able to make legally binding commitments for the applicant organization as the Authorized Organization Representative.

3. Electronic Application Submission Instructions for Grants.gov/Apply:

Grants.gov has a full set of instructions on how to apply for funds on its Web site at http://www.grants.gov/applicants/apply_for_grants.jsp. The following provides simple guidance on what you will find on the Grants.gov/Apply site. Applicants are encouraged to read through the page entitled, “Complete Application Package” before getting started.

Grants.gov allows applicants to download the application package, instructions and forms that are incorporated in the instructions, and work off line. In addition to forms that are part of the application instructions, there will be a series of electronic forms that are provided utilizing an Adobe Reader.

Note for the Adobe Reader: Grants.gov is only compatible with versions 8.1.1 and above. Please do not use lower versions of the Adobe Reader.

a. Mandatory Fields on Adobe Reader Forms. In the Adobe Reader forms you will note fields that appear with a yellow background and red outline color. These fields are mandatory and must be completed to successfully submit your application.

b. Completion of SF-424 Fields First. The Adobe Reader forms are designed to fill in common required fields such as the applicant name and address, DUNS number, etc., on all Adobe Reader electronic forms. To trigger this feature, an applicant must complete the SF-424 information first. Once it is completed the information will transfer to the other forms.

c. Customer Support. The Grants.gov Web site provides customer support via (800) 518-4726 (this is a toll-free number) or through e-mail at support@grants.gov. The Contact Center is open from 7 a.m. to 9 p.m. Eastern time, Monday through Friday, except federal holidays, to address Grants.gov technology issues. For technical assistance to program related questions, contact the number listed in the Program Section of the program you are applying for.

4. Timely Receipt Requirements and Proof of Submission.

a. Electronic Submission. All applications must be received by http://www.grants.gov/applicants/apply_for_grants.jsp by the time and due date established for each program. Proof of submission is automatically recorded by Grants.gov. An electronic time stamp is generated within the system when the application is successfully received by Grants.gov. The applicant will receive an acknowledgment of receipt and a tracking number from Grants.gov with the successful transmission of their application. Applicants should print this receipt and save it, along with facsimile receipts for information provided by facsimile, as proof of submission. When NOAA successfully retrieves the application from Grants.gov, Grants.gov will provide an electronic acknowledgment of receipt to the e-mail address of the AOR. Proof of submission shall be the date and time that Grants.gov receives your application. Applications received by Grants.gov, after the established due date for the program will be considered late and will not be considered for funding by NOAA. Please Note: Validation or rejection of your application by Grants.gov may take up to 2 business days after your submission. Please consider the Grants.gov validation/rejection process in developing your application submission time line. The most common rejection of an application at Grants.gov is because the submitter was not authorized by their organization to submit the application.

NOAA suggests that applicants submit their applications during the operating hours of the Grants.gov, so that if there are questions concerning transmission, operators will be available to walk you through the process. Submitting your application during the Contact Center hours will also ensure that you have sufficient time for the application to complete its transmission prior to the application deadline. Applicants using dial-up connections should be aware that transmission could take some time before Grants.gov receives it. Grants.gov will provide either an error or a successfully received transmission message. Grants.gov reports that some applicants abort the transmission because they think that nothing is occurring during the transmission process. Please be patient and give the system time to process the application. Uploading and transmitting many files, particularly electronic forms with associated XML schemas, will take some time to be processed.

Evaluation Criteria and Selection Procedures

NOAA has standardized the evaluation and selection process for its competitive assistance programs. There are two separate sets of evaluation criteria and selection procedures (see below), one for project proposals, and the other for fellowship, scholarship, and internship programs.

Project Proposals

Review and Selection Process. Some project proposals may include a pre-application process or submission of Letters of Intent that provides for feedback to interested applicants on their intended proposal; however, not all programs will include this requirement for a pre-application or Letter of Intent. If a program requires a pre-application or Letter of Intent, the deadline will be specified in the Application Deadline section.

Upon receipt of a full application by NOAA, an initial administrative review will be conducted to determine compliance with requirements and completeness of the application. A merit review will also be conducted by one mail reviewer and at least three peer review panel reviewers to produce a rank order of the proposals. Each reviewer will individually evaluate and rank proposals using the Evaluation Criteria set forth in this notice.

The NOAA Program Officer may review the ranking of the proposals and make recommendations to the Selecting Official based on the administrative and/or merit review(s) and selection factors listed below. The Selecting Official selects proposals after considering the administrative and/or merit review(s) and recommendations of the Program Officer. In making the final selections, the Selecting Official will award in rank order unless the proposal is justified to be selected out of rank order based upon one or more of the selection factors below. The Program Officer and/or Selecting Official may negotiate the funding level of the proposal. The Selecting Official makes final award recommendations to the Grants Officer authorized to obligate the funds.

Evaluation Criteria. The following criteria will be used to evaluate the proposals:

1. Importance and/or relevance and applicability of a proposed project to the program goals: This ascertains whether there is intrinsic value in the proposed work and/or relevance to NOAA, (other than NOAA), regional, state, or local activities.

2. Technical/scientific merit: This assesses whether the approach is technically sound and/or innovative, if the methods are appropriate, and whether there are clear project goals and objectives.

3. Overall qualifications of applicants: This ascertains whether the applicant possesses the necessary education, experience, training, facilities, and administrative resources to accomplish the project.

4. Project costs: The project's budget is evaluated to determine if it is realistic and commensurate with the project needs and timeframe.

5. Outreach and education: NOAA assesses whether this project provides a focused and effective education and outreach strategy regarding its mission to protect the Nation's natural resources.

Selection Factors. The merit review ratings will be used to provide a rank order to the Selecting Official for final funding recommendations. A Program Officer may first make recommendations to the Selecting Official applying the selection factors listed below. The Selecting Official shall award in the rank order unless the proposal is justified to be selected out of rank order based upon one or more of the following factors:

1. Availability of funding.

2. Balance/distribution of funds:

a. Geographically,

b. By type of institutions,

c. By type of partners,

d. By research areas, and

e. By project types.

3. Whether the project duplicates other projects funded or considered for funding by NOAA or other Federal agencies.

4. Program priorities and policy factors.

5. Applicant's prior award performance.

6. Partnerships and/or participation of targeted groups.

7. Adequacy of information necessary for NOAA to make a National Environmental Policy Act determination and draft necessary documentation before funding recommendations are made to the Grants Officer.

Fellowship, Scholarship and Internship Programs

Review and Selection Process. Some fellowship, scholarship and internship programs may include a pre-application process that requires interested applicants to submit Letters of Intent or pre-proposals; however, not all programs will include this pre-application requirement. If a program has a pre-application process, the process will be described in the Summary Description section of the announcement and the deadline will be specified in the Application Deadline section.

Upon receipt of a full application by NOAA, an initial administrative review will be conducted to determine compliance with requirements and completeness of the application. A merit review will also be conducted by one mail reviewer and at least three peer review panel reviewers to produce a rank order of the proposals. Each reviewer will individually evaluate and rank proposals using the Evaluation Criteria set forth in this notice.

The NOAA Program Officer may review the ranking of the proposals and make recommendations to the Selecting Official based on the administrative and/or merit review(s) and selection factors listed below. The Selecting Official selects proposals after considering the administrative and/or merit review(s) and recommendations of the Program Officer. In making the final selections, the Selecting Official will award in rank order unless the proposal is justified to be selected out of rank order based upon one or more of the selection factors below. The Program Officer and/or Selecting Official may negotiate the funding level of the proposal. The Selecting Official makes final award recommendations to the Grants Officer authorized to obligate the funds.

Evaluation Criteria. The following criteria will be used to evaluate the proposals:

1. Academic record and statement of career goals and objectives of the student.

2. Quality of project and applicability to program priorities.

3. Recommendations and/or endorsements of the student.

4. Additional relevant experience related to diversity of education; extra-curricular activities; honors and awards; and interpersonal, written, and oral communications skills.

5. Financial need of the student.

Selection Factors. The merit review ratings will be used to provide a rank order to the Selecting Official for final funding recommendations. A Program Officer may first make recommendations to the Selecting Official applying the selection factors listed below. The Selecting Official shall award in the rank order unless the proposal is justified to be selected out of rank order based upon one or more of the following factors:

1. Availability of funds.

2. Balance/distribution of funds:

a. Across academic disciplines,

b. By types of institutions, and

c. Geographically.

3. Program-specific objectives.

4. Degree in scientific area and type of degree sought.

IV. NOAA Project Competitions

National Marine Fisheries Service (NMFS)

1. Coral Reef Conservation Program Fishery Management Council Coral Reef Conservation Cooperative Agreements

Summary Description: The CRCP Fishery Management Council Coral Reef Conservation Cooperative Agreements (FMCCRCCA) provides funding to the Regional Fishery Management Councils for projects to conserve and manage coral reef fisheries, as authorized under the Coral Reef Conservation Act of 2000. Projects funded through the FMCCRCCA competition are for activities that (1) Provide better scientific information on the status of coral reef fisheries resources, critical habitats of importance to coral reef fishes, and the impacts of fishing on these species and habitats; (2) identify new management approaches that protect coral reef biodiversity and ecosystem function through regulation of fishing and other extractive uses; and (3) incorporate conservation and sustainable management measures into existing or new fishery management plans for coral reef species. Proposals selected for funding through this solicitation will be implemented through a multi-year cooperative agreement. The role of NOAA in these cooperative agreements is to help identify potential projects that reduce impacts of fishing on coral reef ecosystems, strengthen the development and implementation of the projects, and assist in coordination of these efforts with state, territory or commonwealth management authorities and various coral reef user groups. Approximately $1,500,000 is expected to be available for FMCCRCCA in fiscal year 2011. The NOAA Coral Reef Conservation Program anticipates that awards for this competition will range from $125,000-$700,000 per a year.

Funding Availability: This solicitation announces that approximately $1,500,000 is expected to be available for cooperative agreements in support coral reef conservation activities for the FMCCRCCA competition in fiscal year 2011. Actual funding availability for this program is contingent upon fiscal year 2011 Congressional appropriations. Annual funding is anticipated to maintain the cooperative agreements for up to 3 years duration, but this is dependent upon the level of funding made available by Congress. The CRCP anticipates that typical awards will range from about $125,000 to $700,000 for each year; NOAA will not accept proposals for over $700,000/year under this solicitation. Each Council may fund one full time staff member working exclusively on coral reef conservation for up to $125,000/year. Funds for applications approved by NOAA will be awarded as new cooperative agreements through the NMFS Office of Habitat Conservation (HC). The amount of funding for each award will depend on the number of eligible applications received, the amount of funds requested for each project, the merit and ranking of the proposals, and the amount of funds made available to the CRCP by Congress. The funds have not yet been appropriated for this program, and there is no guarantee that sufficient funds will be available to make awards for all qualified projects. Publication of this notice does not oblige NOAA to award any specific project or to obligate any available funds.

Statutory Authority: Authority for the NOAA Coral Reef Conservation Grant Program is provided by Section 6403 (Coral Reef Conservation Program) of the Coral Reef Conservation Act of 2000 (16 U.S.C. 6401 et seq).

Catalog of Federal Domestic Assistance (CFDA) Number: 11.441, Regional Fishery Management Councils

Application Deadline: Applications must be submitted to http://www.grants.gov by 5 p.m. EDT on November 1, 2010 to be considered for funding. For applications submitted through Grants.gov, a date and time receipt indication is included and will be the basis of determining timeliness. If Grants.gov cannot be reasonably used due to the unavailability of internet access, applications must be postmarked, or provided to a delivery service and documented with a receipt by November 1, 2010. Applications postmarked or provided to a delivery service after that time will not be accepted for funding. Applications submitted via U.S. Postal Service must have an official postmark; private metered postmarks are not acceptable. In any event, applications received later than 15 business days following the postmarked closing date will not be accepted. Please address applications sent by mail to: Jennifer Koss, NOAA Coral Reef Conservation Program, NOAA Fisheries, Office of Habitat Conservation (F/HC), 1315 East West Highway, Silver Spring, MD 20910. ATTN: Coral Reef Conservation Applications. Applicants submitted by mail are required to include original signed copies of the financial assistance forms. Electronic copies of the project narrative and budget narrative are requested with the submission of a paper application. Please submit these to Jennifer.Koss@noaa.gov. There will be no extensions beyond these dates. If an application is not submitted through the process described above, it will not be reviewed or considered for FY 2011 funding. All applicants, both electronic and paper, should be aware that adequate time must be factored into applicant schedules for delivery of the application. Please Note: Validation or rejection of your application by Grants.gov may take up to 2 business days after submission. Please consider this process in developing your submission timeline. Paper applicants should allow adequate time to ensure a paper application will be received on time, taking into account that guaranteed overnight carriers are not always able to fulfill their guarantees.

Address for Submitting Proposals: Applications should be submitted via http://www.grants.gov. If Grants.gov cannot be reasonably used, applications must postmarked by November 1, 2010. Send to: Jennifer Koss, NOAA Coral Reef Conservation Program, NOAA Fisheries, Office of Habitat Conservation (F/HC), 1315 East West Highway, Silver Spring, MD 20910. ATTN: Coral Reef Conservation Applications.

Information Contacts: Technical point of contact for CRCP Fishery Management Council Coral Reef Conservation Cooperative Agreements is Jennifer Koss, 301-713-4300 or e-mail at Jennifer.Koss@noaa.gov.

Eligibility: Eligible applicants are limited to the Caribbean Fishery Management Council, the Gulf of Mexico Fishery Management Council, the South Atlantic Fishery Management Council, and the Western Pacific Regional Fishery Management Council.

Cost Sharing Requirements: The NOAA Coral Reef Conservation Grant Program (under the authority of the Coral Reef Conservation Act (Act) of 2000) is subject to the matching fund requirements described below. As per section 6403(b)(1) of the Act, funds for any coral conservation project funded under this Grant Program may not exceed 50 percent of the total cost of the award. Therefore, any coral conservation project under this Grant Program requires a 1:1 contribution of matching funds. As per section 6403(b)(2) of the Coral Reef Conservation Act of 2000, the NOAA Administrator may waive all or part of the matching requirement if the Administrator determines that the project meets the following two requirements: 1. No reasonable means are available through which an applicant can meet the matching requirement, and 2. The probable benefit of such project outweighs the public interest in such matching requirement. The CRCP recognizes that the Councils have no viable means of meeting the matching requirement 6403(b)(1) as the Fishery Management Councils' budgets are composed of entirely federal funds. Therefore, the CRCP will waive the matching requirement as per section 6403(b)(2).

Intergovernmental Review: Applications under this Grant Program are subject to Executive Order 12372, Intergovernmental Review of Programs. Any applicant submitting an application for funding is required to complete item 16 on SF-424 regarding clearance by the State Single Point of Contact established as a result of EO 12372. For more information, please visit http://www.whitehouse.gov/omb/grants/spoc.html.

2. Fiscal Year 2011 Community-Based Marine Debris Removal Project Grants

Summary Description: The NOAA Marine Debris Program, authorized in the Marine Debris Research, Prevention, and Reduction Act (MDRPR Act, 33 U.S.C. 1951 et seq.), provides funding to catalyze the implementation of locally driven, community-based marine debris prevention, assessment and removal projects that will benefit coastal habitat, waterways, and NOAA trust resources. Funding for this purpose comes through the NOAA Marine Debris Program as appropriations to the Office of Response and Restoration, National Ocean Service. The funding is, in part, administered through a grant competition with the NOAA Restoration Center's Community-based Restoration Program. Projects awarded through this grant competition have strong on-the-ground habitat components involving the removal of marine debris and derelict fishing gear, as well as activities that provide social benefits for people and their communities in addition to long-term ecological habitat improvements for NOAA trust resources. Through this solicitation NOAA identifies marine debris removal projects, strengthens the development and implementation of habitat restoration through community-based marine debris removal, and fosters awareness of the effects of marine debris to further the conservation of living marine resource habitats. Successful proposals through this solicitation will be funded through a cooperative agreement. Funding of up to $2,000,000 is expected to be available for Community-based Marine Debris Removal Project Grants in FY2011. Typical awards will range from $15,000 to $150,000.

Funding Availability: This solicitation announces that funding of up to $2,000,000 is expected to be available for Community-based Marine Removal Project Grants in FY2011. Actual funding availability for this program is contingent upon Fiscal Year 2011 Congressional appropriations. Typical project awards will range from $15,000 to $150,000; NOAA will not accept proposals for less than $15,000 or proposals for more than $250,000 under this solicitation. There is no guarantee that sufficient funds will be available to make awards for all proposals. The number of awards to be made as a result of this solicitation will depend on the number of eligible applications received, the amount of funds requested for initiating marine debris removal projects by the applicants, the merit and ranking of the proposals, and the amount of funds made available to NOAA by Congress. NOAA anticipates that between 10 and 15 awards will be made as a result of this solicitation. In FY 2009, the latest year for which information is available, 13 applications were funded, ranging from $35,500 to $170,000. The total grant funding level was nearly $1 million, which was matched by over $1.5 million. The exact amount of funds that may be awarded will be determined in pre-award negotiations between the applicant and NOAA representatives. Publication of this document does not obligate NOAA to award any specific project or obligate all or any part of any available funds.

Statutory Authority: 33 U.S.C. 1951 et seq.

Catalog of Federal Domestic Assistance (CFDA) Number: 11.463, Habitat Conservation.

Application Deadline: Full proposals must be received and validated by Grants.gov, postmarked, or provided to a delivery service on or before 11:59 p.m. EDT, November 1, 2010. Please Note: Validation or rejection of your application by Grants.gov may take up to 2 business days after submission. Please consider this process in developing your submission timeline. Applications postmarked or provided to a delivery service after that time will not be considered for funding. Applications submitted via the U.S. Postal Service must have an official postmark; private metered postmarks are not acceptable. In any event, applications received later than 15 business days following the postmark closing date will not be accepted. No facsimile or electronic mail applications will be accepted. Applications that are aligned with Community-based Marine Debris Removal Project Grants that have been submitted directly to other NOAA grants programs or as part of another NOAA grant may be considered under this solicitation.

Address for Submitting Proposals: To apply for this NOAA funding opportunity, please submit an electronic application to http://www.grants.gov. If the applicant does not have Internet access, a hard copy application with the SF-424 bearing an original, ink signature (blue ink preferred) must be postmarked, or provided to a delivery service and documented with a receipt, by 11:59 p.m. EDT, November 1, 2010, and sent to: Tom Barry, NOAA Restoration Center (F/HC3), ATTN: MDP Project Applications, 1315 East West Highway, Rm. 15864, Silver Spring, MD 20910.

Information Contacts: For further information contact Tom Barry (Tom.Barry@noaa.gov, 301-713-0174) or David Landsman or (David.Landsman@noaa.gov, 301-713-0174).

Eligibility: Eligible applicants are institutions of higher education, non-profit organizations, commercial (for profit) organizations, organizations under the jurisdiction of foreign governments, international organizations, and state, local and Indian tribal governments whose projects have the potential to benefit NOAA trust resources. Applications from Federal agencies or employees of Federal agencies will not be considered. Interested federal agencies are strongly encouraged to work with states, non-governmental organizations, national service clubs or youth corps organizations and others that are eligible to apply. The Department of Commerce/National Oceanic and Atmospheric Administration (DOC/NOAA) is strongly committed to broadening the participation of historically black colleges and universities, Hispanic serving institutions, tribal colleges and universities, and institutions that work in under-served areas. NOAA encourages proposals involving any of the above institutions.

Cost Sharing Requirements: A major goal of the NOAA Marine Debris Program is to provide seed money to projects that leverage funds and other contributions from a broad public and private sector to implement locally important marine debris removal activities to benefit living marine resources. To this end, the MDRPR Act requires applicants to provide a minimum 1:1 ratio of matching contributions to NOAA funds requested to conduct the proposed project. In addition to formal match, NOAA strongly encourages applicants to leverage as much additional investment as possible. Match can come from a variety of public and private sources and can include in-kind goods and services such as private boat use and volunteer labor. To meet the 1:1 match requirement, applicants are permitted to combine contributions from non-Federal partners, as long as such contributions are not being used to match any other funds and are available within the project period stated in the application. Federal sources cannot be considered for matching funds, but can be described in the budget narrative to demonstrate additional leverage. Applicants are also permitted to apply federally negotiated indirect costs in excess of federal share limits as described in Section IV.E.2. “Indirect Costs” for the FFO announcement. However, if the match requirement cannot be met, the MDRPR Act allows the Administrator to waive all or part of the matching requirement if the applicant can demonstrate that: (1) No reasonable means are available through which applicants can meet the matching requirement, and, (2) the probable benefit of such project outweighs the public interest in such matching requirement. To request this match waiver, the applicant must provide a match waiver request and detailed justification at the time the proposal is submitted explaining the need for the waiver. This explanation must include descriptions of attempts to obtain sources of matching funds, how the benefit of the project outweighs the public interest in providing match, and any other extenuating circumstances preventing the incorporation or local availability of match. The MDRPR Act also allows the Administrator to authorize, as appropriate, the non-federal share of the cost of a project to include money paid pursuant to, or the value of any in-kind service performed under, an administrative order on consent or judicial consent decree that will remove or prevent marine debris. In addition, under 48 U.S.C. 10.1469a(d), any department or agency may waive any requirement for matching funds otherwise required by law to be provided by an Insular Area (defined here as the U.S. Virgin Islands, Guam, American Samoa, and the Commonwealth of the Northern Mariana Islands). Notwithstanding any other provisions herein, and in accordance with 48 U.S.C. 1469a(d), the Marine Debris Program may waive any requirement for local matching funds to Insular Areas. Eligible applicants choosing to apply the waiver in 48 U.S.C. 1469a(d) must include a letter requesting a waiver that demonstrates that their project meets the requirements of 48 U.S.C. 1469a(d). However, if available, the inclusion of matching contributions is encouraged. All applicants should note that cost sharing is an element considered in Evaluation Criterion #4, “Project Costs.” Applicants whose proposals are selected for funding will be bound by the percentage of cost sharing reflected in the award document signed by the NOAA Grants Officer. Successful applicants should be prepared to carefully document matching contributions, including the names of participating volunteers and the overall number of volunteer or community participation hours devoted to individual marine debris removal projects. Letters of commitment for any secured resources expected to be used as match for an award should be submitted as an attachment to the application.

Intergovernmental Review: Applications submitted by state and local governments are subject to the provisions of Executive Order 12372, “Intergovernmental Review of Programs.” Any state or local government submitting an application for funding is required to complete item 16 on SF-424 regarding clearance by the State Single Point of Contact (SPOC) established as a result of EO 12372. To find out about and comply with a State's process under EO 12372, the names, addresses and phone numbers of participating SPOC's are listed in the Office of Management and Budget's home page at: http://www.whitehouse.gov/omb/grants/spoc.html.

3. Fiscal Year 2011 Open Rivers Initiative

Summary Description: The NOAA Open Rivers Initiative (ORI) provides funding and technical assistance to catalyze the implementation of locally-driven projects to remove dams and other river barriers, in order to benefit living marine and coastal resources, particularly diadromous fish. Projects funded through the Open Rivers Initiative must feature strong on-the-ground habitat restoration components that foster economic, educational, and social benefits for citizens and their communities in addition to long-term ecological habitat improvements for NOAA trust resources. Proposals selected for funding through this solicitation will be implemented through a cooperative agreement. Funding of up to $6,000,000 is expected to be available for ORI Project Grants in FY 2011. The NOAA Restoration Center within the Office of Habitat Conservation will administer this grant initiative, and anticipates that typical awards will range from $200,000 to $750,000. Although a select few may fall outside of this range, project proposals requesting less than $100,000 or greater than $3,000,000 will not be accepted or reviewed.

Funding Availability: This solicitation announces that funding of up to $6,000,000 is expected to be available for Open Rivers Initiative Project Grants in FY 2011. Actual funding availability for this program is contingent upon Fiscal Year 2011 Congressional appropriations. NOAA anticipates that typical project awards will range from $200,000 to $750,000; proposals requesting less than $100,000 or more than $3,000,000 will not be accepted under this solicitation. NOAA does not guarantee that sufficient funds will be available to make awards for all proposals. The number of awards to be made as a result of this solicitation will depend on the number of eligible applications received, the amount of funds requested by the applicants, the merit and ranking of the proposals, and the amount of funds made available to the ORI by Congress. NOAA anticipates that between 10 and 15 awards will be made as a result of this solicitation. The exact amount of funds that may be awarded will be determined in pre-award negotiations between the applicant and NOAA representatives. Publication of this document does not obligate NOAA to award any specific project or obligate all or any parts of any available funds.

Statutory Authority: The Secretary of Commerce is authorized under the Fish and Wildlife Coordination Act, 16 U.S.C. 661, as amended by the Reorganization Plan No. 4 of 1970, to provide grants or cooperative agreements for fisheries habitat restoration. The Secretary of Commerce is also authorized under the Magnuson-Stevens Fishery Conservation and Management Reauthorization Act of 2006 (H.R. 5946) to provide funding and technical expertise for fisheries and coastal habitat restoration and to promote significant community support and volunteer participation in such activities.

Catalog of Federal Domestic Assistance (CFDA) Number: 11.463, Habitat Conservation.

Application Deadline: Applications must be received by http://www.grants.gov, postmarked, or provided to a delivery service by 11:59 p.m. Eastern Standard Time (EST) on November 17, 2010. Note: It may take http://www.grants.gov up to two (2) business days to validate or reject an application. Please keep this in mind when developing your submission timeline. Use of U.S. mail or another delivery service must be documented with a receipt. Applications received later than 15 business days following the postmark closing date will not be accepted. No facsimile or electronic mail applications will be accepted. See Section IV.F. “Other Submission Requirements” of the FFO announcement for complete mailing information.

Address for Submitting Proposals: To apply for this NOAA funding opportunity, please submit an electronic application to http://www.grants.gov. If Grants.gov cannot be used, a hard copy application with the SF424 signed in ink (blue ink is preferred) must be postmarked or provided to a delivery service and documented with a receipt by November 17, 2010 and sent to: NOAA Restoration Center (F/HC3), Office of Habitat Conservation, NOAA Fisheries, 1315 East West Highway, Rm. 15749, Silver Spring, MD 20910, ATTN: Open Rivers Initiative Project Applications. Applications postmarked or provided to a delivery service after November 17, 2010 will not be considered for funding. Applications submitted via the U.S. Postal Service must have an official postmark; private metered postmarks are not acceptable. In any event, applications received later than 15 business days following the postmark closing date will not be accepted. No facsimile or electronic mail applications will be accepted. Paper applications should be printed on one side only, on 8.5″ x 11″ paper, and should not be bound in any manner.

Information Contacts: For further information contact Tisa Shostik (Tisa.Shostik@noaa.gov) at (301) 713-0174 x184 or Cathy Bozek (Cathy.Bozek@noaa.gov) at (301) 713-0174 x150. Potential applicants are invited to contact NOAA Restoration Center staff before submitting an application to discuss the applicability of project ideas to the goals and objectives of ORI. Additional information on the ORI can be found on http://www.nmfs.noaa.gov/habitat/restoration.

Eligibility: Eligible applicants are institutions of higher education, non-profits, industry and commercial (for profit) organizations, organizations under the jurisdiction of foreign governments, international organizations, and state, local and Indian tribal governments whose projects have the potential to benefit NOAA trust resources. Applications from Federal agencies or employees of Federal agencies will not be considered. Federal agencies are strongly encouraged to work with states, non-governmental organizations, national service clubs or youth corps organizations and others entities that are eligible to apply. The Department of Commerce/National Oceanic and Atmospheric Administration (DOC/NOAA) is strongly committed to broadening the participation of historically black colleges and universities, Hispanic-serving institutions, tribal colleges and universities, and institutions that work in under-served areas. The ORI encourages proposals from or involving any of the above institutions.

Cost Sharing Requirements: A major goal of the ORI is to provide seed money for projects that leverage funds and other contributions from a broad public and private sector to implement locally important barrier removals to benefit living marine and coastal resources. To this end, applicants are encouraged to demonstrate a 1:1 non-federal match for ORI funds requested to conduct the proposed project. Applicants with less than 1:1 match will not be disqualified, however, applicants should note that cost sharing is an element considered in Evaluation Criterion #4 “Project Costs” (Section V.A.4. located in the FFO announcement). Match to NOAA funds can come from a variety of public and private sources and can include in-kind goods and services and volunteer labor. Applicants are permitted to combine contributions from non-federal partners, as long as such contributions are not being used to match any other federal funds and are available within the project period stated in the application. Those sources cannot be considered for matching funds, but can be described in the budget narrative to demonstrate additional leverage. Applicants are also permitted to apply federally negotiated indirect costs in excess of Federal share limits as described in Section IV.E.2.”Indirect Costs” in the FFO announcement. Applicants whose proposals are selected for funding will be bound by the percentage of cost sharing reflected in the award document signed by the NOAA Grants Officer. Successful applicants should be prepared to carefully document matching contributions, including the overall number of volunteers and in-kind participation hours devoted to individual barrier removal projects. Letters of commitment for any secured resources that will be used as match for an award under this solicitation should be submitted as an attachment to the application, see Section IV.B. of the FFO announcement.

Intergovernmental Review: Applications under this initiative are subject to the provisions of Executive Order 12372, “Intergovernmental Review of Programs.” Any applicant submitting an application for funding is required to complete item 16 on SF-424 regarding clearance by the State Single Point of Contact (SPOC) established as a result of E.O. 12372. To find out about and comply with a State's process under E.O. 12372, the names, addresses and phone numbers of participating SPOC's are listed on the Office of Management and Budget's home page at: http://www.whitehouse.gov/omb/grants/spoc.html.

4. Fiscal Year 2011 NOAA Chesapeake Bay Watershed Education and Training (BWET)

Summary Description: B-WET Chesapeake is a competitive grant program that supports existing, high quality environmental education programs, fosters the growth of new, innovative programs, and encourages capacity building and partnership development for environmental education programs throughout the entire Chesapeake Bay watershed. Successful projects advance the goals of the NOAA Education Strategic Plan and Citizen Stewardship components of Chesapeake Bay Executive Order by providing hands-on environmental education about issues affecting the Chesapeake Bay watershed for students, related professional development for teachers, and/or capacity building for watershed education. These Meaningful Watershed Educational Experiences (MWEEs) integrate field experiences with classroom activities and instruction in NOAA-related content.

Funding Availability: This solicitation announces that approximately $3.5M may be available in FY 2011 in award amounts to be determined by the proposals and available funds. Funding is anticipated to maintain partnerships for up to 3 years duration, but is dependent on funding made available annually by Congress. The NCBO anticipates that typical awards for B-WET will range from $50,000 to $200,000 annually. Applications with budgets in which the total share requested from NOAA for all years of the project is more than $675,000 or less than $150,000 for the direct and indirect costs of the proposed project will not be considered for review. Projects requesting less than $50,000 annually or more than $225,000 annually will not be considered for review. No single organization (as determined by tax identification number) is eligible to receive more than 10% of the funds awarded in any given year. There is no guarantee that sufficient funds will be available to make awards for all qualified projects. The exact amount of funds that may be awarded will be determined in pre-award negotiations between the applicant and NOAA representatives. Publication of this notice does not oblige NOAA to award any specific project or to obligate any available funds. If applicants incur any costs prior to an award being made, they do so at their own risk of not being reimbursed by the government. Notwithstanding verbal or written assurance that may have been received, there is no obligation on the part of NOAA to cover pre-award costs unless approved by the Grants Officer as part of the terms when the award is made. Applicants are hereby given notice that funds have not yet been appropriated for this program.

Statutory Authority: Under 33 U.S.C. 893a(a), the Administrator of the National Oceanic and Atmospheric Administration is authorized to conduct, develop, support, promote, and coordinate formal and informal educational activities at all levels to enhance public awareness and understanding of ocean, coastal, Great Lakes, and atmospheric science and stewardship by the general public and other coastal stakeholders, including underrepresented groups in ocean and atmospheric science and policy careers. In conducting those activities, the Administrator shall build upon the educational programs and activities of the agency.

Catalog of Federal Domestic Assistance (CFDA) Number: 11.457, Chesapeake Bay Studies

Application Deadline: Proposals must be received and validated by Grants.gov on or before 11:59 p.m. EDT or received (not postmarked) by mail or in person by 5 p.m. EDT on October 15, 2010. Hard copies and electronic submissions received after the deadline will not be considered for funding. Please Note: Validation or rejection of your application by Grants.gov may take up to 2 business days after submission. Please consider this process in developing your submission timeline.

Address for Submitting Proposals: To apply for this NOAA funding opportunity, please submit an electronic application to http://www.grants.gov. If the applicant does not have Internet access, a hard copy may be submitted to: NOAA Chesapeake Bay Office; 410 Severn Avenue, Suite 107A, Annapolis, MD 21403.

Information Contacts: Please visit the B-WET Web site for further information at: http://chesapeakebay.noaa.gov/b-wet.html or contact Kevin Schabow, NOAA Chesapeake Bay Office; 410 Severn Avenue, Suite 107A, Annapolis, MD 21403, or by phone at 410-295-3145, or fax to 410-267-5666, or via internet at Kevin.Schabow@noaa.gov.

Eligibility: Eligible applicants are K-12 public and independent schools and school systems, institutions of higher education, community-based and nonprofit organizations, state or local government agencies, interstate agencies, and Indian tribal governments in the Chesapeake Bay watershed. For-profit organizations, foreign institutions, foreign organizations and foreign government agencies are not eligible to apply. Federal agencies are not eligible to receive assistance under this announcement, but may be project partners. The Department of Commerce/National Oceanic and Atmospheric Administration (DOC/NOAA) is strongly committed to broadening the participation of historically black colleges and universities, Hispanic serving institutions, tribal colleges and universities, and institutions that work in underserved areas. The NCBO encourages proposals involving any of the above institutions.

Cost Sharing Requirements: No cost sharing is required under this program, however, the NCBO strongly encourages applicants to match federal funds with at least 25% in non-federal funds. Funds from other sources may not be considered matching funds. The nature of the contribution (cash versus in-kind) and the amount of matching funds will be taken into consideration in the review process with preference given to proposals that have a cash match.

Intergovernmental Review: Applications under this program are subject to Executive Order 12372, Intergovernmental Review of Programs.

5. NOAA New England Bay Watershed Education and Training (B-WET) Program

Summary Description: NOAA B-WET is an environmental education program that promotes locally relevant, experiential learning in the K-12 environment. A funded project provides meaningful watershed educational experiences for students, related professional development for teachers, and helps to support regional education and environmental priorities in New England.

Funding Availability: It is anticipated that approximately $300,000 will be available in Fiscal Year (FY) 2011 for new awards. NOAA anticipates making approximately 2 to 5 new awards during FY 2011. NOAA will consider only projects with duration of 1 to 3 years. The total amount that may be requested from NOAA shall not exceed $80,000 per year and $240,000 for all years of the proposed project. The minimum amount that must be requested from NOAA for one year is $10,000 and for all years is $30,000. Applications requesting support from NOAA of less than $10,000 for one year or more than $80,000 per year and $240,000 total for the duration of the project will not be considered for funding. There is no guarantee that sufficient funds will be available to make awards for all qualified projects. The exact amount of funds that may be awarded will be determined in pre-award negotiations between the applicant and NOAA representatives. Publication of this notice does not oblige NOAA to award any specific project or to obligate any available funds. If applicants incur any costs prior to an award being made, they do so at their own risk of not being reimbursed by the government. Notwithstanding verbal or written assurance that may have been received, there is no obligation on the part of NOAA to cover pre-award costs unless approved by the Grants Officer as part of the terms when the award is made.

Statutory Authority: Under 33 U.S.C. 893a(a), the Administrator of the National Oceanic and Atmospheric Administration is authorized to conduct, develop, support, promote, and coordinate formal and informal educational activities at all levels to enhance public awareness and understanding of ocean, coastal, Great Lakes, and atmospheric science and stewardship by the general public and other coastal stakeholders, including underrepresented groups in ocean and atmospheric science and policy careers. In conducting those activities, the Administrator shall build upon the educational programs and activities of the agency.

Catalog of Federal Domestic Assistance (CFDA) Number: 11.469, Congressionally Identified Awards and Projects

Application Deadline: The deadline for applications is 5 p.m. Eastern Daylight Time (EDT), October 8, 2010. Applications submitted through Grants.gov will produce an automated receipt that provides the date and time of submission. Hard copy applications will be hand stamped with time and date when received in the NOAA Fisheries, Northeast Regional Office (Attn: New England B-WET Program). Note that late-arriving hard copy applications provided to a delivery service on or before 5 p.m., EDT October 8, 2010 will be accepted for review if the applicant can document that the application was provided to the guaranteed delivery service by the specified closing date and time, and if the proposals are received NOAA Fisheries, Northeast Regional Office by 5 p.m., EDT, no later than 3 business days following the closing date. Applicants are recommended to send hard copies via expedited shipping methods (e.g., Airborne Express, DHL, FedEx, UPS, etc.). No e-mail and/or facsimile pre-proposals and/or full applications will be accepted. Applications that are late or are received by fax or e-mail will not be considered for review. Please Note: Validation or rejection of your application by Grants.gov may take up to 2 business days after submission. Please consider this process in developing your submission timeline. Paper applicants should allow adequate time to ensure a paper application will be received on time, taking into account that guaranteed overnight carriers are not always able to fulfill their guarantees.

Address for Submitting Proposals: Submissions of electronic applications are strongly encouraged and should be submitted to: http://www.grants.gov/. If the applicant does not have Internet access, paper applications may be submitted to: New England B-WET Program, NOAA Fisheries, 55 Great Republic Drive, Gloucester, MA 01930-2276.

Paper application packages are available on the NOAA Grants Management Web site at: http://www.ago.noaa.gov/ago/grants/forms.cfm. If the applicant has difficulty accessing Grants.gov or downloading the required forms from the NOAA Web site, the applicant should contact: Kathi Rodrigues, New England B-WET Program Manager, by phone at 978-281-9324 or e-mail at: kathi.rodrigues@noaa.gov.

Grants.gov requires applicants to register with the system prior to submitting an application. This registration process can take several weeks and involves multiple steps. In order to allow sufficient time for this process, you should register as soon as you decide to apply, even if you are not yet ready to submit your proposal. If an applicant has problems downloading the application forms from Grants.gov, contact Grants.gov Customer Support at 1-800-518-4726 or support@grants.gov. For non-Windows computer systems, please see http://www.grants.gov/MacSupport for information on how to download and submit an application through Grants.gov.

Information Contacts: Kathi Rodrigues, New England B-WET Program Manager, NOAA, 55 Great Republic Drive, Gloucester, MA 01930-2276, or via e-mail at kathi.rodrigues@noaa.gov. Questions about this opportunity may also be directed to Bronwen Rice, B-WET National Coordinator, by phone at 202-482-6797 or e-mail at bronwen.rice@noaa.gov.

Eligibility: Eligible applicants are K-12 public and independent schools and school systems, institutions of higher education, community-based and non-profit organizations, state or local government agencies, interstate agencies, and Indian tribal governments. The Department of Commerce/National Oceanic and Atmospheric Administration (DOC/NOAA) is strongly committed to broadening the participation of underrepresented groups such as historically black colleges and universities, Hispanic serving institutions, tribal colleges and universities, and institutions that service underserved areas. Participation by these groups and institutions will be taken into consideration during review. While applicants do not need to be from the targeted geographical region specified in the program objectives (i.e., the New England states), they work with target audiences in these areas.

Cost Sharing Requirements: No cost sharing is required under this program, however, the NOAA B-WET Program strongly encourages applicants include a 25% or higher match. Funds from other awards may not be considered matching funds. The nature of the contribution (cash vs. in-kind) and the amount of matching funds will be taken into consideration during the review process. Priority selection is given to proposals that propose cash rather than in-kind services.

Intergovernmental Review: Applications under this program are not subject to Executive Order 12372, “Intergovernmental Review of Programs.”

6. Fiscal Year 2011 Monkfish Research Set-Aside

Summary Description: NOAA's National Marine Fisheries Service (NMFS) is soliciting monkfish research proposals to utilize 500 Monkfish Days-at-Sea (DAS) that have been set-aside by the New England and Mid-Atlantic Fishery Management Councils (Councils) to fund monkfish research endeavors through the 2011 Monkfish Research Set-Aside (RSA) Program. No funds are provided for research under this notification. Rather, proceeds generated from the sale of monkfish harvested during a set-aside DAS is used to fund research activities and compensate vessels that participate in research activities and/or harvest set-aside quota. Projects funded under the Monkfish RSA Program must enhance the knowledge of the monkfish fishery resource or contribute to the body of information on which monkfish management decisions are made. Priority will be given to monkfish research proposals that investigate research priorities identified by the Councils and detailed under the Program Priorities section of the FFO announcement.

Funding Availability: DAS will be awarded to successful applicants. No funds are provided for research under this notification. Funds generated from landings harvested and sold under the Monkfish RSA Program shall be used to cover the cost of research activities, including vessel costs. For example, the funds may be used to pay for gear modifications, monitoring equipment, the salaries of research personnel, or vessel operation costs. The Government is not liable for any costs incurred by the researcher or vessel owner should the sale of catch not fully reimburse the researcher or vessel owner for their expenses. Any additional funds generated through the sale of set-aside landings, above the cost of the research activities, shall be retained by the vessel owner as compensation for the use of his/her vessel. The Government (i.e., NMFS) may issue an Exempted Fishing Permit (EFP), if needed, that may provide special fishing privileges in response to research proposals selected under this program. For example, in previous years, some successful applicants have requested, and were granted, exemption from monkfish DAS possession limits to make compensation fishing more efficient and cost effective. In such cases, applicants were authorized to harvest a maximum amount of monkfish by weight, or fish up to the number of awarded monkfish DAS, whichever came first. To obtain such an exemption, an EFP application must be submitted to the Northeast Regional Office, NMFS. Please be aware that EFP applications are reviewed on a case by case basis, and may be disapproved. For additional information contact Ryan Silva, Cooperative Research Liaison, at 978-281-9326, or ryan.silva@noaa.gov. Projects may not have more than 50 vessels authorized to conduct compensation fishing at any given time, unless sufficient rationale can demonstrate that more than 50 vessels are needed. In addition, principal investigators and project coordinators should be aware that it may take NMFS up to 4 weeks to process requests to revise the list of vessels that are authorized to conduct compensation fishing.

Statutory Authority: Statutory authority for this program is found under sections 303(b)(11), 402(e), and 404(c) of the Magnuson-Stevens Fishery Conservation and Management Act, 16 U.S.C. 1853(b)(11), 16 U.S.C. 1881a(e), and 16 U.S.C. 1881(c), respectively. The ability to set aside monkfish DAS for research purposes was established in the final rule implementing Amendment 2 to the Monkfish FMP, (70 FR 21927, April 28, 2005), codified at 50 CFR 648.92(c).

Catalog of Federal Domestic Assistance (CFDA) Number: 11.454, Unallied Management Projects.

Application Deadline: Full proposals must be received and validated by Grants.gov on or before 5 p.m. EST on August 30, 2010. Please Note: Validation or rejection of your application by Grants.gov may take up to 2 business days after submission. Please consider this process in developing your submission timeline. If an applicant does not have Internet access, hard copy proposals will be accepted, and date recorded when they are received in the program office. Electronic or hard copies received after the deadline will not be considered, and hard copy applications will be returned to the sender. Mark hard copy proposals “Attention-2011 Monkfish Research Set Aside Program.”

Address for Submitting Proposals: To apply for this NOAA funding opportunity, please submit an electronic application at http://www.grants.gov, and use the following funding opportunity #NMFS-NEFSC-2010-2001980. Applicants without Internet access may submit paper applications to: Cheryl Corbett, NMFS, Northeast Fisheries Science Center, 166 Water Street, Woods Hole, MA 02543, by phone 508-495-2070, fax 508-495-2004, or e-mail cheryl.corbett@noaa.gov.

Information Contacts: Information may be obtained from Paul Howard, Executive Director, New England Fishery Management Council (NEFMC), by phone 978-465-0492, or by fax 978-465-3116; Philip Haring, Senior Fishery Analyst, NEFMC, by phone 978-465-0492, or by e-mail at pharing@nefmc.org; or Cheryl Corbett, NMFS, Northeast Fisheries Science Center, phone 508-495-2070, fax 508-495-2004, or e-mail cheryl.corbett@noaa.gov, or from Ryan Silva, NMFS, Northeast Regional Office, Cooperative Research Liaison, phone (978) 281-9326, fax (978) 281-9326, e-mail ryan.silva@noaa.gov.

Eligibility: Eligible applicants include, but are not limited to, institutions of higher education, hospitals, other nonprofits, commercial organizations, individuals, state, local, and Native American tribal governments. Federal agencies and institutions are not eligible to receive assistance under this notice. Additionally, employees of any agency or Regional Fishery Management Council (Council) are ineligible to submit an application under this program. However, Council members who are not employees may submit an application. DOC/NOAA supports cultural and gender diversity and encourages women and minority individuals and groups to submit applications to the RSA program. In addition, DOC/NOAA is strongly committed to broadening the participation of historically black colleges and universities, Hispanic serving institutions, tribal colleges and universities, and institutions that work in underserved areas. DOC/NOAA encourages proposals involving any of the above institutions. DOC/NOAA encourages applications from members of the fishing community and applications that involve fishing community cooperation and participation.

Cost Sharing Requirements: None required.

Intergovernmental Review: Applicants will need to determine if their State participates in the intergovernmental review process. This information can be found at the following Web site: http://www.whitehouse.gov/omb/grants/spoc.html. This information will assist applicants in providing either a Yes or No response to Item 16 of the Application Form, SF-424, entitled “Application for Assistance.”

7. Fiscal Year 2011 Scallop Research Set-Aside

Summary Description: NOAA's National Marine Fisheries Service (NMFS) is soliciting Atlantic Sea Scallop (scallop) research proposals to utilize scallop Total Allowable Catch (TAC) and Days-at-Sea (DAS) that have been set-aside by the New England Fishery Management Council (Council) to fund scallop research endeavors through the 2011 Atlantic Sea Scallop Research Set-Aside (RSA) Program (March 1, 2011-February 29, 2012). No funds are provided for research under this notification. Rather, proceeds generated from the sale of scallops harvested under a set-aside quota are used to fund research activities and compensate vessels that participate in research activities and/or harvest set-aside quota. Projects funded under the Scallop RSA Program must enhance the knowledge of the scallop fishery resource or contribute to the body of information on which scallop management decisions are made. Priority will be given to scallop research proposals that investigate research priorities identified by the Council, which are detailed under the Program Priorities section of this announcement.

Funding Availability: Applicants must submit a budget that is based solely on monetary needs, which includes funds necessary to execute the research plan and funds necessary to compensate vessel owners harvesting set-aside quota. Upon project selection, NMFS will negotiate with successful applicants on the specific TAC and/or DAS award. Priority will be given primarily to the higher technically ranked proposal, although additional factors such as individual project needs and cost effectiveness may be considered during negotiations. NMFS will establish a common DAS catch rate and scallop price estimate, based on the best and most recent data available, to determine the amount of set-aside necessary to cover research and compensation fishing expenses. If a desired set-aside quota has been fully utilized by another applicant, TAC and/or DAS will be awarded from a different set-aside quota. Once all the TAC and/or DAS set-aside quotas have been awarded, or all qualified proposals have been funded, whichever occurs first, the selection process will end. No funds are provided for research under this notification. Funds generated from landings harvested and sold under the Scallop RSA Program shall be used to cover the cost of research activities, including vessel costs. For example, the funds may be used to pay for gear modifications, monitoring equipment, the salaries of research personnel, or vessel operation costs. The Government is not liable for any costs incurred by the researcher or vessel owner should the sale of catch not fully reimburse the researcher or vessel owner for their expenses. Any additional funds generated through the sale of set-aside landings, above the cost of the research activities, shall be retained by the vessel owner as compensation for the use of his/her vessel. The government (i.e., NMFS) will issue Letters of Authorization to eligible vessels identified by the Project Coordinator, which authorize such vessels to take access area and DAS compensation fishing trips, and exceed the vessels' normal scallop possession limit. Projects may not have more than 50 vessels authorized to conduct compensation fishing at any given time, unless sufficient rationale can demonstrate that more than 50 vessels are needed. In addition, principal investigators and project coordinators should be aware that it may take NMFS up to 4 weeks to process requests to revise the list of vessels that are authorized to conduct compensation fishing.

Statutory Authority: Statutory authority for this program is provided under sections 303(b)(11), 402(e), and 404(c) of the Magnuson-Stevens Fishery Conservation and Management Act, 16 U.S.C. 1853(b)(11), 16 U.S.C. 1881a(e), and 16 U.S.C. 1881(c), respectively. The ability to set aside scallop TAC and DAS is authorized through the scallop FMP 69FR 35193 (June 23, 2004) and implementing regulations at 50 CFR part 648 subpart D.

Catalog of Federal Domestic Assistance (CFDA) Number: 11.454, Unallied Management Projects

Application Deadline: Full proposals must be received and validated by Grants.gov on or before 5 p.m. EST on August 30, 2010. Please Note: Validation or rejection of your application by Grants.gov may take up to 2 business days after submission. Please consider this process in developing your submission timeline. If an applicant does not have Internet access, hard copy proposals will be accepted, and date recorded when they are received in the program office. Electronic or hard copies received after the deadline will not be considered, and hard copy applications will be returned to the sender. Mark hard copy proposals “Attention-2011 Scallop Research Set Aside Program.”

Address for Submitting Proposals: To apply for this NOAA funding opportunity, please submit an electronic application at http://www.grants.gov, and use the following funding opportunity #NMFS-NEFSC-2011-2002691. Applicants without Internet access may submit paper applications to: Cheryl Corbett, NMFS, Northeast Fisheries Science Center, 166 Water Street, Woods Hole, MA 02543, by phone 508-495-2070, fax 508-495-2004, or e-mail cheryl.corbett@noaa.gov.

Information Contacts: Information may be obtained from Deirdre Boelke, New England Fishery Management Council, phone (978) 465-0492, fax (978) 465-3116, or e-mail dboelke@nefmc.org, from Cheryl Corbett, NMFS, Northeast Fisheries Science Center, phone 508-495-2070, fax 508-495-2004, or e-mail cheryl.corbett@noaa.gov, or from Ryan Silva, NMFS, Northeast Regional Office, phone (978) 281-9326, fax (978) 281-9135, e-mail ryan.silva@noaa.gov.

Eligibility: Eligible applicants include, but are not limited to, institutions of higher education, hospitals, other nonprofits, commercial organizations, individuals, state, local, and Native American tribal governments. Federal agencies and institutions are not eligible to receive assistance under this notice. Additionally, employees of any agency or Regional Fishery Management (RFM) Council are ineligible to submit an application under this program. However, RFM Council members who are not employees may submit an application. DOC/NOAA supports cultural and gender diversity and encourages women and minority individuals and groups to submit applications to the RSA program. In addition, DOC/NOAA is strongly committed to broadening the participation of historically black colleges and universities, Hispanic serving institutions, tribal colleges, and universities, and institutions that work in underserved areas. DOC/NOAA encourages proposals involving any of the above institutions. DOC/NOAA encourages applications from members of the fishing community and applications that involve fishing community cooperation and participation.

Cost Sharing Requirements: None required.

Intergovernmental Review: Applicants will need to determine if their State participates in the intergovernmental review process. This information can be found at the following Web site: http://www.whitehouse.gov/omb/grants/spoc.html. This information will assist applicants in providing either a Yes or No response to Item 16 of the Application Form, SF-424, entitled “Application for Assistance.”

8. John H. Prescott Marine Mammal Rescue Assistance Grant Program (Prescott Grant Program) for Fiscal Year 2011

Summary Description: The NMFS Marine Mammal Health and Stranding Response Program is charged under the Marine Mammal Protection Act (MMPA) with facilitating the collection and dissemination of reference data on stranded marine mammals and health trends of marine mammal populations in the wild. The John H. Prescott Marine Mammal Rescue Assistance Grant Program is conducted by NOAA to provide assistance to eligible members of the National Marine Mammal Stranding Network to: (1) Support basic needs of organizations for response, treatment, and data collection from living and dead stranded marine mammals, (2) fund scientific research objectives designed to answer questions about marine mammal strandings, health, or rehabilitation techniques utilizing data from living and dead stranded marine mammals, and (3) support facility operations directly related to the recovery, treatment, and data collection from living and dead stranded marine mammals. This document describes how to submit proposals for funding in fiscal year (FY) 2011 and how NMFS will determine which proposals will be funded. This document should be read in its entirety, as some information has changed from the previous year.

Funding Availability: This solicitation announces that approximately $4,000,000 may be available for distribution under the FY 2011 annual competitive Prescott Grant Program. Applicants are hereby given notice that these funds have not yet been appropriated for this program. Therefore, exact dollar amounts cannot be given. There is no guarantee that sufficient funds will be available to make awards for all qualified projects. The maximum award for each grant cannot exceed $100,000, as is stated in the legislative language (16 U.S.C. 1421f-1). Funds may be set aside from the annual appropriation to provide for emergency assistance awards to eligible stranding network participants. These emergency funds will be available until expended. There is no limit on the number of proposals that can be submitted by the same stranding network participant during the FY2011 competitive grant cycle. However, stranding network participants will receive no more than two awards per year as part of the competitive program. The two awards must be for completely independent projects that are clearly separate in their objectives, goals, and budget requests and must be successful in the competitive review process. Eligible researchers applying as Principal Investigators, but not independently authorized under MMPA Section 112(c), MMPA Section 109(h) (50 CFR 216.22), or the National Contingency Plan for Response to Marine Mammal Unusual Mortality Events, can only receive one award per year as part of the competitive cycle. Authorized stranding network participants and researchers may be identified as Co-Investigators or collaborators on as many proposals as needed as long as no more than 100 percent of their time is funded through the Prescott Grant Program. In addition, Department of Commerce (DOC) and Department of Interior (DOI) employees may act as collaborators if they are responsible for performing analyses on data or samples collected under a Prescott award. See section I.F. of the FFO announcement for more information on Eligibility requirements. Publication of this notice does not oblige NOAA to award any specific project or to obligate any available funds. If an application for a financial assistance award is selected for funding, NOAA/NMFS has no obligation to provide any additional funding in connection with that award in subsequent years beyond the award period. If an applicant incurs any costs prior to receiving an award agreement signed by an authorized NOAA official, the applicant would do so solely at their own risk of these costs not being included under the award. Notwithstanding any verbal or written assurance that applicants have received, pre-award costs are not allowed under the award unless the Grants Officer approves them in accordance with 15 CFR 14.28.

Statutory Authority: 16 U.S.C. 1421 f-1.

Catalog of Federal Domestic Assistance (CFDA) Number: 11.439, Marine Mammal Data Program.

Application Deadline: Full proposals must be received and validated by Grants.gov, postmarked, or provided to a delivery service on or before 11:59 p.m. EDT, October 5, 2010. Applications submitted through Grants.gov are automatically stamped with the date and time of submission and will be the basis of determining timeliness. For applications submitted through Grants.gov, there will be two automated e-mail receipts sent to the application submitter with the date and time of submission. The first e-mail confirms receipt of the application. The second e-mail confirms that there are no errors with the application submission and that it has been forwarded to NOAA for further processing. If both e-mail confirmation receipts are not provided within two (2) days of application submission, contact the Grants.gov Help Desk at 1-800-518-4726 and Sarah Howlett, at sarah.howlett@noaa.gov. Please Note: It may take Grants.gov up to two (2) business days to validate or reject the application. Please consider this process in developing your submission timeline. Applicants are responsible for ensuring that all required elements have been appropriately submitted. Applications received after the deadline will be rejected without further consideration. Use of U.S. mail or another delivery service for hard copy applications must be documented with a receipt. No facsimile or electronic mail applications will be accepted.

Address for Submitting Proposals: Electronic applications must be submitted to Grants.gov. If the applicant does not have Internet access, paper applications may be submitted to: Prescott Grant Program, NOAA/NMFS/Office of Protected Resources (F/PR), 1315 East-West Highway, Room 13620, Silver Spring, MD 20910

Information Contacts: The points of contact are: Michelle Ordono and Sarah Howlett, Prescott Grant Program, NOAA/NMFS/Office of Protected Resources (F/PR), 1315 East-West Highway, Room 13620, Silver Spring, MD 20910; Phone: (301) 713-2322; or e-mail at Michelle.Ordono@noaa.gov or Sarah.Howlett@noaa.gov.

Eligibility: All eligible applicants must currently be an active, authorized participant or researcher in the National Marine Mammal Stranding Network. Eligible applicants must be: (1) Stranding Agreement (SA) holders or their designee organizations; (2) holders of researcher authorization letters issued by a NMFS Regional Administrator; or (3) an eligible state, or local government personnel or tribal personnel (pursuant to MMPA Section 109(h) (16 U.S.C. 1379(h)). An applicant cannot be a current full- or part-time employee or contractor of DOC or DOI.

In Good Standing Criteria. All eligible applicants must meet the following in good standing criteria: a. If the applicant is a designated Principal Investigator of an MMPA and/or Endangered Species Act (ESA) scientific research or enhancement permit holder, the applicant must have fulfilled all permit requirements. The applicant must not have any pending or outstanding enforcement actions under the MMPA or ESA. b. The applicant must have complied with the terms and responsibilities of the appropriate SA, MMPA Section 109(h) authorization, or researcher authorization letter. This includes, but is not limited to: (1) Completion of all reporting requirements; (2) cooperation with state, local, and officials; (3) cooperation with state and local officials in the disposition of stranded marine mammals; and (4) cooperation with other stranding network participants. c. The applicant must have cooperated in a timely manner with NMFS in collecting and submitting Level B and Level C data and samples, when requested. d. The applicant must not have any current enforcement investigation for the take of marine mammals contrary to MMPA/ESA regulations. e. The applicant must not have any pending NMFS notice of violation(s) regarding the policies governing the goals and operations of the Stranding Network and SA, if applicable (e.g., probation, suspension, or termination).

Category Specific Criteria. All eligibility criteria specified for the participant's category must be met in order for a proposal to be considered for funding. Organizations and individuals must meet the following eligibility criteria specific to their category of participation:

a. SA Holder Participant or SA Designee Participant: SA participants must be holding a current, active SA for stranding response and/or rehabilitation from a NMFS Regional Administrator or the Assistant Administrator. SA Designee participants must be holding a current, active letter of designation from a NMFS SA holder. Designees cannot request authorization for activities beyond the scope of what is authorized by the SA to the agreement holder.

b. Researcher Participant: Researcher participants must be holding a current, active authorizing letter for the proposed award period from the appropriate NMFS Regional Administrator or the Assistant Administrator to salvage stranded marine mammal specimens and parts or samples there for the purpose of utilization in scientific research (50 CFR 216.22). Persons authorized to salvage dead marine mammal specimens under this section must register the salvage with the appropriate NMFS Regional Office within 30 days after the taking occurs. Researchers who are authorized under an MMPA/ESA Scientific Research Permit must still obtain an authorizing letter from the Regional Stranding Coordinator in order to use parts or specimens from stranded animals. Researcher participants that would not require an authorizing letter from the NMFS Regional Administrator (i.e., they will be working with data only and not possessing samples or specimens) must still provide a letter of eligibility from the Regional Stranding Coordinator (see IV.B.8 of the FFO announcement). Researcher participants must also have designated Co-Investigator(s) that are active NMFS authorized stranding network participants in good standing, and provide documentation to this effect.

c. State, Local, Government Employees or Tribal Participants: State and local government officials or employees participating pursuant to MMPA Section 109(h) (16 U.S.C. 1379(h)) for marine mammal species not listed under the ESA must fulfill reporting obligations outlined in 50 CFR 216.22. Government officials must be involved in areas of geographic need (i.e., municipality or larger region with no existing SA holder).

Letter of Eligibility. All applicants must submit a letter of eligibility issued by the appropriate NMFS Regional Stranding Coordinator (or NMFS Regional Office). This letter is required in order to be considered for an award in this funding cycle. The letter of eligibility states that you are: (1) An eligible stranding network participant or researcher at the time of the application submission and during the award period; (2) in good standing; (3) have a history of participation in/with the stranding network or that your organization is from a local area with no pre-existing stranding response and/or rehabilitation capabilities. A copy of your SA or research authorization will not be considered as proof of eligibility. Any proposal that does not provide a letter from the NMFS Regional Stranding Coordinator will not be considered eligible and will not be considered for further review. Contact information for the NMFS Regional Stranding Coordinators to request this letter is available on the following Web site: http://www.nmfs.noaa.gov/pr/health/coordinators.htm, or you may contact the Program Office at the address in the Agency Contacts, Section VII of the FFO announcement.

We support cultural and gender diversity in our programs and encourage eligible women and minority individuals and groups to submit proposals. Furthermore, we recognize the interest of the Secretaries of Commerce and Interior in defining appropriate marine management policies and programs that meet the needs of the U.S. insular areas. We encourage proposals from eligible individuals, government entities, universities, colleges, and businesses in U.S. insular areas as defined by the MMPA (Section 3(14), 16 U.S.C. 1362). This includes the Commonwealth of Puerto Rico, the U.S. Virgin Islands, American Samoa, Guam, and the Commonwealth of the Northern Mariana Islands. We are strongly committed to broadening the participation of Minority Serving Institutions (MSIs), which include Historically Black Colleges and Universities, Hispanic Serving Institutions, Tribal Colleges and Universities, and institutions that work in undeserved areas in our programs. The DOC/NOAA/NMFS vision, mission, and goals are: to achieve full participation by MSIs; to advance the development of human potential; to strengthen the Nation's capacity to provide high-quality education; and to increase opportunities for MSIs to participate in, and benefit from, financial assistance programs. The Prescott Grant Program encourages all eligible applicants to include meaningful participation of MSIs whenever practicable. Applicants are not eligible to submit a proposal under this program if they are an employee of the DOC or DOI. Unsatisfactory performance under prior or current awards, including delinquency in submitting progress and financial reports, may result in proposals not being considered for funding under the Fiscal Year 2011 Prescott Grant Program.

Cost Sharing Requirements: All proposals submitted must provide a minimum cost share of 25 percent of the total budget (i.e., .25 × total project costs = total share). Therefore, the total share will be 75 percent or less of the total budget. For a proposed total share of $100,000, the minimum share is $33,334 (total budget of $133,334; .25 × $133, 334 = $33,334). For a proposed total share of $80,000, the minimum share is $26,667 (total budget of $106,667; .25 × $106,667 = $80,000). Cost share must be an integer, so please round up. The applicant can include a cost share for more than 25 percent of the total budget, but this obligation will be binding. In order to reduce calculation error when determining the correct cost share amounts, we urge all applicants to use the cost share calculator on the Prescott Program webpage (http://www.nmfs.noaa.gov/pr/health/prescott/proposals/costshare.htm). Legislation under which the Prescott Grant Program operates requires this cost sharing, or match, to leverage the limited funds available for this program and to encourage partnerships among government, private organizations, non-profit organizations, the stranding network, and academia to address the needs of marine mammal health and stranding response. If a proposal does not comply with these cost share requirements, the proposal will not be returned to the applicant and it will not be considered in this annual funding cycle. Pursuant to 48 U.S.C. 1469a, match may be waived for applicants that are residents in the U.S. insular areas (Commonwealth of the Northern Mariana Islands, Guam, American Samoa, and the U.S. Virgin Islands). The Program Officer will determine the appropriateness of all cost sharing proposals, including the valuation of in-kind contributions, according to the regulations in 15 CFR 14.23 and 24.24. An in-kind contribution is a non-cash contribution, donated or loaned, by a third party to the applicant. In general, the value of in-kind services or property used to fulfill a cost share will be the fair market value of the services or property. The fair market value is the cost of obtaining such services or property, had they not been donated, or of obtaining such services or property for the period of a loan. The applicant must document the in-kind services or property used to fulfill the cost share. If we decide to fund a proposal, we will require strict accounting of the in-kind contributions within the total cost share included in the award document. The Grants Officer is the DOC official responsible for all business management and administrative aspects of a grant and with delegated authority to award, amend, administer, close out, suspend, and/or terminate awards. The Grants Officer is the final approving authority for the award, including the budget and any cost-sharing proposals.

Intergovernmental Review: Applications submitted under this program are subject to the provisions of Executive Order (EO) 12372, “Intergovernmental Review of Programs.” Any applicant submitting an application for funding is required to complete item 16 on SF-424 regarding clearance by the State Single Point of Contact (SPOC) established as a result of EO 12372. For my information on a State's process under EO 12372, please visit the Office of Management and Budget's Web site at: http://www.whitehouse.gov/omb/grants/spoc.html.

9. Protected Species Cooperative Conservation

Summary Description: States play an essential role in the conservation and recovery of endangered and threatened species. Protected species under the National Marine Fisheries Service's (NMFS) jurisdiction may spend all or a part of their life-cycles in state waters, and success in conserving these species will depend in large part on working cooperatively with state agencies. NMFS is authorized to provide assistance to eligible States to support the development of conservation programs for marine and anadromous species that reside within that State. This assistance, provided in the form of grants through the Protected Species Cooperative Conservation program, can be used to support conservation of endangered, threatened, and proposed species, as well as monitoring of candidate and delisted species. Funded activities may include development and implementation of management plans, scientific research, and public education and outreach; proposals should address priority actions identified in an ESA Recovery Plan, a State's ESA Section 6 Program, a State Wildlife Action Plan, or address a NMFS-identified regional priority or need. Any State agency that has entered into or applied for an agreement with NMFS pursuant to section 6(c) of the ESA is eligible to apply under this solicitation. Proposals focusing on listed Pacific salmonids will not be considered for funding under this grant program; such projects may be considered through the NMFS Pacific Coastal Salmon Recovery Fund. This document describes how to submit proposals for funding in fiscal year (FY) 2011 and how NMFS will determine which proposals will be funded; this document should be read in its entirety, as some information has changed from the previous year.

Funding Availability: NOAA anticipates that up to $15 million may be available for distribution under the FY 2011 PSCC program for new awards; awards are expected to range between about $500,000 and $1,000,000 in federal funding per year. Applications requesting less than $200,000 in federal funding per year may receive lower priority. The exact amount of funds that may be awarded will be determined during pre-award negotiations between the applicant and NOAA representatives. Funds have not yet been appropriated for this program, and there is no guarantee that sufficient funds will be available to make awards for all qualified projects. Publication of this notice does not oblige NOAA to award any specific grant proposal or to obligate any available funds. In addition to this opportunity, the President's FY2011 Budget requested $10.364M specifically to support larger scale habitat restoration to support recovery of threatened and endangered species through habitat conservation actions. If these funds are made available by Congress, the NOAA Restoration Center within NMFS Office of Habitat Conservation may provide funding for applications selected through this competition, thereby increasing the amount of funds available through this program. NOAA will consider funding more than one project under a single application. Applicants that bundle projects into a single application should ensure that there is sufficient detail for each project as per the guidelines and information requirements listed in this document if an application is to be competitive. Applications should provide clear indications of how each project is related to the overall goals and objectives described in the application. To allow for appropriate review of proposals, bundled projects should address the same or related species (e.g. shortnose and Atlantic sturgeon). There is no limit on the number of applications that can be submitted by the same Principal Investigator, agency, or State. Multiple applications submitted by the same applicant must, however, clearly identify distinct projects. If an application for a financial assistance award is selected for funding, NOAA has no obligation to provide any additional funding in connection with that award in subsequent years. Notwithstanding verbal or written assurance that may have been received, pre-award costs are not allowed under the award unless approved by the Grants Officer in accordance with 2 CFR part 225.

Statutory Authority: 16 U.S.C. 661 et seq.; 16 U.S.C. 1535.

Catalog of Federal Domestic Assistance (CFDA) Number: 11.472, Unallied Science Program.

Application Deadline: Applications must be postmarked, provided to a delivery service, or received by http://www.grants.gov by 11:59 p.m. Eastern Daylight Time October 4, 2010. Applications submitted by U.S. Postal Service must have an official postmark; private metered postmarks are not acceptable. Use of a delivery service other than U.S. mail must be documented with a receipt. Proposals submitted after the deadline cannot be considered for funding. Please Note: It may take Grants.gov up to two business days to validate or reject an application. Please keep this in mind when developing your submission timeline.

Address for Submitting Proposals: Applications should be submitted electronically through the Grants.gov Web site at http://www.grants.gov. NOAA strongly recommends that applicants do not wait until the application deadline to begin the application process through Grants.gov. To use Grants.gov, applicants must have a DUNS number and register in the Central Contractor Registry (CCR). Applicants should allow at least 5 business days to complete the CCR registration; registration is only required once. Also, it may take Grants.gov up to two business days to validate or reject an application. Please keep this in mind when developing your submission timeline. Following submission of applications through Grants.gov, applicants should receive two automated responses from Grants.gov: one confirms receipt of the application; the other confirms that the application has been forwarded to NOAA. If both confirmation messages from Grants.gov are not received, applicants should contact both the Grants.gov Helpdesk and the NMFS Office of Protected Resources to confirm the application has been transmitted and received by NOAA. For applicants lacking internet access, hard copies may be submitted (by postal mail or commercial delivery) to the NMFS Office of Protected Resources, Attn: Lisa Manning, 1315 East-West Highway, SSMC3, Silver Spring, MD 20910. Applications submitted by U.S. Postal Service must have an official postmark; private metered postmarks are not acceptable. Use of a delivery service other than U.S. mail must be documented with a receipt. Paper applications should be printed on one side only, on 8.5 x 11 inch paper, and not be bound in any manner. A signed (in ink) SF-424 must be included. No facsimile or electronic mail applications will be accepted.

Information Contacts: If you have any questions regarding this proposal solicitation, please contact Lisa Manning or Sean Ledwin at the NOAA/NMFS/Office of Protected Resources, Endangered Species Division, 1315 East-West Highway, Silver Spring, MD 20910, by phone at 301-713-1401, or by e-mail at Lisa.Manning@noaa.gov or Sean.Ledwin@noaa.gov. You may also contact one of the following NMFS regional office contacts for further guidance: Amanda Johnson, Northeast Regional Office (Amanda.Johnson@noaa.gov, 978-282-8463); Karla Reece, Southeast Regional Office (Karla.Reece@noaa.gov, 727-824-5348); Eric Murray, Northwest Regional Office (Eric.Murray@noaa.gov, 503-231-2378); Scott Hill, Southwest Regional Office (Scott.Hill@noaa.gov, 562-980-4026); Kaja Brix, Alaska Regional Office (Kaja.Brix@noaa.gov, 907-586-7824); Krista Graham, Pacific Islands Regional Office, (Krista.Graham@noaa.gov, 808-944-2238).

Eligibility: Eligible applicants are state agencies that have entered into an agreement with NMFS pursuant to section 6(c) of the ESA. The terms “state” and “state agency” are used as defined in section 3 of the ESA (16 U.S.C. 1532). Currently eligible state agencies are listed here: http://www.nmfs.noaa.gov/pr/conservation/states/. Any state agency that enters into a section 6(c) agreement with NMFS within 45 days following the grant application deadline is also eligible to apply. State agencies may apply for funding to conduct work on federally listed species that are included in their ESA section 6 agreement and any species that has become a candidate or a proposed species by the grant application deadline. State agencies may not apply for funding to conduct work on federally listed species that are not covered in their ESA section 6 agreement unless said species is added to the agreement within 45 days following the grant application deadline. Federal agencies or institutions are not eligible to receive assistance under this notice. In addition, NOAA and NMFS employees shall not provide assistance in writing applications, write letters of support for any application, or otherwise confer any unfair advantage on a particular application. However, for activities involving collaboration with current NMFS programs, NMFS employees can write a letter verifying that they are collaborating with the project.

Cost Sharing Requirements: In accordance with section 6(d) of the ESA, proposals must include a minimum cost share of 25 percent of the total budget if the proposal involves a single state. If a proposal involves collaboration of two or more states, the minimum cost share decreases to 10 percent of the total project budget. The project proposal and budget should reflect the work and responsibilities to be carried out by each of the cooperating states. The cost share should be identified in the project budget (and on the SF-424A) and may include in-kind contributions according to the regulations at 15 CFR part 24. Match requirements of section 6(d) of the ESA do not apply to insular areas covered by the Omnibus Insular Areas Act of 1977 (48 U.S.C. 1469a) including Guam, American Samoa, Northern Mariana Islands, and the U.S. Virgin Islands.

Intergovernmental Review: Applications under this program are subject to Executive Order 12372, “Intergovernmental Review of Programs.”

10. Bluefin Tuna Research Program

Summary Description: The Bluefin Tuna Research Program (BTRP) provides opportunity to compete for financial assistance for projects which seek to increase and improve the working relationship between fisheries researchers from the NMFS, state fishery agencies, universities, other research institutions and U.S. fishery interests (recreational and commercial) focusing on northern bluefin tuna in the Atlantic Ocean. The program is a means of advancing research objectives to address the information needs to improve the science-based fishery management for Atlantic bluefin. This program addresses NOAA's mission goal to “Protect, Restore, and Manage the Use of Coastal and Ocean Resources through an Ecosystem Approach to Management.”

Funding Availability: Approximately $600,000 may be available in fiscal year (FY) 2011 for projects. Actual funding availability for this program is contingent upon FY 2011 Congressional appropriations. The NMFS Southeast Fisheries Science Center estimates awarding approximately 5 projects that will range from $25,000 to $300,000. The expected average award is $125,000. Publication of this notice does not obligate NMFS to award any specific grant or cooperative agreement or any of the available funds.

Statutory Authority: Authority for the BTRP is provided by the following: 16 U.S.C. 661.

Catalog of Federal Domestic Assistance (CFDA) Number: 11.472, Unallied Science Program.

Application Deadline: Applications must be received by 5 p.m., Eastern Time on September 14, 2010 to be considered for funding. Hard copy applications arriving after the closing date given above will be accepted for review only if the applicant can document that the application was provided to a delivery service that guaranteed delivery prior to the specified closing date and time; in any event, hard copy applications received by NMFS later than two business days following the closing date will not be accepted. Please Note: Validation or rejection of your application by Grants.gov may take up to 2 business days after submission. Please consider this process in developing your submission timeline.

Address for Submitting Proposals: Applications must be submitted through http://www.grants.gov unless an applicant does not have internet access. If an applicant does not have internet access, hard copies with original signatures may be sent to: National Marine Fisheries Service, Liaison Branch, 263 13th Avenue South, St. Petersburg, FL 33701.

Information Contacts: For questions regarding the application process, you may contact: Dax Ruiz, Liaison Branch, (727) 824-5324, or Dax.Ruiz@noaa.gov.

Eligibility: Eligible applicants may be institutions of higher education, nonprofits, commercial organizations, individuals, and state, local, and Indian tribal governments, agencies or institutions are not eligible. Foreign governments, organizations under the jurisdiction of foreign governments, and international organizations are excluded for purposes of this solicitation since the objective of the BTRP is to optimize research and development benefits from U.S. marine fishery resources.

Cost Sharing Requirements: Cost-sharing is not required for this program.

Intergovernmental Review: Applications submitted by state and local governments are subject to the provisions of Executive Order (E.O.) 12372, Intergovernmental Review of Programs. Any applicant submitting an application for funding is required to complete item 16 on SF-424 regarding clearance by the State Single Point of Contact (SPOC) established as a result of E.O. 12372. To find out about and comply with a State's process under EO 12372, the names, addresses and phone numbers of participating SPOCs are listed in the Office of Management and Budget's home page at: http://www.whitehouse.gov/omb/grants/spoc.html.

11. Cooperative Research Program

Summary Description: The CRP program provides opportunity to compete for financial assistance for projects which seek to increase and improve the working relationship between fisheries researchers from the NMFS, state fishery agencies, universities, and the U.S. fishing (recreational and commercial) in the Gulf of Mexico (FL, AL, MS, LA, TX), South Atlantic (FL, NC, SC, GA) and Caribbean (USVI and Puerto Rico). The program is a means of involving commercial and recreational fishermen in the collection of fundamental fisheries information in support of management and regulatory options. This program addresses NOAA's mission goal to “Protect, Restore, and Manage the Use of Coastal and Ocean Resources through an Ecosystem Approach to Management.”

Funding Availability: Approximately $2.0 million may be available in fiscal year (FY) 2011 for projects. Actual funding availability for this program is contingent upon FY 2011 Congressional appropriations. The NMFS Southeast Fisheries Science Center estimates awarding approximately eight projects that will range from $25,000 to $300,000. The average award is $150,000. Publication of this notice does not obligate NMFS to award any specific grant or cooperative agreement or any of the available funds.

Statutory Authority: Authority for the CRP is provided by the following: 16 U.S.C. 661.

Catalog of Federal Domestic Assistance (CFDA) Number: 11.454, Unallied Management Projects.

Application Deadline: Applications must be received by 5 p.m., Eastern Time on Applications must be received by 5 p.m., Eastern Time on September 14, 2010 to be considered for funding. Hard copy applications arriving after the closing date given above will be accepted for review only if the applicant can document that the application was provided to a delivery service that guaranteed delivery prior to the specified closing date and time; in any event, hard copy applications received by NMFS later than two business days following the closing date will not be accepted. Please Note: Validation or rejection of your application by Grants.gov may take up to 2 business days after submission. Please consider this process in developing your submission timeline.

Address for Submitting Proposals: Applications must be submitted through http://www.grants.gov unless an applicant does not have internet access. If an applicant does not have internet access, hard copies with original signatures may be sent to: National Marine Fisheries Service, Liaison Branch, 263 13th Avenue, South, St. Petersburg, FL 33701.

Information Contacts: For questions regarding the application process, you may contact: Dax Ruiz, Liaison Branch, (727) 824-5324, or Dax.Ruiz@noaa.gov.

Eligibility: Eligible applicants may be institutions of higher education, nonprofits, commercial organizations, individuals, and state, local, and Indian tribal governments, agencies or institutions are not eligible. Foreign governments, organizations under the jurisdiction of foreign governments, and international organizations are excluded for purposes of this solicitation since the objective of the CRP is to optimize research and development benefits from U.S. marine fishery resources. Applicants who are not commercial or recreational fisherman must have commercial or recreational fishermen participating in their project. There must be a written agreement with a fisherman describing the involvement in the project activity and the estimated dollar amount to be provided to that fisherman in compensation for their involvement.

Cost Sharing Requirements: Cost-sharing is not required for this program.

Intergovernmental Review: Applications submitted by state and local governments are subject to the provisions of executive Order 12372, Intergovernmental Review of Programs. Any applicant submitting an application for funding is required to complete item 16 on SF-424 regarding clearance by the State Single Point of Contact (SPOC) established as a result of EO 12372. To find out about and comply with a State's process under EO 12372, the names, addresses and phone numbers of participating SPOCs are listed in the Office of Management and Budget's home page at: http://www.whitehouse.gov/omb/grants/spoc.html.

12. Fiscal Year 2011 Gulf of Mexico NOAA Bay Watershed Education and Training (B-WET) Program

Summary Description: The National Marine Fisheries Service (NMFS), Southeast Region, is seeking proposals under the Gulf of Mexico B-WET Program. The B-WET program is an environmental education program that promotes locally relevant, experiential learning in the K-12 environment. Funded projects provide meaningful watershed educational experiences for students, related professional development for teachers, and help to support regional education and environmental priorities in the Gulf of Mexico. This program addresses NOAA's mission goal to “Protect, Restore, and Manage the Use of Coastal and Ocean Resources Through an Ecosystem Approach to Management.”

Funding Availability: It is anticipated that approximately $700,000 will be available in FY2011 for new awards. NOAA anticipates making approximately 3 to 5 new awards during FY 2011. The total amount that may be requested from NOAA shall not exceed $100,000. The minimum amount that must be requested from NOAA is $25,000. Applications requesting support from NOAA for more than $100,000 will not be considered for funding. There is no guarantee that sufficient funds will be available to make awards for all qualified projects. The exact amount of funds that may be awarded will be determined in pre-award negotiations between the applicant and NOAA representatives. Publication of this notice does not oblige NOAA to award any specific project or to obligate any available funds. If applicants incur any costs prior to an award being made, they do so at their own risk of not being reimbursed by the government. Notwithstanding verbal or written assurance that may have been received, there is no obligation on the part of NOAA to cover pre-award costs unless approved by the Grants Officer as part of the terms when the award is made.

Statutory Authority: Authority for the Bay Watershed Education and Training Program is provided by the following: 33 U.S.C. 893a(a) America Competes Act.

Catalog of Federal Domestic Assistance (CFDA) Number: 11.463, Habitat Conservation.

Application Deadline: Applications must be received by 5 p.m., Eastern Time on October 14, 2010 to be considered for funding. Please Note: Validation or rejection of your application by Grants.gov may take up to 2 business days after submission. Please consider this process in developing your submission timeline. Applications received after the deadline will be rejected/returned to the sender without further consideration. For applications submitted through Grants.gov, a date and time receipt indication is generated by the system and will be the basis of determining timeliness. Hard copy submissions will be dated and time stamped when they are received in the NMFS office. Hard copy applications arriving after the closing dates given above will be accepted for review only if the applicant can document that the application was provided to a delivery service that guaranteed delivery prior to the specified closing date and time; in any event, hard copy applications received by NMFS later than two business days following the closing date will not be accepted. Faxed or e-mailed copies of applications will not be accepted.

Address for Submitting Proposals: Applications must be submitted through http://www.grants.gov unless an applicant does not have internet access. If an applicant does not have internet access, hard copies with original signatures may be sent to: National Marine Fisheries Service, Liaison Branch, 263 13th Avenue, South, St. Petersburg, FL 33701.

Information Contacts: For questions regarding the application process, you may contact: Jeff Brown, Liaison Branch, (727) 824-5324, or Jeff.Brown@noaa.gov

Eligibility: Eligible applicants are K-12 public and independent schools and school systems, institutions of higher education, community-based and nonprofit organizations, state or local government agencies, interstate agencies, and Indian tribal governments.

Cost Sharing Requirements: Cost-sharing is not required for this program.

Intergovernmental Review: Applications submitted by state and local governments are subject to the provisions of executive Order 12372, Intergovernmental Review of Programs. Any applicant submitting an application for funding is required to complete item 16 on SF-424 regarding clearance by the State Single Point of Contact (SPOC) established as a result of EO 12372. To find out about and comply with a State's process under EO 12372, the names, addresses and phone numbers of participating SPOCs are listed in the Office of Management and Budget's home page at: http://www.whitehouse.gov/omb/grants/spoc.html.

13. Marine Fisheries Initiative (MARFIN)

Summary Description: The National Marine Fisheries Service (NMFS), Southeast Region, is seeking proposals under the Marine Fisheries Initiative Program (MARFIN), for research and development projects that optimize the use of fisheries in the Gulf of Mexico and off the South Atlantic states of North Carolina, South Carolina, Georgia, and Florida involving the U.S. fishing industry (recreational and commercial), including projects exploring fishery biology, resource assessment, socioeconomic assessment, fishery management and conservation, selected harvesting methods, and fish handling and processing practices. This program addresses NOAA's mission goal to “Protect, Restore, and Manage the Use of Coastal and Ocean Resources Through an Ecosystem Approach to Management.”

Funding Availability: Approximately $2.0 million may be available in fiscal year (FY) 2011 for projects. This amount includes possible in-house projects. Actual funding availability for this program is contingent upon Fiscal Year 2011 Congressional appropriations. The NMFS Southeast Regional Office anticipates awarding approximately ten projects that will range from $25,000 to $175,000 per year (not to exceed $175,000 per year). The total amount that may be requested shall not exceed $175,000 for a one year project, $350,000 for a two year project, and $525,000 for a three year project. Applications exceeding these amounts will be rejected/returned without further consideration. Publication of this notice does not obligate NMFS to award any specific grant or cooperative agreement or any of the available funds. Project proposals accepted for funding with a project period over one year do not have to compete for the additional years of funding. However, funding for the additional years is contingent upon the availability of funds and satisfactory performance and is at the sole discretion of the agency.

Statutory Authority: Authority for the Marine Fisheries Initiative Program is provided by the following: 16 U.S.C. 753a.

Catalog of Federal Domestic Assistance (CFDA) Number: 11.433, Marine Fisheries Initiative.

Application Deadline: Applications must be received by 5 p.m., Eastern Time on August 16, 2010 to be considered for funding. Hard copy applications arriving after the closing date given above will be accepted for review only if the applicant can document that the application was provided to a delivery service that guaranteed delivery prior to the specified closing date and time; in any event, hard copy applications received by NMFS later than two business days following the closing date will not be accepted. Please Note: Validation or rejection of your application by Grants.gov may take up to 2 business days after submission. Please consider this process in developing your submission timeline.

Address for Submitting Proposals: Applications must be submitted through http://www.grants.gov unless an applicant does not have internet access. If an applicant does not have internet access, hard copies with original signatures may be sent to: National Marine Fisheries Service, Liaison Branch, 263 13th Avenue, South, St. Petersburg, FL 33701.

Information Contacts: For questions regarding the application process, you may contact: Robert Sadler, (727) 824-5324, or Robert.Sadler@noaa.gov.

Eligibility: Eligible applicants may be institutions of higher education, nonprofits, commercial organizations, individuals, state, local and Indian tribal governments, agencies or institutions are not eligible. Foreign governments, organizations under the jurisdiction of foreign governments, and international organizations are excluded for purposes of this solicitation since the objective of the MARFIN program is to optimize research and development benefits from U.S. marine fishery resources.

Cost Sharing Requirements: Cost-sharing is not required for this program.

Intergovernmental Review: Applications submitted by state and local governments are subject to the provisions of Executive Order (E.O.) 12372, Intergovernmental Review of Programs. Any applicant submitting an application for funding is required to complete item 16 on SF-424 regarding clearance by the State Single Point of Contact (SPOC) established as a result of E.O. 12372. To find out about and comply with a State's process under EO 12372, the names, addresses and phone numbers of participating SPOCs are listed in the Office of Management and Budget's home page at: http://www.whitehouse.gov/omb/grants/spoc.html.

National Ocean Service (NOS)

1. Fiscal Year 2011 Coastal Resilience Networks Program

Summary Description: The purpose of this notice is to solicit grant proposals from eligible organizations to implement activities that enhance resilience of coastal communities to natural hazard and climate risks. Proposals submitted in response to this announcement should provide beneficial public outcomes for coastal communities to address existing and potential future risks to coastal infrastructure, local economies, vulnerable populations, and the natural environment. Eligible funding applicants are regional authorities, nonprofit organizations, institutions of higher education, and state, territorial, and county/local governments from the U.S. Flag Pacific Islands (Hawaii, American Samoa, Guam, Commonwealth of the Northern Mariana Islands), Gulf Coast (Alabama, Gulf Coast of Florida, Louisiana, Mississippi, and Texas) and West Coast (California, Oregon, and Washington).

Funding Availability: Total anticipated funding for all awards is approximately $1,000,000 and is subject to the availability of fiscal year (FY) 2011 appropriations. The anticipated Federal funding per award (min-max) is approximately $100,000 to $350,000 per year. Multi-year proposals will be considered but limited to three years. The anticipated number of awards ranges from three (3) to six (6), approximately, and will be adjusted based on available funding.

Statutory Authority: 16 U.S.C. 1456c.

Catalog of Federal Domestic Assistance (CFDA) Number: 11.473, Coastal Services Center.

Application Deadline: Letters of Intent (LOIs). To be considered for funding, all applicants must submit an LOI. The deadline for receipt of LOIs is 5:59 p.m. Hawaii Time on August 2, 2010. For LOIs submitted by e-mail, the date and time indication of the receiving server will be the basis of determining timeliness. Note that receipt may be delayed if e-mail servers are not functioning efficiently. Applicants submitting multiple LOIs must use a unique project title for each LOI and may send all LOIs in one e-mail or in multiple e-mails. For hard copy submission of LOIs, they will be date and time stamped when they are received. LOIs may not be considered if received by the Pacific Services Center after 5:59 p.m. Hawaii Time on August 2, 2010.

Full Proposals. Full proposals must be received no later than 5:59 p.m. Hawaii Time, September 15, 2010. For proposals submitted through Grants.gov, a date and time receipt indication by Grants.gov will be the basis of determining timeliness. If an applicant does not have Internet access, one set of originals (signed) and one electronic copy on CD of the proposals and related forms should be mailed to NOAA Pacific Services Center, Stephanie Bennett, Suite 1550, 737 Bishop St., Honolulu, Hawaii, 96813. Hard copy applications will be date and time stamped when they are received. Full proposals received after the submission deadline will not be reviewed or considered. Applicants may not submit full proposals unless they submitted an LOI. The final decision to submit a full proposal will be made by the principle investigator. Please Note: Validation or rejection of your application by Grants.gov may take up to 2 business days after submission. Please consider this process in developing your submission timeline.

Address for Submitting Proposals: Letters of intent (LOI) may be sent via e-mail to nos.psc.crest@noaa.gov. Insert FY 2011 Adapting to Coastal Risks as the subject line of the e-mail. If hard copy LOIs are submitted, an original and electronic copy on CD should be sent to NOAA Pacific Services Center, Stephanie Bennett, Suite 1550, 737 Bishop St, Honolulu, Hawaii, 96813. Full proposal application packages, including any letters of support, should be submitted through Grants.gov APPLY. If an applicant does not have Internet access, one set of originals (signed) and one electronic copy on CD of the proposals and related forms should be mailed to NOAA Pacific Services Center, Stephanie Bennett, Suite 1550, 737 Bishop St., Honolulu, Hawaii, 96813.

Information Contacts: For administrative questions, contact Stephanie Bennett, NOAA Pacific Services Center: Suite 1550, 737 Bishop St., Honolulu, Hawaii, 96813; or contact her at 808-532-3200 or via e-mail at Stephanie.Bennett@noaa.gov . For technical questions regarding this announcement, contact Adam Stein, NOAA Pacific Services Center: Suite 1550, 737 Bishop St., Honolulu, Hawaii, 96813, or by phone at 808-532-3962 or by fax 808-532-3224, or via e-mail at Adam.Stein@noaa.gov.

Eligibility: Eligible funding applicants are, regional authorities, nonprofit organizations, institutions of higher education, Indian Tribal governments, and state, territorial, and county/local governments from the U.S. Flag Pacific Islands (Hawaii, American Samoa, Guam, Commonwealth of the Northern Mariana Islands), Gulf Coast (Alabama, Gulf Coast of Florida, Louisiana, Mississippi, and Texas) and West Coast (California, Oregon, Washington). The following types of organizations are encouraged to either submit proposals or participate in proposal development and provide in-kind services: land use authorities, port authorities, housing authorities, public works authorities, transportation authorities, critical facility authorities, emergency management authorities, community service organizations, stewardship organizations, and conservation organizations. Federal agencies are not allowed to receive funds under this announcement but may serve as collaborative project partners and may contribute services in kind.

Cost Sharing Requirements: No cost sharing or matching is required under this program.

Intergovernmental Review: Funding applications under the Center are subject to Executive Order 12372, Intergovernmental Review of Programs. It is the state agency's responsibility to contact their state's Single Point of Contact (SPOC) to find out about and comply with the state's process under EO 12372. To assist the applicant, the names and addresses of the SPOCs are listed on the Office of Management and Budget's Web site http://www.whitehouse.gov/omb/grants/spoc.html.

2. Fiscal Year 2011 NOAA Hawaii Program Bay Watershed Education and Training (B-WET)

Summary Description: This Federal funding opportunity meets NOAA's mission goal to protect, restore, and manage the use of coastal and ocean resources through ecosystem-based management. The purpose for this financial assistance is to support NOAA's mission goal by developing a well-informed citizenry involved in decision-making that positively impacts our coastal, marine, and watershed ecosystems in the State of Hawaii. This opportunity is a competitively based grant that provides funding to assist in the development of new programs, encourage innovative partnerships among environmental education programs, and support geographically targeted programs to advance environmental education efforts that complement national and state school requirements. The B-WET Hawaii Program is an environmental education program that promotes locally relevant experiential learning in the K-12 environment on priority topics, such as understanding climate change, earth sciences, and community resilience to hazards. Funded projects provide meaningful watershed educational experiences for students and related professional development for teachers, and support regional education and environmental priorities.

Funding Availability: Total anticipated funding for all awards is approximately $1,000,000 and is subject to the availability of fiscal year 2011 appropriations. Multiple awards are anticipated from this announcement. The minimum federal assistance request is $10, 000 and maximum request is $100,000. The anticipated number of awards ranges from five (5) to fifteen (15) and will be adjusted based on available funding. Applications requesting federal support from NOAA of more than $100,000 will not be considered for review or funding. Applicants are hereby given notice that funds have not yet been appropriated for this program. There is no guarantee that sufficient funds will be available to make awards for all qualified projects. Notwithstanding verbal or written assurance that may have been received, there is no obligation on the part of NOAA to cover pre-award costs unless approved by the Grants Officer as part of the terms when the award is made.

Statutory Authority: 15 U.S.C. 1540; 33 U.S.C. 893a(a).

Catalog of Federal Domestic Assistance (CFDA) Number: 11.473, Coastal Services Center.

Application Deadline: Letters of Intent (LOIs). To be considered for funding, all applicants must submit an LOI. The deadline for receipt of LOIs is 5:59 p.m. Hawaii Time on August 2, 2010. For LOIs submitted by e-mail, the date and time indication of the receiving server will be the basis of determining timeliness. Note that receipt may be delayed if e-mail servers are not functioning efficiently. Applicants submitting multiple LOIs must use a unique project title for each LOI and may send all LOIs in one e-mail or in multiple e-mails. For hard copy submission of LOIs, they will be date and time stamped when they are received. LOIs may not be considered if received by the Pacific Services Center after 5:59 p.m. Hawaii Time on August 2, 2010.

Full Proposals must be received by http://www.grants.gov, postmarked, or provided to a delivery service by 5:59 Hawaii Time on August 2, 2010. Use of U.S. mail or another delivery service must be documented with a receipt. No facsimile or electronic mail applications will be accepted. Please Note: Validation or rejection of your application by Grants.gov may take up to 2 business days after submission. Please consider this process in developing your submission timeline. Applicants may not submit full proposals unless they submitted an LOI.

Address for Submitting Proposals: Letters of intent (LOI) may be sent via e-mail to nos.psc.bwethawaii@noaa.gov. Insert FY 2011 B-WET Hawaii as the subject line of the e-mail. If hard copy LOIs is submitted, an original and electronic copy on CD should be sent to NOAA Pacific Services Center, Stephanie Bennett, Suite 1550, 737 Bishop St., Honolulu, Hawaii, 96813. Full proposal application packages, including any letters of support, should be submitted through Grants.gov APPLY. If an applicant does not have Internet access, one set of originals (signed) and one electronic copy on CD of the proposals and related forms should be mailed to NOAA Pacific Services Center, Stephanie Bennett, Suite 1550, 737 Bishop St., Honolulu, Hawaii, 96813.

Information Contacts: For administrative and technical questions, contact Stephanie Bennett, Program Officer at NOAA Pacific Services Center, 737 Bishop Street, Suite 1550, Honolulu, Hawaii 96813 or by phone at (808) 522-7481, or via e-mail at Stephanie.Bennett@noaa.gov.

Eligibility: Eligible applicants are K-12 public and independent schools and school systems, institutions of higher education, commercial and nonprofit organizations, state or local government agencies, and Indian tribal governments. Individual applicants and federal agencies are not eligible. Federal agencies are not allowed to receive funds under this announcement but may serve as collaborative project partners. The Department of Commerce/National Oceanic and Atmospheric Administration (DOC/NOAA) is strongly committed to broadening the participation of historically Black Colleges and Universities, Hispanic-serving institutions, tribal colleges and universities, Alaskan Native and Native Hawaiian institutions, and institutions that service underserved areas.

Cost Sharing Requirements: No cost sharing is required under this program, however, the NOAA Pacific Services Center strongly encourages applicants to share as much of the costs of the award as possible. Funds from other sources may not be considered matching funds. The nature of the contribution (cash versus in-kind) and the amount of matching funds will be taken into consideration in the review process.

Intergovernmental Review: Funding applications under the Center are subject to Executive Order 12372, Intergovernmental Review of Programs. It is the state agency's responsibility to contact their state's Single Point of Contact (SPOC) to find out about and comply with the state's process under EO 12372. To assist the applicant, the names and addresses of the SPOCs are listed on the Office of Management and Budget's Web site http://www.whitehouse.gov/omb/grants/spoc.html.

3. Fiscal Year 2011 Implementation of the U.S. Integrated Ocean Observing System (IOOS)

Summary Description: On behalf of the National Oceanographic Partnership Program (NOPP), NOAA and its partner agencies—the National Aeronautics and Space Administration (NASA), the Office of Naval Research (ONR), and the U.S. Department of Energy (DOE)—are requesting proposals for coordinated regional efforts that further the U.S. Integrated Ocean Observing System (IOOS). In addition, the agencies have identified several related topic areas for which they are requesting proposals, to include verification and validation of observing technologies for studying and monitoring coastal and ocean environments; improved and routine production, stewardship, and coastal application of the Group for High Resolution Sea Surface Temperature (GHRSST) data; and study of marine animal interactions with offshore renewable energy devices. Applicants are invited to submit proposals for one or more of these topic areas, which are described in detail in the FFO announcement. It is recommended that applicants to multiple topic areas submit a separate application for each, and that each application list other topic areas for which the applicant is making a submission. For single topic proposals or if multiple topics are included in a single proposal, ensure that the topic areas are clearly identified and that all required information is presented such that merit reviewers can associate proposal elements (project description, partners, budgets) with specific topic areas. Multiple awards are anticipated, subject to the availability of funds, in amounts ranging from $200,000 to $4,000,000 per year for up to five years.

Funding Availability: Total anticipated funding for all awards is subject to the availability of appropriations. NOPP, through its partner agencies, expects to fund multiple awards (anywhere from 10 to 21 awards), in multiple topic areas, in amounts ranging from $200,000 to $4,000,000 per year, contingent on availability of funds each year.

Statutory Authority: Statutory authority for this program is provided under the Integrated Coastal and Ocean Observation System Act of 2009, 33 U.S.C 3601-3610.

Catalog of Federal Domestic Assistance (CFDA) Number: 11.012, Integrated Ocean Observing System (IOOS).

Application Deadline: Full Proposals must be received by http://www.grants.gov, postmarked, or provided to a delivery service by 5 p.m. (EDT) on October 1, 2010. Use of U.S. mail or another delivery service must be documented with a receipt. No facsimile or electronic mail applications will be accepted. Please Note: Validation or rejection of your application by Grants.gov may take up to 2 business days after submission. Please consider this process in developing your submission timeline. Applications received after that time will not be reviewed or considered.

Address for Submitting Proposals: Full proposal application packages should be submitted through Grants.gov. The standard NOAA funding application package is available at http://www.grants.gov. Please be advised that potential funding applicants must register with Grants.gov before any application materials can be submitted. An organization's one time registration process may take up to three weeks to complete so please allow sufficient time to ensure applications are submitted before the closing date. The Grants.gov site contains directions for submitting an application, the application package (forms), and is also where the completed application is submitted. If an applicant does not have Internet access, the applicant must submit through surface mail one set of originals (signed) and two copies of the proposals and related forms to the NOAA IOOS Program at the following address: NOAA IOOS; 1100 Wayne Avenue, Suite 1225, Silver Spring, Maryland 20910. Attention Regina Evans. No e-mail or fax copies will be accepted.

Information Contacts: For questions regarding this announcement, contact: Regina Evans, NOAA IOOS; 1100 Wayne Avenue, Suite 1225, Silver Spring, Maryland 20910; or by phone at 301-427-2422, or by fax 301-427-2073, or via e-mail at Regina.Evans@noaa.gov.

Eligibility: Eligible funding applicants for this competition are institutions of higher education, non-profit and for-profit organizations, and state, local and Indian tribal governments. Federal agencies or institutions and foreign governments are not allowed to be the primary recipient of awards under this announcement, but are encouraged to partner with applicants when appropriate. If requesting funds under this award, federal partners must identify the relevant statutory authorities that will allow for the receipt of funds. For all NOPP-funded activities, team efforts are required among at least two of the following three sectors: Academia, industry (including Non-Governmental Organizations or NGOs), and government (including State and Local). If applicants have partners who would receive funds, the lead grantee will be expected to provide funds using subcontracts or other appropriate mechanisms to the project partners. If a Federal partner is a NOAA office, the funds will be transferred internally. If the partner is a Federal agency other than NOAA, the grantee and the Federal partner must use interagency agreements or otherwise take steps relevant to their organizations to ensure that funds can be transferred by the primary grantee and received by the Federal partner. Before non-NOAA applicants may be funded, they must demonstrate that they have legal authority to accept funds in excess of their appropriation. Because of the nature of this competition, the Economy Act (31 U.S.C. 1535) is not an appropriate authority. Applicants should note that federal agencies are generally barred from accepting funds from a recipient to pay transportation, travel, or other expenses for any employee unless specifically approved in the terms of the award. A Special Award Condition will be required if invitational travel for employees is included in a proposal.

Cost Sharing Requirements: There is no requirement for cost sharing. NOPP appreciates that applicants may seek additional support (in-kind or cash) for development of regional coastal ocean observing systems under the umbrella of IOOS. While a cost share of funding is not required, applicants are requested to provide a description of complementary funding and in-kind contributions from project partners. In general, the IOOS Program will support the use of IOOS funds and activities towards meeting the shared goals of IOOS and state and local partners over the course of a funded project. This support is based on the assumption that the work plan for which the Federal funds were awarded remains unchanged.

Intergovernmental Review: Funding applications that include State agencies as funded partners are subject to Executive Order 12372, “Intergovernmental Review of Programs”, which relies on State and local processes for the coordination and review of proposed financial assistance and direct development. It is the state agency's responsibility to contact their state's Single Point of Contact (SPCO) to find out about and comply with the state's process under EO 12372. To assist the applicant, the names and addresses of the SPOCs are listed on the Office of Management and Budget Web site: http://www.whitehouse.gov/omb/grants/spoc.html.

4. Coral Reef Conservation Program International Coral Reef Conservation Cooperative Agreements

Summary Description: The NOAA Coral Reef Conservation Grant Program (Grant Program), as authorized under the Coral Reef Conservation Act of 2000, provides matching grants of financial assistance for international coral reef conservation cooperative agreements. The Grant Program solicits proposals that will support the newly published NOAA Coral Reef Conservation Program International Strategy 2010-2015 (International Strategy). This constitutes a major strategic shift from support provided in previous years. The International Strategy focuses on supporting existing regional efforts in four priority regions based on their interconnections with U.S. reef ecosystems and existing initiatives and partnerships. Three of these four priority regions will be considered under this Funding Opportunity: the Wider Caribbean, Micronesia, and the Southwest Pacific.

Applicants should have a working relationship and demonstrated experience working with the local government authorities that manage the marine areas addressed. Applicants for this funding opportunity must have experience conducting regional coordination work in two or more countries (except independent Samoa—see Section I.B of the FFO announcement) within a priority region (as described below) with other local partners and the local/regional/national government(s) with jurisdiction over the marine sites listed in the pre- and final applications. Priority will be considered for those competitive pre- and final applications that propose working effectively in more than two countries (except independent Samoa—see Section I.B of the FFO announcement). Applicants must describe their past experience in the selected sites or countries and whether there are any environmental conservation agreements in place with the local partners and government authorities. Pre- and final applications that propose work across multiple regions (for ex., Micronesia and the Southwest Pacific) are eligible to apply; in these instances, the application must demonstrate that the two or more countries in which work is proposed can be grouped legitimately based on existing regional networks, agreements, and/or existing coral reef conservation activities. Specific country eligibility is limited to: 1. The Non-US countries and territories of the Wider Caribbean as defined by the Cartagena Convention: Antigua & Barbuda, Bahamas, Barbados, Belize, Colombia, Costa Rica, Dominica, Dominican Republic, Grenada, Guatemala, Guyana, Haiti, Honduras, Jamaica, Mexico, Nicaragua, Panama, St. Kitts and Nevis, St. Lucia, St. Vincent & Grenadines, Suriname, Trinidad & Tobago, Venezuela, France Caribbean Territories, Netherlands Caribbean Territories and United Kingdom Caribbean Territories 2. The Non-US Micronesia region including independent countries under compacts of free association with the United States: the Republic of the Marshall Islands; the Republic of Palau; and the Federated States of Micronesia as well as the independent nations of Kiribati and Nauru. 3. The Southwest Pacific: independent Samoa, Fiji, Vanuatu, Tonga and Tuvalu.

Funding Availability: NOAA announces the availability of approximately $1,000,000 in FY 2011 to support International Coral Reef Conservation Cooperative Agreements under the Grant Program. Distribution of awards may be in the following approximate ranges according to funding availability: Approximately $400,000 for the first year of one 36-month cooperative agreement in Micronesia. Approximately $200,000 for one 12-month cooperative agreement in the Wider Caribbean. Approximately $200,000 for one 12-month cooperative agreement in independent Samoa and Southwest Pacific. These funds will be used to support financial assistance awards that meet the criteria listed in section I. B. Program Priorities of the FFO announcement. Applicants that are invited to submit a final application may be requested to revise award objectives, work plans, or budgets prior to submittal of the final application. The amount of funds to be awarded and the final scope of activities will be determined in pre-award negotiations among the applicant, NOAA Grants Management Division (GMD) and relevant NOAA CRCP staff. Funding will be subject to the availability of Federal appropriations. Applicants should not begin a project in expectation of funds under this Grant Program.

Statutory Authority: Authority for the NOAA Coral Reef Conservation Grant Program is provided by Section 6403 (Coral Reef Conservation Program) of the Coral Reef Conservation Act of 2000 (16 U.S.C. 6401 et seq).

Catalog of Federal Domestic Assistance (CFDA) Number: 11.482, Habitat Conservation.

Application Deadline: Pre-applications must be received or postmarked by 5 p.m., U.S. Eastern Standard Time, on Monday, November 8, 2010. Final applications are by invitation only and must be received through http://www.grants.gov or postmarked by 5 p.m. U.S. Eastern Standard Time, on Monday, February 21, 2011. Please Note: Validation or rejection of your application by Grants.gov may take up to 2 business days after submission. Please consider this process in developing your submission timeline. Paper applicants should allow adequate time to ensure a paper application will be received on time, taking into account that guaranteed overnight carriers are not always able to fulfill their guarantees.

Address for Submitting Proposals:

Pre-application Submission Information: Pre-applications may be submitted by surface mail, fax or e-mail. If submitting by e-mail, please send pre-applications to coral.grants@noaa.gov. Acceptable electronic formats for narratives, attachments, and images are limited to Adobe Acrobat (.PDF), or Microsoft Word files. The fax number for pre-applications only is: 301-713-4263. If submitting by surface mail, a paper pre-application must be submitted to: Scot Frew, NOAA/NOS International Program Office, 1315 East West Highway, 5th Floor, N/IP, Room 5826, Silver Spring, MD 20910. All pre-applications submitted by surface mail must include a CD that contains an electronic copy of the pre-application. Financial assistance forms are not required to be submitted with the pre-application.

Please note that late pre-applications cannot be considered under any circumstances including e-mail transmission malfunctions. Electronic files of pre-applications must arrive without viruses. If attachments cannot be opened due to a virus or they arrive with a virus, the pre-applications will be disqualified. You may call us at 301-713-3078 x218 before the deadline to ensure that your pre-application arrived.

Final Application Submission Information: Final applications will be accepted only from those applicants who are invited to submit a final application. Applicants may be required to make modifications or revisions to the project and budget narratives and must submit these narratives with a financial assistance award application package (federal forms described below). Only applicants who submitted pre-applications by the deadline will be eligible to be considered for invitations to submit a final application by 5 p.m., U.S. Eastern Standard Time, on February 21, 2011. The applicant must submit the final application (narratives, federal forms, and supporting documentation) through http://www.grants.gov, unless an applicant does not have internet access. If an applicant does not have internet access, hard copies with original signatures and scanned copies on a CD must be postmarked by 5 p.m., U.S. Eastern Standard Time, on February 21, 2011 and sent to: Scot Frew, NOAA/NOS International Program Office, 1315 East West Highway, 5th Floor, N/IP, Room 5826, Silver Spring, MD 20910. Late final applications by any method cannot be accepted under any circumstances.

Information Contacts: Technical point of contact for International Coral Reef Conservation is Scot Frew, NOAA/NOS International Program Office, 301-713-3078, extension 220, e-mail at scot.frew@noaa.gov or address at: NOAA/NOS/IPO, 1315 East West Highway, Room 5826, Silver Spring, MD 20910.

Eligibility: Eligible applicants are limited to the following categories: institutions of higher education, U.S. and international non-profit organizations, non-US government authorities, and commercial organizations. Individuals and U.S. federal agencies are not eligible.

Cost Sharing Requirements: All awards of financial assistance provided by the NOAA Coral Reef Conservation Grant Program (Grant Program) under the authority of the Coral Reef Conservation Act (Act) of 2000 are subject to the matching fund requirements described below. As per section 6403(b)(1) of the Act, funds for any coral conservation project funded under this Grant Program may not exceed 50 percent of the total cost of the award. Therefore, any coral conservation project under this Grant Program requires a 1:1 contribution of matching funds. Matching funds can come from a variety of public and private sources and can include in-kind goods and services such as private boat use and volunteer labor. sources cannot be considered as matching funds, but can be described in the budget narrative to demonstrate additional leverage. Applicants are permitted to combine contributions from multiple non-federal partners in order to meet the 1:1 match requirement, as long as such contributions are not being used to match any funds received under another award. Applicants must specify in their proposal the source(s) of match and may be asked to provide letters of commitment to confirm stated match contributions. Applicants whose proposals are selected for funding will be bound by the percentage of cost sharing reflected in the award document signed by the NOAA Grants Officer. Applicants should be prepared to carefully document matching contributions for each project selected for funding. As per section 6403(b)(2) of the Coral Reef Conservation Act of 2000, the NOAA Administrator may waive all or part of the matching requirement if the Administrator determines that the project meets the following two requirements: 1. No reasonable means are available through which an applicant can meet the matching requirement, and, 2. The probable benefit of such project outweighs the public interest in such matching requirement. In the case of a waiver request, the applicant must provide a detailed justification explaining the need for the waiver including attempts to obtain sources of matching funds, how the benefit of the project outweighs the public interest in providing match, and any other extenuating circumstances preventing the availability of match. Match waiver requests including the appropriate justification should be submitted as part of the final application package. Please Note: Eligible applicants choosing to apply 48 U.S.C. 1469a(d) should note the use of the waiver and the total amount of funds requested to be waived in the matching funds section of their respective pre- and final applications.

Intergovernmental Review: Applications under the International Coral Reef Conservation Cooperative Agreements are not subject to Executive Order 12372, Intergovernmental Review of Programs.

5. Fiscal Year 2011 Regional Ecosystem Prediction Program (REPP) Concept of Operations for Models to Support Regional Coastal Ecosystem Management

Summary Description: National Centers for Coastal Ocean Centers (NCCOS)/Center for Sponsored Coastal Ocean Research (CSCOR) is soliciting proposals for a project of 2 years in duration to develop a concept of operations for scenario-type forecasts used for ecosystem-based management of coastal ecosystems. Note that for this opportunity, the term coastal includes Great Lakes systems. Funding is contingent upon the availability of Fiscal Year 2011 appropriations. It is anticipated that final recommendations for funding under this announcement will be made by early Calendar Year 2011, and that any project funded under this announcement will have an August 1, 2011 start date. One project is expected to be supported for 2 years, with an annual budget less than $250K. Electronic Access: Background information about the NCCOS/CSCOR efforts can be found at http://www.cop.noaa.gov. Proposals should be submitted through Grants.gov (http://www.grants.gov.)

Funding Availability: Funding is contingent upon availability of appropriations. NOAA is committed to continual improvement of the grants process and accelerating the award of financial assistance to qualified recipients in accordance with the recommendations of the Business Process Reengineering Team. In order to fulfill these responsibilities, this solicitation announces that award amounts will be determined by the proposals and available funds. Award amounts will not exceed $250,000 per project per year with project durations of 2 years. Applicants are hereby given notice that funds have not yet been appropriated for this program. In no event will NOAA or the Department of Commerce be responsible for proposal preparation costs if this program fails to receive funding or is cancelled because of other agency priorities. There is no guarantee that sufficient funds will be available to make awards for all qualified projects. Publication of this notice does not oblige NOAA to award any specific project or to obligate any available funds. If one incurs any costs prior to receiving an award agreement signed by an authorized NOAA official, one would do so solely at one's own risk of these costs not being included under the award. Publication of this notice does not obligate any agency to any specific award or to obligate any part of the entire amount of funds available. Recipients and subrecipients are subject to all laws and agency policies, regulations and procedures applicable to financial assistance awards.

Statutory Authority: 16 U.S.C. 1456c.

Catalog of Federal Domestic Assistance (CFDA) Number: 11.478, Center for Sponsored Coastal Ocean Research—Coastal Ocean Program.

Application Deadline: Full proposals must be received and validated by Grants.gov on or before 3 p.m. EST on October 21, 2010. Please Note: Validation or rejection of your application by Grants.gov may take up to 2 business days after submission. Please consider this process in developing your submission timeline. If an applicant does not have Internet access, hard copy proposals will be accepted, and date recorded when they are received in the NCCOS/CSCOR program office. Electronic or hard copies received after the deadline will not be considered, and hard copy applications will be returned to the sender. Note that late-arriving hard copy applications will be accepted for review only if the applicant can document that: (1) The application was provided to a delivery service with delivery to the National Oceanic & Atmospheric Administration, 1305 East-West Highway, SSMC4, Mail Station 8240 8th Floor, Silver Spring, Maryland 20910-3282; (2) delivery was guaranteed by 3 p.m., Eastern Time on the specified closing date; and, (3) the proposal was received in the NCCOS/CSCOR office by 3 p.m., Eastern Time no later than 2 business days following the closing date. Investigators submitting proposals electronically are advised to submit well in advance of the deadline.

Address for Submitting Proposals: Applications must be submitted through http://www.grants.gov, unless an applicant does not have Internet access. If an applicant does not have internet access, hard copies with original signatures may be sent to: Laurie Golden National Oceanic and Atmospheric Administration 1305 East West Highway Mail Station 8240, Silver Spring, MD 20910

Information Contacts: Technical Information: Beth Turner, NCCOS/CSCOR Program Manager, 603/862-4680; e-mail Elizabeth.turner@noaa.gov Business Management Information: Laurie Golden, NCCOS/CSCOR Grants Administrator, 301-713-3338/ext 151, e-mail: Laurie.Golden@noaa.gov.

Eligibility: Eligible applicants are institutions of higher education, other non-profits, state, local, Indian Tribal Governments, commercial organizations U.S. Territories and agencies that possess the statutory authority to receive financial assistance. DOC/NOAA supports cultural and gender diversity and encourages women and minority individuals and groups to submit applications to the CSCOR programs. In addition, DOC/NOAA is strongly committed to broadening the participation of historically black colleges and universities, Hispanic serving institutions, tribal colleges and universities, and institutions that work in underserved areas. DOC/NOAA encourages proposals involving any of the above institutions Please note that NCCOS/CSCOR will not fund any Full Time Employee (FTE) salaries, but will fund travel, equipment, supplies, and contractual personnel costs associated with the proposed work. Researchers must be employees of an eligible entity listed above; and proposals must be submitted through that entity. researchers should comply with their institutional requirements for proposal submission. Non-NOAA applicants will be required to submit certifications or documentation showing that they have specific legal authority to receive funds from the Department of Commerce (DOC) for this research. Foreign researchers may apply as subawards through an eligible US entity. Researchers affiliated with NOAA-University Cooperative/Joint Institutes should comply with joint institutional requirements; they will be funded through grants either to their institutions or to joint institutes.

Cost Sharing Requirements: None.

Intergovernmental Review: Applications under this program are not subject to Executive Order 12372, Intergovernmental Review of Programs. It has been determined that this notice is not significant for purposes of Executive Order 12866. Pursuant to 5 U.S.C. 553(a) (2), an opportunity for public notice and comment is not required for this notice relating to grants, benefits and contracts. Because this notice is exempt from the notice and comment provisions of the Administrative Procedure Act, a Regulatory Flexibility Analysis is not required, and none has been prepared. It has been determined that this notice does not contain policies with implications as that term is defined in Executive Order 13132.

6. Fiscal Year 2011 Regional Ecosystem Prediction Program (REPP) Pulley Ridge

Summary Description: National Centers for Coastal Ocean Centers (NCCOS)/Center for Sponsored Coastal Ocean Research (CSCOR), in partnership with the NOAA Office of National Marine Sanctuaries, Office of Ocean Exploration and Research, National Marine Fisheries Service Southeast Regional Office, and Gulf of Mexico Regional Collaboration Team, is soliciting proposals under the Regional Ecosystem Prediction Program for a project of up to 5 years in duration to conduct research to improve the understanding of population connectivity of key species between the southernmost portion of Pulley Ridge on the West Florida continental shelf, and downstream to the coral ecosystems of the Florida Keys. Coral ecosystems upstream of Pulley Ridge can be considered if directly relevant to population connectivity or to provide context to the overall study. This information will be used to improve the ability of Gulf of Mexico resource managers to proactively develop strategies to manage and protect poorly understood mesophotic coral ecosystems, including coastal and marine spatial planning and the siting of marine protected areas and marine protected area networks for shallow and mesophotic coral ecosystems. Funding is contingent upon the availability of Fiscal Year 2011 appropriations. It is anticipated that final recommendations for funding under this announcement will be made by early Calendar Year 2011, and that any project funded under this announcement will have a September 1, 2011 start date. One project is expected to be supported for up to 5 years, with an annual budget up to $1,000,000. Electronic Access: Background information about the NCCOS/CSCOR efforts can be found at http://www.cop.noaa.gov. Proposals should be submitted through Grants.gov (http://www.grants.gov.)

Funding Availability: Funding is contingent upon availability of appropriations. NOAA is committed to continual improvement of the grants process and accelerating the award of financial assistance to qualified recipients in accordance with the recommendations of the Business Process Reengineering Team. The award amount will not exceed $1,000,000 per year of up to 5 years. Applicants are hereby given notice that funds for this announcement and the use of the MolaMola Automated Underwater Vessel (AUV) have not yet been appropriated for this program. In no event will NOAA or the Department of Commerce be responsible for proposal preparation costs if this program fails to receive funding or is cancelled because of other agency priorities. There is no guarantee that sufficient funds will be available to make awards for all qualified projects. Publication of this notice does not oblige NOAA to award any specific project or to obligate any available funds. If one incurs any costs prior to receiving an award agreement signed by an authorized NOAA official, one would do so solely at one's own risk of these costs not being included under the award. Publication of this notice does not obligate any agency to any specific award or to obligate any part of the entire amount of funds available. Recipients and subrecipients are subject to all laws and agency policies, regulations and procedures applicable to financial assistance awards.

Statutory Authority: 33 U.S.C. 1442.

Catalog of Federal Domestic Assistance (CFDA) Number: 11.478, Center for Sponsored Coastal Ocean Research—Coastal Ocean Program.

Application Deadline: Full proposals must be received and validated by Grants.gov on or before 3 p.m. EST on October 21, 2010. Please Note: Validation or rejection of your application by Grants.gov may take up to 2 business days after submission. Please consider this process in developing your submission timeline. If an applicant does not have Internet access, hard copy proposals will be accepted, and date recorded when they are received in the NCCOS/CSCOR program office. Electronic or hard copies received after the deadline will not be considered, and hard copy applications will be returned to the sender. Note that late-arriving hard copy applications will be accepted for review only if the applicant can document that: (1) The application was provided to a delivery service with delivery to the National Oceanic & Atmospheric Administration, 1305 East-West Highway, SSMC4, Mail Station 8240 8th Floor, Silver Spring, Maryland 20910-3282; (2) delivery was guaranteed by 3 p.m., Eastern Time on the specified closing date; and, (3) the proposal was received in the NCCOS/CSCOR office by 3 p.m., Eastern Time no later than 2 business days following the closing date. Investigators submitting proposals electronically are advised to submit well in advance of the deadline.

Address for Submitting Proposals: Applications must be submitted through http://www.grants.gov, unless an applicant does not have internet access. If an applicant does not have internet access, hard copies with original signatures may be sent to: Laura J. Golden National Oceanic and Atmospheric Administration Center for Sponsored Coastal Ocean Research 1305 East West Highway Routing Code: N/SCI2 Building SSMC4, Room 8240 Silver Spring, MD 20910.

Information Contacts: Technical Information. Kimberly Puglise, NCCOS/CSCOR Program Manager, 301-713-3338/ext 140, internet: Kimberly.Puglise@noaa.gov. Business Management Information. Laurie Golden, NCCOS/CSCOR Grants Administrator, 301-713-3338/ext 151, Internet: Laurie.Golden@noaa.gov.

Eligibility: Eligible applicants are institutions of higher education, other non-profits, state, local, Indian Tribal Governments, commercial organizations, U.S. Territories, and agencies that possess the statutory authority to receive financial assistance. DOC/NOAA supports cultural and gender diversity and encourages women and minority individuals and groups to submit applications to the CSCOR programs. In addition, DOC/NOAA is strongly committed to broadening the participation of historically black colleges and universities, Hispanic serving institutions, tribal colleges and universities, and institutions that work in underserved areas. DOC/NOAA encourages proposals involving any of the above institutions Please note that NCCOS/CSCOR will not fund any Full Time Employee (FTE) salaries, but will fund travel, equipment, supplies, and contractual personnel costs associated with the proposed work. Researchers must be employees of an eligible entity listed above; and proposals must be submitted through that entity. researchers should comply with their institutional requirements for proposal submission. Non-NOAA applicants will be required to submit certifications or documentation showing that they have specific legal authority to receive funds from the Department of Commerce (DOC) for this research. Foreign researchers may apply as subawards through an eligible U.S. entity. Researchers affiliated with NOAA-University Cooperative/Joint Institutes should comply with joint institutional requirements; they will be funded through grants either to their institutions or to joint institutes.

Cost Sharing Requirements: None required.

Intergovernmental Review: Applications under this program are not subject to Executive Order 12372, Intergovernmental Review of Programs. It has been determined that this notice is not significant for purposes of Executive Order 12866. Pursuant to 5 U.S.C. 553(a) (2), an opportunity for public notice and comment is not required for this notice relating to grants, benefits and contracts. Because this notice is exempt from the notice and comment provisions of the Administrative Procedure Act, a Regulatory Flexibility Analysis is not required, and none has been prepared. It has been determined that this notice does not contain policies with implications as that term is defined in Executive Order 13132.

7. Harmful Algal Bloom Programs

Summary Description: National Centers for Coastal Ocean Centers (NCCOS)/Center for Sponsored Coastal Ocean Research (CSCOR) is soliciting proposals for the Ecology and Oceanography of Harmful Algal Blooms Program, the Monitoring and Event Response for Harmful Algal Blooms Program and the Prevention, Control and Mitigation of Harmful Algal Blooms Program. Background information about the NCCOS/CSCOR efforts can be found at http://www.cop.noaa.gov. Proposals should be submitted through Grants.gov http://www.grants.gov/.

Funding Availability: Funding is contingent upon availability of appropriations. NOAA is committed to continual improvement of the grants process and accelerating the award of financial assistance to qualified recipients in accordance with the recommendations of the Business Process Reengineering Team. In order to fulfill these responsibilities, this solicitation announces that award amounts will be determined by the proposals and available funds. The following program-specific guidelines for budget requests are provided: (1) Ecology and Oceanography of Harmful Algal Blooms (ECOHAB) Targeted: $100,000-$250,000/yr not including ship time; (2) Monitoring and Event Response for Harmful Algal Blooms (MERHAB) Targeted: $100,000-$250,000/yr not including ship time; (3) ECOHAB Regional: $1,000,000/yr, not including ship time; (4) MERHAB Regional: $600,000/yr, not including ship time; and (5) Prevention, Control, and Mitigation of Harmful Algal Blooms (PCM HAB): $100,000-$500,000/yr, not including ship time. Budget requests that exceed the guidelines will need to be specifically justified. Project periods may be modified after review due to the availability of appropriations. It is anticipated that up to 1 or 2 regional-scale projects and up to 8 targeted projects will be funded. Applicants are hereby given notice that funds have not yet been appropriated for this program. In no event will NOAA or the Department of Commerce be responsible for proposal preparation costs if this program fails to receive funding or is cancelled because of other agency priorities. There is no guarantee that sufficient funds will be available to make awards for all qualified projects. Publication of this notice does not oblige NOAA to award any specific project or to obligate any available funds. If one incurs any costs prior to receiving an award agreement signed by an authorized NOAA official, one would do so solely at one's own risk of these costs not being included under the award. Publication of this notice does not obligate any agency to any specific award or to obligate any part of the entire amount of funds available. Recipients and subrecipients are subject to all laws and agency policies, regulations and procedures applicable to financial assistance awards.

Statutory Authority: 1. ECOHAB: 16 U.S.C. 1456C; 33 U.S.C. 883d; 33 U.S.C. 1442; 15 U.S.C. 1540; and/or Pub. L. 105-383, as amended by 108-456. 2. MERHAB: 16 U.S.C. 1456C; 33 U.S.C. 883d; 33 U.S.C. 1442; 15 U.S.C. 1540; and/or Pub. L. 105-383, as amended by 108-456. 3. PCM HAB: 16 U.S.C. 1456C; 33 U.S.C. 883d; 33 U.S.C. 1442; 15 U.S.C. 1540; and/or Pub. L. 105-383, as amended by 108-456.

Catalog of Federal Domestic Assistance (CFDA) Number: 11.478, Center for Sponsored Coastal Ocean Research—Coastal Ocean Program.

Application Deadline: LOIs for all programs must be received at the CSCOR Program Office by 5 p.m. Eastern Time, August 16, 2010. Applicants who have not received a response to their LOI within three weeks should contact Mary Payne at Mary.Payne@noaa.gov. Applicants may not submit full applications if they do not submit a LOI. The deadline for receipt of full proposals for all programs at the NCCOS/CSCOR office is 3 p.m., Eastern Time on October 14, 2010. These deadlines are for hand delivered or electronically submitted proposals. Note that late-arriving hard copy applications will be accepted for review only if the applicant can document that: (1) The application was provided to a delivery service with delivery to the National Oceanic & Atmospheric Administration, 1305 East-West Highway, SSMC4, Mail Station 8240, 8th Floor, Silver Spring, Maryland 20910-3282; (2) delivery was guaranteed by 3 p.m., Eastern Time on the specified closing date; and, (3) the proposal was received in the NCCOS/CSCOR office by 3 p.m., Eastern Time no later than 2 business days following the closing date. Investigators submitting proposals electronically are advised to submit well in advance of the deadline. Important: All applicants, both electronic and paper, should be aware that adequate time must be factored into applicant schedules for delivery of the application. Validation or rejection of your application by Grants.gov may take up to 2 business days after submission. Please consider this process in developing your submission timeline. Paper applicants should allow adequate time to ensure a paper application will be received on time, taking into account that guaranteed overnight carriers are not always able to fulfill their guarantees.

Address for Submitting Proposals: Applications must be submitted through http://www.grants.gov, unless an applicant does not have Internet access. If an applicant does not have Internet access, hard copies with original signatures may be sent to: National Oceanic and Atmospheric Administration, Center for Sponsored Coastal Ocean Research, 1305 East-West Highway, Mail Station 8240, 8th Floor, Silver Spring, MD 20910.

Information Contacts: Technical Information: Quay Dortch, ECOHAB Coordinator, 301-713-3338 extension 157, e-mail: Quay.Dortch@noaa.gov. Marc Suddleson, MERHAB Program Manager, 301-713-3338 extension 162, e-mail: Marc.Suddleson@noaa.gov. Quay Dortch, PCM Acting Program Manager, 301-713-3338 extension 157, e-mail: Quay.Dortch@noaa.gov. Business Management Information: Laurie Golden, NCCOS/CSCOR Grants Administrator, 301-713-3338 extension 151, e-mail: Laurie.Golden@noaa.gov.

Eligibility: Eligible applicants are institutions of higher education, other non-profits, state, local, Indian Tribal Governments, commercial organizations, U.S. Territories and agencies that possess the statutory authority to receive financial assistance. DOC/NOAA supports cultural and gender diversity and encourages women and minority individuals and groups to submit applications to the CSCOR programs. In addition, DOC/NOAA is strongly committed to broadening the participation of historically black colleges and universities, Hispanic serving institutions, tribal colleges and universities, and institutions that work in underserved areas. DOC/NOAA encourages proposals involving any of the above institutions. Please note that NCCOS/CSCOR will not fund any Full Time Employee (FTE) salaries, but will fund travel, equipment, supplies, and contractual personnel costs associated with the proposed work. Researchers must be employees of an eligible entity listed above; and proposals must be submitted through that entity. Researchers should comply with their institutional requirements for proposal submission. Non-NOAA applicants will be required to submit certifications or documentation showing that they have specific legal authority to receive funds from the Department of Commerce (DOC) for this research. Foreign researchers may apply as subawards through an eligible U.S. entity. Researchers affiliated with NOAA-University Cooperative/Joint Institutes should comply with joint institutional requirements; they will be funded through grants either to their institutions or to joint institutes.

Cost Sharing Requirements: None.

Intergovernmental Review: Applications under this program are not subject to Executive Order 12372, Intergovernmental Review of Programs. It has been determined that this notice is not significant for purposes of Executive Order 12866. Pursuant to 5 U.S.C. 553(a)(2), an opportunity for public notice and comment is not required for this notice relating to grants, benefits and contracts. Because this notice is exempt from the notice and comment provisions of the Administrative Procedure Act, a Regulatory Flexibility Analysis is not required, and none has been prepared. It has been determined that this notice does not contain policies with implications as that term is defined in Executive Order 13132.

8. Fiscal Year 2011 NOAA California Bay Watershed Education and Training Program

Summary Description: The California B-WET grant program is a competitively based program that supports existing environmental education programs, fosters the growth of new programs, and encourages the development of partnerships among environmental education programs throughout the San Francisco Bay, Monterey Bay, and Santa Barbara Channel watersheds. Projects support organizations that provide students “meaningful” watershed educational experiences and teachers professional development opportunities in the area of environmental education.

Funding Availability: This solicitation announces that approximately $2,000,000 may be available in FY 2011 in award amounts to be determined by the proposals and available funds. About $850,000 will be made available to the San Francisco Bay area, about $700,000 will be made available to the Monterey Bay area, and about $450,000 will be made available to the Santa Barbara area. The NOAA Office of National Marine Sanctuaries anticipates that approximately 35 grants will be awarded with these funds. The NOAA Office of National Marine Sanctuaries anticipates that typical project awards for the identified priority areas will range from $30,000 to $60,000. Proposals will be considered for funds greater than the specified ranges if there is sufficient demonstration that the project requires additional funds and/or if the proposal includes multiple partners. There is no guarantee that sufficient funds will be available to make awards for all qualified projects. The exact amount of funds that may be awarded will be determined in pre-award negotiations between the applicant and NOAA representatives. Publication of this notice does not oblige NOAA to award any specific project or to obligate any available funds. If applicants incur any costs prior to an award being made, they do so at their own risk of not being reimbursed by the government. Notwithstanding verbal or written assurance that may have been received, there is no obligation on the part of NOAA to cover pre-award costs unless approved by the Grants Officer as part of the terms when the award is made.

Statutory Authority: Under 33 U.S.C. 893a(a), the Administrator of the National Oceanic and Atmospheric Administration is authorized to conduct, develop, support, promote, and coordinate formal and informal educational activities at all levels to enhance public awareness and understanding of ocean, coastal, Great Lakes, and atmospheric science and stewardship by the general public and other coastal stakeholders, including underrepresented groups in ocean and atmospheric science and policy careers. In conducting those activities, the Administrator shall build upon the educational programs and activities of the agency.

Catalog of Federal Domestic Assistance (CFDA) Number: 11.429, Marine Sanctuary Program.

Application Deadline: Full Proposals must be received by http://www.grants.gov, postmarked, or provided to a delivery service by 5 p.m. Pacific Standard Time on October 5, 2010. Use of U.S. mail or another delivery service must be documented with a receipt. No facsimile or electronic mail applications will be accepted. Please Note: Validation or rejection of your application by Grants.gov may take up to 2 business days after submission. Please consider this process in developing your submission timeline. Both hard copy and electronic proposals received after that time will not be considered for funding and will be returned to the applicant.

Address for Submitting Proposals: Applications must be submitted through http://www.grants.gov, unless an applicant does not have Internet access. If an applicant does not have Internet access, hard copies with original signatures may be sent to: Office of National Marine Sanctuaries, CA B-WET Program, Attention Seaberry Nachbar, 299 Foam Street, Monterey, CA 93940.

Information Contacts: Please visit the National Marine Sanctuaries CA B-WET Web site at: http://sanctuaries.noaa.gov/news/bwet/welcome.html) or contact Seaberry Nachbar, Monterey Bay National Marine Sanctuary office; 299 Foam Street, Monterey, CA 93940, or by phone at 831-647-4201, or fax to 831-647-4250, or via Internet at seaberry.nachbar@noaa.gov.

Eligibility: Eligible applicants are K-through-12 public and independent schools and school systems, institutions of higher education, nonprofit organizations, state or local government agencies, and Indian tribal governments. The Department of Commerce/National Oceanic and Atmospheric Administration (DOC/NOAA) is strongly committed to broadening the participation of historically black colleges and universities, Hispanic serving institutions, tribal colleges and universities, and institutions that service undeserved areas. The NOAA Office of National Marine Sanctuaries encourages proposals involving any of the above institutions.

Cost Sharing Requirements: No cost sharing is required under this program; however, the NOAA Office of National Marine Sanctuaries strongly encourages applicants applying for either area of interest to share as much of the costs of the award as possible. Funds from other awards may not be considered matching funds. The nature of the contribution (cash versus in-kind) and the amount of matching funds will be taken into consideration in the review process with cash being the preferred method of contribution.

Intergovernmental Review: Applications under this program are not subject to Executive Order 12372, Intergovernmental Review of Programs.

9. Fiscal Year 2011 NOAA Pacific Northwest Bay Watershed Education and Training (B-WET) Program

Summary Description: NOAA B-WET is an environmental education program that promotes locally relevant, experiential learning in the K-12 environment. Funded projects provide meaningful watershed educational experiences for students, related professional development for teachers, and helps to support regional education and environmental priorities in the Pacific Northwest.

Funding Availability: It is anticipated that up to approximately $1,000,000 will be available in FY2011 for all Pacific Northwest projects. NOAA anticipates making up to approximately 13 new awards during FY 2011. NOAA will consider only projects with duration of one year. The total amount that may be requested from NOAA shall not exceed $60,000 per year. The minimum amount that must be requested from NOAA for all years is $25,000. Applications requesting support from NOAA of less than $25,000 total or more than $60,000 per year will not be considered for funding. Proposals may be considered eligible for renewal beyond the first project period. However, funds will be made available for only a 12-month award period and any renewal of the award period will depend on submission of a successful proposal subject to panel reviews, adequate progress on previous award(s), and available funding to renew the award. No assurance for funding renewal exists; funding will be at the complete discretion of NOAA. Projects that plan on renewal must include in their first-year submission a full description of the activities and budget for the first year as described in this announcement, and a summary description of the proposed work and estimated budget for each subsequent year. If selected for funding, the applicant will be required to submit a full proposal each subsequent year by the deadline announced in the following competitive cycle. In addition to the requirements for new proposals, renewed projects should include the accomplishments to date on the previous year's grant in their subsequent grant submissions. No proposal will be considered for renewal more than two times. There is no guarantee that sufficient funds will be available to make awards for all qualified projects. The exact amount of funds that may be awarded will be determined in pre-award negotiations between the applicant and NOAA representatives. Publication of this notice does not oblige NOAA to award any specific project or to obligate any available funds. If applicants incur any costs prior to an award being made, they do so at their own risk of not being reimbursed by the government. Notwithstanding verbal or written assurance that may have been received, there is no obligation on the part of NOAA to cover pre-award costs unless approved by the Grants Officer as part of the terms when the award is made.

Statutory Authority: Under 33 U.S.C. 893 a(a), the Administrator of the National Oceanic and Atmospheric Administration is authorized to conduct, develop, support, promote, and coordinate formal and informal educational activities at all levels to enhance public awareness and understanding of ocean, coastal, Great Lakes, and atmospheric science and stewardship by the general public and other coastal stakeholders, including underrepresented groups in ocean and atmospheric science and policy careers. In conducting those activities, the Administrator shall build upon the educational programs and activities of the agency.

Catalog of Federal Domestic Assistance (CFDA) Number: 11.429, Marine Sanctuary Program.

Application Deadline: Full proposals must be received and validated by Grants.gov, postmarked, or provided to a delivery service on or before 5 p.m. PDT, October 8, 2010. Please Note: Validation or rejection of your application by Grants.gov may take up to two business days after submission. Please consider this process in developing your submission timeline. Applications received after the deadline will be rejected/returned to the sender without further consideration. Use of U.S. mail or another delivery service must be documented with a receipt. No e-mail and/or facsimile pre-proposals and/or full applications will be accepted. Applications that are late or are received by fax or e-mail will deemed to not fulfill minimum requirements and will not be considered for review. Applications submitted through Grants.gov will be accompanied by an automated receipt of the date and time of submission. Hard copy applications will be hand stamped with time and date when received in the office of Olympic Coast National Marine Sanctuary, 115 E. Railroad Ave., Suite 301, Port Angeles, WA, 98362. (Note that late-arriving hard copy applications provided to a delivery service on or before 5 p.m., Pacific Time, October 8, 2010 will be accepted for review if the applicant can document that the application was provided to the guaranteed delivery service by the specified closing date and time, and if the proposals are received before 5 p.m., Pacific Time, no later than two business days following the closing date. Applicants are recommended to send hard copies via expedited shipping methods (e.g, Airborne Express, DHL, FedEx, UPS, etc.).

Address for Submitting Proposals: Applications must be submitted to http://www.grants.gov to be considered for funding. If an applicant does not have Internet access, the applicant may submit proposals in hard copy to: Robert Steelquist, B-WET Pacific Northwest Manager, Olympic Coast National Marine Sanctuary, 115 East Railroad Avenue, Suite 301, Port Angeles, WA 98362; telephone 360/457-6622, extension 19. Applicants are advised to send hard copies via expedited shipping methods (e.g., Airborne Express, DHL, FedEx, UPS, etc.).

Information Contacts: Pacific Northwest B-WET: please contact Robert Steelquist, NOAA B-WET PNW Manager, 115 E. Railroad Ave., Suite 301, Port Angeles, WA, 98362; 360/457-6622 ext.19 or by e-mail at: Robert.steelquist@noaa.gov.

Eligibility: Eligible applicants are K-12 public and independent schools and school systems, institutions of higher education, community-based and nonprofit organizations, state or local government agencies, interstate agencies, and Indian tribal governments. The Department of Commerce/National Oceanic and Atmospheric Administration (DOC/NOAA) is strongly committed to broadening the participation of historically black colleges and universities, Hispanic serving institutions, tribal colleges and universities, and institutions that service underserved areas. While applicants do not need to be from the targeted geographical regions specified in the program objectives, they must be working with target audiences in these areas.

Cost Sharing Requirements: No cost sharing is required under this program, however, the NOAA B-WET Program strongly encourages applicants include a 25 percent or higher match. Funds from other awards may not be considered matching funds. The nature of the contribution (cash vs. in-kind) and the amount of matching funds will be taken into consideration during the review process. Priority selection is given to proposals that propose cash rather than in-kind services.

Intergovernmental Review: Applications under this program are not subject to Executive Order 12372, “Intergovernmental Review of Programs.”

10. Coral Reef Conservation Program Domestic Coral Reef Conservation Grants

Summary Description: The NOAA Coral Reef Conservation Grant Program, as authorized under the Coral Reef Conservation Act of 2000, provides matching grants of financial assistance to institutions of higher education, non-profit organizations, commercial organizations, and local and Indian tribal government agencies under the Domestic Coral Reef Conservation Grant program. These awards are intended to support coral reef conservation projects in shallow water coral reef ecosystems, including mesophotic depths, in American Samoa, the Commonwealth of the Northern Mariana Islands, Florida, Guam, Hawaii, Puerto Rico, and the U.S. Virgin Islands. Proposals submitted to this competition must address at least one of the following four categories: (1) Fishing Impacts; (2) Land-Based Sources of Pollution; (3) Climate Change; and (4) Local and Emerging Management Issues. All proposed work should be consistent with the CRCP National Goals and Objectives 2010-2015 (http://coralreef.noaa.gov/aboutcrcp/strategy/currentgoals/resources/3threats_go.pdf) and/or the relevant Jurisdictional Coral Reef Management Priorities (http://coralreef.noaa.gov/aboutcrcp/strategy/reprioritization/managementpriorities). Proposals selected for funding through this solicitation will be implemented through a grant and will require a 1:1 match of funds. Approximately $500,000 is expected to be available for this competition in FY 2011. Funding will be divided among the U.S. Pacific and Atlantic regions to maintain the geographic balance of the Grant Program overall, as required by the Coral Reef Conservation Act of 2000. NOAA will not accept proposals with a budget under $30,000 or over $125,000 under this solicitation. It is expected that the average award size will be $65,000.

Funding Availability: Total anticipated funding for all grants is approximately $500,000 and is subject to the availability of FY 2011 appropriations. NOAA will not accept proposals with a budget under $30,000 or over $125,000 under this solicitation. It is expected that the average award size will be $65,000. There is no limit on the number of applications that can be submitted by the same applicant during the FY 2011 competitive grant cycle. However, multiple applications submitted by the same applicant must clearly identify different projects and must be successful in the competitive review process. The number of awards made as a result of this solicitation will depend on the number of eligible applications received, the amount of funds requested for each project, the merit and ranking of the proposals, and the amount of funds made available to the Coral Reef Conservation Program by Congress. In addition, funding will be divided between the U.S. Pacific and U.S. Atlantic to meet requirements for geographic distribution of funds, as described in the Coral Reef Conservation Act. Attempts will also be made to fund one or more projects in each jurisdiction, provided that the project addresses priorities outlined above, it is identified as having sufficient merit, and it meets all other requirements as stipulated in this solicitation. The funds have not yet been appropriated for this program, and there is no guarantee that sufficient funds will be available to make awards for all qualified projects. Publication of this notice does not oblige NOAA to award any specific project or to obligate any available funds.

Statutory Authority: Authority for the NOAA Coral Reef Conservation Grant Program is provided by Section 6403 (Coral Reef Conservation Program) of the Coral Reef Conservation Act of 2000 (16 U.S.C. 6401 et seq).

Catalog of Federal Domestic Assistance (CFDA) Number: 11.482, Coastal Zone Management Administration Awards.

Application Deadline: Full Proposals must be received by http://www.grants.gov, postmarked, or provided to a delivery service by 5 p.m. (EDT) on November 1, 2010. Use of U.S. mail or another delivery service must be documented with a receipt. Applications postmarked or provided to a delivery service after that time will not be accepted for funding. Applications submitted via U.S. Postal Service must have an official postmark; private metered postmarks are not acceptable. In any event, applications received later than 15 business days following the postmarked closing date will not be accepted. No facsimile or electronic mail applications will be accepted. Please Note: Validation or rejection of your application by Grants.gov may take up to 2 business days after submission. Please consider this process in developing your submission timeline. There will be no extensions beyond these dates. If an application is not submitted through Grants.gov or postmarked by the deadline listed above, it will not be reviewed or considered for FY 2011 funding.

Address for Submitting Proposals: Applications must be submitted to http://www.grants.gov by 5 p.m. EDT on November 1, 2010 to be considered for funding. If Grants.gov cannot be reasonably used, applications must be postmarked, or provided to a delivery service and documented with a receipt by November 1, 2010. Applications postmarked or provided to a delivery service after that time will not be accepted for funding. Applications submitted via U.S. Postal Service must have an official postmark; private metered postmarks are not acceptable. In any event, applications received later than 15 business days following the postmarked closing date will not be accepted. There will be no extensions beyond these dates. If an application is not submitted through Grants.gov or postmarked by the deadline listed above, it will not be reviewed or considered for FY 2011 funding. If internet access is unavailable, hard copies can be submitted to: ATTN: CRCP Domestic Grant Applications, Jenny Waddell, 1305 East West Highway, 10th Floor, N/ORM1, Silver Spring, MD 20910, Phone: 301-713-3155 extension 150; or e-mail: Jenny.Waddell@noaa.gov. Applicants submitted by mail are required to include original signed and dated copies of the financial assistance forms. Electronic copies of the project narrative and budget narrative are requested with the submission of a paper application. Please submit these to Jenny.Waddell@noaa.gov.

Information Contacts: The technical point of contact for CRCP Domestic Coral Reef Conservation Grants is Jenny Waddell. She can be reached at 301-713-3155, extension 150 or by e-mail at Jenny.Waddell@noaa.gov. Fax: 301-713-4367. Her mailing address is OCRM/NOAA, N/-ORM, 1305 East West Highway, Silver Spring, MD, 20910.

Eligibility: Institutions of higher education, non-profit organizations, commercial organizations, local and Indian tribal government agencies can apply for funding under the DCRCG. U.S. Federal, State, territory, and commonwealth governments and Regional Fishery Management Councils are not eligible under this category. NOAA employees are not allowed to help in the preparation of applications or write letters of support for any application. NOAA staff is available to provide information on programmatic goals and objectives, ongoing coral reef conservation programs/activities, regional funding priorities, and, along with other Program Officers, can provide information on application procedures and completion of required federal forms. For activities that involve collaboration with current NOAA programs or staff, NOAA employees must provide a letter verifying that they are collaborating with the project. Employee travel and salaries are not allowable costs under this program.

Cost Sharing Requirements: All awards of financial assistance provided by the NOAA Coral Reef Conservation Grant Program (Grant Program) under the authority of the Coral Reef Conservation Act (Act) of 2000 are subject to the matching fund requirements described below.

As per section 6403(b)(1) of the Act, funds for any coral conservation project funded under this Grant Program may not exceed 50 percent of the total cost of the award. Therefore, any coral conservation project under this Grant Program requires a 1:1 contribution of matching funds. Matching funds can come from a variety of public and private sources and can include in-kind goods and services such as private boat use and volunteer labor. Federal sources cannot be considered as matching funds, but can be described in the budget narrative to demonstrate additional leverage. Applicants are permitted to combine contributions from multiple non-federal partners in order to meet the 1:1 match requirement, as long as such contributions are not being used to match any funds received under another award. Applicants must specify in their proposal the source(s) of match and may be asked to provide letters of commitment to confirm stated match contributions. Applicants whose proposals are selected for funding will be bound by the percentage of cost sharing reflected in the award document signed by the NOAA Grants Officer. Applicants should be prepared to carefully document matching contributions for each project selected for funding. As per section 6403(b)(2) of the Coral Reef Conservation Act of 2000, the NOAA Administrator may waive all or part of the matching requirement if the Administrator determines that the project meets the following two requirements: 1. No reasonable means are available through which an applicant can meet the matching requirement, and, 2. The probable benefit of such project outweighs the public interest in such matching requirement. In the case of a waiver request, the applicant must provide a detailed justification explaining the need for the waiver including attempts to obtain sources of matching funds, how the benefit of the project outweighs the public interest in providing match, and any other extenuating circumstances preventing the availability of match. Match waiver requests including the appropriate justification should be submitted as part of the final application package. Please Note: eligible applicants choosing to apply 48 U.S.C. 1469a(d) should note the use of the waiver and the total amount of funds requested to be waived in the matching funds section of their respective pre- and final applications.

Intergovernmental Review: Applications under this competition are subject to Executive Order 12372, Intergovernmental Review of Programs. Any applicant submitting an application for funding is required to complete item 16 on SF-424 regarding clearance by the State Single Point of Contact established as a result of EO 12372: http://www.whitehouse.gov/omb/grants/spoc.html.

11. Coral Reef Conservation Program State and Territorial Coral Reef Conservation Cooperative Agreements

Summary Description: The NOAA Coral Reef Conservation Program, as authorized by the Coral Reef Conservation Act of 2000, provides matching grants of financial assistance to State, Territorial and Commonwealth resource management agencies that were appointed by their respective Governors to serve as the primary point of contact agencies for coral reef conservation activities in each of the jurisdictions of American Samoa, Florida, the Commonwealth of the Northern Mariana Islands, Guam, Hawaii, Puerto Rico, and the U.S. Virgin Islands. The awards are administered as cooperative agreements to enable the collaboration and involvement of NOAA in the planning and implementation of the work. The objective of these Cooperative Agreements is to support coral reef management and monitoring programs and conservation projects that seek to improve the condition of coral reef ecosystem resources located in these seven U.S. States, Territories and Commonwealths.

Funding Availability: Funding of about approximately $4,500,000 is expected to be available from NOAA's Coral Reef Conservation Program for cooperative agreements to support priority coral reef management activities as described in section I(B) of the FFO announcement. There is no appropriation of funds at this time and the final funding amount will be subject to the availability of federal appropriations. Support in out-years following FY2011 is likewise contingent upon the availability of future funding and the requirements of the agency supporting the project. Each eligible jurisdiction can apply for a maximum of $750,000 per year. In certain instances, when requested by the applicant and agreed upon by NOAA, NOAA may hold back a portion of any awarded funds in order to provide specific coral reef conservation technical assistance in the form of contractual or other services. This will only be allowed where such priority technical assistance and/or the lack of sufficient means to deliver it are unavailable at the local level. Such requests proposed herein will be reviewed on a case by case basis with respect to the specific management objectives of this and the local coral reef program. NOAA will work with each jurisdiction to ensure the greatest degree of success in meeting local, state, territorial and national coral reef management needs.

Statutory Authority: Authority for the NOAA Coral Reef Conservation Grant Program is provided by Section 6403 (Coral Reef Conservation Program) of the Coral Reef Conservation Act of 2000 (16 U.S.C. 6401 et seq).

Catalog of Federal Domestic Assistance (CFDA) Number: 11.482, Coastal Zone Management Administration Awards.

Application Deadline: Project Lists, which are comprised of a simple table of proposed project titles and one-paragraph descriptions of proposed projects, must be submitted to coral.grants@noaa.gov or postmarked by October 1, 2011. Project Lists are optional but strongly encouraged. Pre-applications must be received by NOAA at coral.grants@noaa.gov or postmarked by 5 p.m. Eastern Standard Time on Friday, November 12, 2010. Applicants should submit an electronic copy of their pre-applications via e-mail and provide a copy to their NOAA Coral Reef Management Liaison as appropriate. Final Applications must be received by Grants.gov or postmarked by 5 p.m. Eastern Standard Time on Friday, March 4, 2011. For applications submitted through Grants.gov, a date and time receipt is generated by the system and will be the basis of determining timeliness. Hard copy applications must be received by NOAA by 5 p.m. Eastern Standard Time on the dates specified; any late-arriving hard copy applications will be accepted for review only if the applicant can document that: (1) The application was provided to a delivery service with delivery to Jenny Waddell, NOAA Coral Reef Conservation Program, 1305 East-West Highway, SSMC4, N/ORM1 10th Floor, Silver Spring, Maryland 20910; (2) delivery was guaranteed by 5 p.m. Eastern Standard Time on the specified closing date; and, (3) the application was received in the program office by 5 p.m. Eastern Standard Time no later than 2 business days following the closing date. Please Note: Validation or rejection of your application by Grants.gov may take up to 2 business days after submission. Please consider this process in developing your submission timeline. All applicants, both electronic and paper, should be aware that adequate time must be factored into applicant schedules for delivery of the application. Paper applicants should allow adequate time to ensure a paper application will be received on time, taking into account that guaranteed overnight carriers are not always able to fulfill their guarantees.

Address for Submitting Proposals: Applicants must submit an electronic copy of their Project List by e-mail to coral.grants@noaa.gov. Applicants must submit an electronic copy of their pre-applications via e-mail to coral.grants@noaa.gov. Final applications must be submitted via Grants.gov. If Internet access is not available to the applicant, a hard copy of the Project List, pre-application and final application may be submitted via surface mail to: Jenny Waddell, 1305 East West Highway, 10th Floor, N/ORM1, Silver Spring, MD 20910.

Information Contacts: The technical point of contact for CRCP State and Territorial Coral Reef Conservation Cooperative Agreements is Jenny Waddell. She can be reached at 301-713-3155, extension 150 or by e-mail at Jenny.Waddell@noaa.gov. Fax: 301-713-4367. Her mailing address is OCRM/NOAA, N/-ORM, 1305 East West Highway, Silver Spring, MD, 20910.

Eligibility: Eligible applicants are the State, Territorial and Commonwealth resource management agencies that were appointed by their respective Governors to serve as the primary point of contact agencies for coral reef conservation activities in each of the jurisdictions of American Samoa, Florida, the Commonwealth of the Northern Mariana Islands, Guam, Hawaii, Puerto Rico, and the U.S. Virgin Islands.

Cost-Sharing Requirements: All awards of financial assistance provided by the NOAA Coral Reef Conservation Grant Program (Grant Program) under the authority of the Coral Reef Conservation Act (Act) of 2000 are subject to the matching fund requirements described below. As per section 6403(b)(1) of the Act, funds for any coral conservation project funded under this Grant Program may not exceed 50 percent of the total cost of the award. Therefore, any coral conservation project under this Grant Program requires a 1:1 contribution of matching funds. Matching funds can come from a variety of public and private sources and can include in-kind goods and services such as private boat use and volunteer labor. Federal sources cannot be considered as matching funds, but can be described in the budget narrative to demonstrate additional leverage. Applicants are permitted to combine contributions from multiple non-Federal partners in order to meet the 1:1 match requirement, as long as such contributions are not being used to match any funds received under another award. Applicants must specify in their proposal the source(s) of match and may be asked to provide letters of commitment to confirm stated match contributions. Applicants whose proposals are selected for funding will be bound by the percentage of cost sharing reflected in the award document signed by the NOAA Grants Officer. Applicants should be prepared to carefully document matching contributions for each project selected for funding. As per section 6403(b)(2) of the Coral Reef Conservation Act of 2000, the NOAA Administrator may waive all or part of the matching requirement if the Administrator determines that the project meets the following two requirements:(1) No reasonable means are available through which an applicant can meet the matching requirement and, (2) The probable benefit of such project outweighs the public interest in such matching requirement. In the case of a waiver request, the applicant must provide a detailed justification explaining the need for the waiver including attempts to obtain sources of matching funds, how the benefit of the project outweighs the public interest in providing match, and any other extenuating circumstances preventing the availability of match. Match waiver requests including the appropriate justification should be submitted as part of the final application package. Please Note: eligible applicants choosing to apply 48 U.S.C. 1469a(d) should note the use of the waiver and the total amount of funds requested to be waived in the matching funds section of their respective pre- and final applications.

Intergovernmental Review: Applications under this program are not subject to Executive Order 12372, “Intergovernmental Review of Programs.”

12. National Estuarine Research Reserve Graduate Research Fellowship Program for Fiscal Year 2011

Summary Description: The National Estuarine Research Reserve System (NERRS) consists of estuarine areas of the United States and its territories which are designated and managed for research and educational purposes. Each Reserve within the system is chosen to reflect regional differences and to include a variety of ecosystem types in accordance with the classification scheme of the national program as presented in 15 CFR part 921. Each Reserve supports a wide range of beneficial uses of ecological, economic, recreational, and aesthetic values which are dependent upon the maintenance of a healthy ecosystem. The sites provide habitats for a wide range of ecologically and commercially important species of fish, shellfish, birds, and other aquatic and terrestrial wildlife. Each Reserve has been designed to ensure its effectiveness as a conservation unit and as a site for long-term research and monitoring. As part of a national system, the Reserves collectively provide an excellent opportunity to address research questions and estuarine management issues of national significance. For detailed descriptions of the sites, refer to the NERRS Web site at http://www.nerrs.noaa.gov or contact the site staff listed in Appendix I.

Funding Availability: The total project cost for a one-year Graduate Research Fellowship award is $28,572. The Federal funding amount of the fellowship is $20,000, and at least 30% of the total project cost is required as non-Federal match. To illustrate how the total project cost of $28,572 is calculated-$20,000 of this amount is supplied by the Federal government as 70%, with a minimum of 30% non-Federal match ($8,572) of the total funding provided by the student's eligible institution.

Statutory Authority: Section 315 of the Coastal Zone Management Act of 1972, as amended CZMA, 16 U.S.C. 1461, establishes the National Estuarine Research Reserve System (NERRS). 16 U.S.C. 1461 (e)(1)(B) authorizes the Secretary of Commerce to make grants to any coastal state or public or private person for purposes of supporting research and monitoring within a National Estuarine Research Reserve that are consistent with the research guidelines developed under subsection (c).

Catalog of Federal Domestic Assistance (CFDA) Number: 11.420, Coastal Zone Management Estuarine Research Reserves.

Application Deadline: Full Proposals must be received by http://www.grants.gov, postmarked, or provided to a delivery service by 11 p.m. (EST) on November 1, 2010. Use of U.S. mail or another delivery service must be documented with a receipt. No facsimile or electronic mail applications will be accepted. Please Note: Validation or rejection of your application by Grants.gov may take up to 2 business days after submission. Please consider this process in developing your submission timeline.

Address for Submitting Proposals: Applications submitted in response to this announcement are strongly encouraged to be submitted through the http://www.grants.gov Web site no later than November 1, 2010 at 11 p.m. (EST). Electronic access to the full funding announcement for this program is available via the http://www.grants.gov Web site. The announcement will also be available by contacting Alison Krepp with the Estuarine Reserves Division at Alison.Krepp@noaa.gov or 301-713-3155 x 105. If an applicant does not have access to the Internet, paper applications (a signed original and two copies) may be submitted to the Estuarine Reserves Division at the following address, and must be postmarked by November 1, 2010: Attn: Alison Krepp, NOAA/Estuarine Reserves Division, 1305 East West Highway, Room 10503, Silver Spring, Maryland 20910.

Information Contacts: For questions regarding the program and application process, please contact Alison Krepp (301-713-3155 ext. 105) at NOAA/Estuarine Reserves Division, 1305 East-West Highway, N/ORM5, SSMC4, Station 10503, Silver Spring, MD 20910 or via e-mail at Alison.Krepp@noaa.gov, or fax at 301-713-4012. The program Web site can be accessed at http://www.nerrs.noaa.gov/Fellowship.aspx . If the Web page does not provide sufficient information and Alison Krepp is unavailable, please contact Erica Seiden at (301) 713-3155 ext. 172 or Erica.Seiden@noaa.gov.

Eligibility: Eligible applicants are institutions of higher education, other non-profits, State and local governments. Eligible applicants must apply on behalf of a graduate student who has been admitted to or is enrolled in a full-time master's or doctoral program at a U.S. accredited university. Students should have completed a majority of their graduate course work at the beginning of their fellowship and have an approved thesis research program to be conducted at a Reserve. Minority students are encouraged to apply. All awards are normally made to the fellow's graduate institution through the use of a grant. Therefore, students must work with an authorized representative from their institution's Office of Sponsored Research, or equivalent office, to complete the following required standard Federal forms—SF 424, CD-511, and SF 424B. Reserve staff are ineligible to submit an application for a fellowship under this announcement.

Cost-Sharing Requirements: Requested Federal funds must be matched by at least 30 percent of the TOTAL cost of the project, not only the $20,000 Federal share. The total project cost for a one year Graduate Research Fellowship is $28,572. To illustrate, $20,000 or 70% of this funding is supplied by the federal government, with a minimum 30% non-Federal match of $8,572 supplied by the student's eligible applicant institution. Cash or in-kind contributions directly benefitting the research project may be used to satisfy the matching requirements. Waived overhead costs may also be used as match. Funds from other Federal agencies and Reserve staff salaries supported by Federal funds may not be used as match. Requested overhead costs as well as institutional fees that do not qualify as direct costs under fellowship awards are limited to 10% of the Federal amount.

Intergovernmental Review: Applications under this program are subject to Executive Order 12372, “Intergovernmental Review of Programs.” Applicants should contact their State Single Point of Contact (SPOC) to find out about and comply with the State's process under EO12372. The names and addresses of the SPOCs are listed in the Office of Management and Budget's Web site at http://www.whitehouse.gov/omb/grants/spoc.html.

13. National Estuarine Research Reserve System (NERRS) Land Acquisition and Construction Program for Fiscal Year 2011

Summary Description: The National Estuarine Research Reserve System consists of estuarine areas of the United States and its territories which are designated and managed for research and educational purposes. Each reserve within the system is chosen to represent a different bio-geographic region and to include a variety of ecosystem types in accordance with the classification scheme of the national program as presented in 15 CFR part 921. By funding designated reserve agencies and universities to conduct land acquisition and construction projects that support the NERRS purpose, NOAA will strengthen protection of key land and water areas, enhance long-term protection of the area for research and education, and provide for facility and exhibit construction that meet the highest sustainable design standards possible.

Funding Availability: This funding opportunity announces that approximately $3.89 million is available to designated reserve agencies or universities for construction and acquisition projects in fiscal year 2011. It is anticipated that 5 to 20 total projects may be funded. Awards will be issued as competitive grants. It is anticipated that the awards will run for up to three years. In the past, funding for land acquisition and construction awards has ranged in amount from approximately $20,000 to $3 million.

Statutory Authority: Authority for the NERR program is provided by 16 U.S.C. 1461 (e)(1)(A)(i),(ii), and (iii).

Catalog of Federal Domestic Assistance (CFDA) Number: 11.420, Coastal Zone Management Estuarine Research Reserves.

Application Deadline: Complete grant applications must be submitted or postmarked by 11:59 p.m., Eastern Standard Time, November 30, 2010. Please Note: Validation or rejection of your application by Grants.gov may take up to 2 business days after submission. Please consider this process in developing your submission timeline.

Address for Submitting Proposals: Applications must be submitted through http://www.grants.gov, unless an applicant does not have internet access. If an applicant does not have internet access, hard copies with original signatures may be sent to: NOS/OCRM/ERD Nina Garfield 1305 East West Highway, room 10505 Silver Spring, MD 20910.

Information Contacts: Administrative and Technical questions regarding the program and application process, please contact Nina Garfield, program coordinator, at NOAA/Estuarine Reserves Division, 1305 East-West Highway, N/ORM5, SSMC4, Station 10505, Silver Spring, MD 20910 or via phone: 301-563-1171 ext. 171, e-mail: contact Nina.Garfield@noaa.gov, or fax: 301-713-4363. The program Web site can be accessed at http://www.ocrm.nos.noaa.gov/nerr.html. Other questions should be directed to Nina Garfield of ERD at 301-563-1171 ext. 171, or fax 301-713-4012, or via internet at Nina.Garfield@noaa.gov or Laurie McGilvray at (301) 713-3155 ext. 158, laurie.mcgilvray@noaa.gov.

Eligibility: Eligible applicants are NERR lead state agencies or universities in coastal states. Eligible applicants should have completed all requirements as stated in the NERRS regulations at 15 CFR part 921, http://nerrs.noaa.gov/Background_Regulations.html.

Cost-Sharing Requirements: The amount of Federal funds requested must be matched by the applicant: 30 percent total project match for construction awards and 50 percent total project match for land acquisition awards. Cash or in-kind contributions directly benefiting the project may be used to satisfy the matching requirements. If using Reserve land acquisition banked match, a list of the banked match, indicating when the land was banked, must be included with the application. Applicants must identify all match sources and amounts equal to that requested above. Projects without match or with highly speculative match will not be considered.

Intergovernmental Review: Applications under this program are subject to Executive Order 12372, “Intergovernmental Review of Programs.” Applicants should contact their State Single Point of Contact to find out about and comply with the State processes under EO12372. The names and addresses of the Single Points of Contact are listed in the Office of Management and Budget Web site http://www.whitehouse.gov/omb/grants/spoc.html.

National Weather Service (NWS)

1. Collaborative Science, Technology, and Applied Research (CSTAR) Program

Summary Description: The CSTAR Program represents an NOAA/NWS effort to create a cost-effective transition from basic and applied research to operations and services through collaborative research between operational forecasters and academic institutions which have expertise in the environmental sciences. These activities will engage researchers and students in applied research of interest to the operational meteorological community and will improve the accuracy of forecasts and warnings of environmental hazards by applying scientific knowledge and information to operational products and services. The NOAA CSTAR Program is a contributing element of the U.S. Weather Research Program (USWRP). NOAA's program is designed to complement other agency contributions to that national effort. The CSTAR Program addresses NOAA's Mission Goal 3—Serve society's needs for weather and water information.

Funding Availability: The total funding amount available for proposals is anticipated to be approximately $250,000. However, there is no appropriation of funds at this time and no guarantee that there will be in the next fiscal year. Individual annual awards in the form of cooperative agreements are limited to a maximum of $125,000 per year for no more than three years. We anticipate making 1-3 awards.

Statutory Authority: Authority for the CSTAR program is provided by the following: 15 U.S.C. 313; 49 U.S.C. 44720 (b); 33 U.S.C. 883d; 15 U.S.C. 2904; 15 U.S.C. 2934.

Catalog of Federal Domestic Assistance (CFDA) Number: 11.468, Applied Meteorological Research.

Application Deadline: Full Proposals must be received by http://www.grants.gov, postmarked, or provided to a delivery service by 5 p.m. (EDT) on October 15, 2010. Use of U.S. mail or another delivery service must be documented with a receipt. No facsimile or electronic mail applications will be accepted. Please Note: Validation or rejection of your application by Grants.gov may take up to 2 business days after submission. Please consider this process in developing your submission timeline. Proposals received after the deadline will be rejected/returned to the sender without further consideration.

Address for Submitting Proposals: Proposals should be submitted through http://www.grants.gov. For those organizations without Internet access, proposals may be sent to Sam Contorno, CSTAR Program Manager, NOAA/NWS, 1325 East-West Highway, Room 15330, Silver Spring, Maryland 20910.

Information Contacts: The point of contact is Sam Contorno, NOAA/NWS; 1325 East-West Highway, Room 15330; Silver Spring, Maryland 20910-3283, or by phone at 301-713-3557 ext. 150, by fax to 301-713-1253, or via e-mail at samuel.contorno@noaa.gov. Questions concerning this announcement must be made via e-mail to samuel.contorno@noaa.gov. Questions and NOAA responses will be made public via the Web at http://www.nws.noaa.gov/ost/cstar.htm.

Eligibility: Eligible applicants are institutions of higher education and federally funded educational institutions such as the Naval Postgraduate School. This restriction is needed because the results of the collaboration are to be incorporated in academic processes which ensure academic multidisciplinary peer review as well as review of scientific validity for use in operations.

Cost Sharing Requirements: No cost sharing is required under this program.

Intergovernmental Review: Applications under this program are not subject to Executive Order 12372, Intergovernmental Review of Programs.

2. Meteotsunami Warning Project

Summary Description: NOAA's Tsunami Program's mission is to provide reliable tsunami forecasts and warnings and to promote community resilience. The Tsunami Warning System is designed to warn coastal residents of tsunamis generated by impulsive displacement of the sea floor through earthquakes and/or sub-sea landslides triggered by earthquakes. Approximately 85% of tsunamis are triggered by earthquakes. However, in some locations of the country meteorologically-generated waves with the same characteristics as tsunamis (or, ‘meteotsunamis') have historically posed a greater threat than the well-known earthquake-generated tsunami. Presently, no system is in place in the U.S. which monitors for the phenomena and alerts coastal residents to the threat. The NOAA Tsunami Program recognizes the need to research the possibility of developing a meteotsunami warning capability. This RFA requests research to address four primary objectives: Identify the causative forces and pre cursor environmental conditions which have generated meteotsunamis historically; define the observational systems, communications, and processing systems necessary to evaluate meteotsunami formation prior to impact along a coast; develop a protocol for issuing meteotsunami warnings along the U.S. coast; and define an overall Concept of Operations to distribute meteotsunami alerts from existing NWS facilities.

Funding Availability: The total funding amount available to the applicants over the course of the project is anticipated to be $400,000.00. It is anticipated there will be one recipient of this award. Individual annual awards are limited to a maximum of $200,000 per year for no more than two years.

Statutory Authority: 33 U.S.C. 3205.

Catalog of Federal Domestic Assistance (CFDA) Number: 11.467, Meteorologic and Hydrologic Modernization Development.

Application Deadline: Applications must be received on or before 5 p.m. Eastern Standard Time, August 31, 2010. For applications submitted through Grants.gov, timeliness will be determined by the time and date stamp generated by Grants.gov. Please Note: Validation or rejection of your application by Grants.gov may take up to 2 business days after submission. Please consider this process in developing your submission timeline. Hard copy applications will be date and time stamped when they are received to determine timeliness.

Address for Submitting Proposals: Applications must be submitted through http://www.grants.gov unless an applicant does not have Internet access. If an applicant does not have Internet access, hard copies with original signatures may be sent to: Jenifer Rhoades, NOAA/NWS, 1325 East West Highway, Room 13118, Silver Spring, Maryland 20910, Phone: 301-713-1677 x102, e-mail: jenifer.rhoades@noaa.gov. E-mail and fax submissions will not be accepted.

Information Contacts: Lewis Kozlosky, NOAA/NWS, 1325 East West Highway, Room 13123, Silver Spring, Maryland 20910, Phone: 301-713-1677 x108, e-mail: lewis.kozlosky@noaa.gov.

Eligibility: Eligible applicants are institutions of higher education, other nonprofits, commercial organizations, state, local and Indian tribal governments.

Cost Sharing Requirements: No cost sharing is required under this program.

Intergovernmental Review: Applications under this program are not subject to Executive Order 12372, Intergovernmental Review of Programs.

Oceanic and Atmospheric Research (OAR)

1. Fiscal Year 2011 Climate Program Office

Summary Description: Changing climate confronts society with significant economic, health, safety, and national security challenges. NOAA has important responsibilities in conducting observations, research, prediction, and information management for the purpose of understanding and responding to climate and global change. The NOAA Climate Program Office (CPO) manages the competitive research programs in which NOAA funds high-priority climate science to advance understanding of Earth's climate system and its atmospheric, oceanic, land, and snow and ice components. This science contributes to knowledge about how climate variability and change affect our health, economy, and well-being. The CPO supports research that is conducted in regions across the United States, at national and international scales, and globally. The CPO also provides strategic guidance and oversight for the agency's climate science and services programs. In this connection, the CPO is helping lead the development of a proposed NOAA Climate Service; details about the proposed Service can be found at (http://www.noaa.gov/climate.html). The CPO is in the process of restructuring its grants programs that will go into effect with this announcement of opportunity. The grants activities are now organized within four Programs: Climate Observations and Monitoring, Earth System Science, Modeling, Analysis, Predictions, and Projections, and Climate and Societal Interactions. In addition, the CPO announces an opportunity in FY 2011 that cuts across these four Programs to deal with Improving NOAA's Climate Services for the Coastal Zone. In FY 2011, approximately $21 million will be available for new awards pending budget appropriations. It is anticipated that most awards will be at a funding level between $50,000 and $300,000 per year, with some exceptions for larger awards ($600K-$700K). Investigators are highly encouraged to visit the CPO Web site (http://www.climate.noaa.gov) for general program information prior to submitting applications.

Funding Availability: In FY 2011, approximately $21 million will be available for new awards pending budget appropriations. It is anticipated that most awards will be at a funding level between $50,000 and $200,000 per year, with some exceptions for larger awards ($600K-$700K). Funding for FY 2012 may be used to fund some awards submitted under this competition. Current or previous grantees are eligible to apply for a new award that builds on, but does not replicate, activities covered in the current or previous award. Current grantees should not apply for supplementary funding through this announcement. Funding will be divided among the following five categories of projects: 1. Climate Observations and Monitoring: It is anticipated that $1.5 million will be available in FY11 for new projects. Projects should be primarily in the $50,000-$175,000/year range. 2. Earth System Science: It is anticipated that $4 million will be available in FY11 for new projects. Projects should be primarily in the $75,000-$175,000/year range. See the ESS information sheet for areas of exception. 3. Modeling, Analysis, Predictions, and Projections: It is anticipated that $3 million will be available in FY11 for new projects. Projects should be primarily in the $75,000-$200,000/year range. See the MAPP information sheet for areas of exception. 4. Climate and Societal Interactions: It is anticipated that $13.1 million will be available in FY11 for new projects. Projects should be primarily in the $50,000-$700,000/year range. For more detail on funding availability, please see the information sheet available for the individual program elements. 5. Coastal Zone Special Competition: It is anticipated that $1.0 million will be available in FY11 for new projects. Projects should be primarily in the $500,000/year (up to $1.5 million over the project lifetime).

Statutory Authority: 49 U.S.C. 47720(b), 15 U.S.C. 2904, 15 U.S.C. 2931-2934.

Catalog of Federal Domestic Assistance (CFDA) Number: 11.431, Climate and Atmospheric Research.

Application Deadline: Full proposals for all competitions must be postmarked, or received and validated by Grants.gov on or before 5 p.m. EDT on September 10, 2010. Please Note: Validation or rejection of your application by Grants.gov may take up to 2 business days after submission. Please consider this process in developing your submission timeline. If an applicant does not have Internet access, hard copy proposals will be accepted, and date recorded when they are received in the program office. Electronic or hard copies received after the deadline will not be considered, and hard copy applications will be returned to the sender.

Address for Submitting Proposals: Applications must be submitted through http://www.grants.gov. If an applicant does not have Internet access, hard copy applications may be submitted to the CPO Grants Manager Diane Brown at NOAA Climate Program Office (R/CP1), SSMC3, Room 12112, 1315 East-West Highway, Silver Spring, MD 20910.

Information Contacts: Please visit the CPO Web site for further information http://www.climate.noaa.gov/ or contact the CPO Grants Manager, Diane Brown by mail (see address above). Please allow up to two weeks after receipt for a response.

Eligibility: Eligible applicants are institutions of higher education, other nonprofits, commercial organizations, international organizations, and state, local and Indian tribal governments. Federal agencies or institutions are not eligible to receive assistance under this notice.

Cost Sharing Requirements: None.

Intergovernmental Review: Applications under this program are not subject to Executive Order 12372, Intergovernmental Review of Federal programs.

2. Fiscal Year 2011 NMFS-Sea Grant Fellowships in Population Dynamics

Summary Description: The Graduate Fellowship Program awards at least two new PhD fellowships each year to students who are interested in careers related to the population dynamics of living marine resources and the development and implementation of quantitative methods for assessing their status. Fellows will work on thesis problems of public interest and relevance to NMFS under the guidance of NMFS mentors at participating NMFS Science Centers or Laboratories. The NMFS-Sea Grant Fellowships in Population Dynamics meets NOAA's Mission goal of Protect, Restore and Manage the Use of Coastal and Ocean Resources Through Ecosystem-Based Management.

Funding Availability: The Graduate Fellowship Program awards at least two new PhD fellowships each year to students who are interested in careers related to the population dynamics of living marine resources and the development and implementation of quantitative methods for assessing their status. The award for each Fellowship, contingent upon the availability of funds, will be a multi-year cooperative agreement in the amount of $38,500 per year for up to three years. This involvement includes serving for 10-20 days aboard a research or commercial vessel during a scientific survey or experimental activity. Additionally, the Fellow may work on his/her thesis research or related activity at a participating NMFS facility. The Fellow's work will be overseen by a NMFS mentor who will provide advice and guidance.

Statutory Authority: Authority for the Population Dynamics Graduate Fellowship Program is provided by the following: 33 U.S.C. 1127(a).

Catalog of Federal Domestic Assistance (CFDA) Number: 11.417, Sea Grant Support.

Application Deadline: Applications are due to the appropriate State Sea Grant Program by 11:59 p.m. local on January 21, 2011. If your state does not have a Sea Grant Program, please check Section VII. Agency Contacts of the FFO announcement and http://www.seagrant.noaa.gov for information on contacting a State Sea Grant program. The State Sea Grant Program must transmit all applications via http://www.grants.gov so that it is received by 4 p.m., Eastern Time February 18, 2011, by the National Sea Grant Office (NSGO). A date and time receipt indication will be generated by the system and will be the basis of determining timeliness. Facsimile transmission and electronic submission of applications will not be accepted. Applications received after the deadline will not be reviewed.

Address for Submitting Proposals: Applicants must submit their applications to the applicable State Sea Grant Office. Please go to http://www.seagrant.noaa.gov for instructions on contacting a State Sea Grant program office. State Sea Grant programs must submit selected applications through http://www.Grants.gov.

Information Contacts: Contact Terry Smith, National Sea Grant College Program, 1315 East-West Highway, Silver Spring, MD 20910; tel: (301) 734-1084; e-mail: Terry.Smith@noaa.gov.

Eligibility: Prospective Fellows must be United States citizens. At the time of application, prospective Population Dynamics Fellows must be admitted to a PhD degree program in population dynamics or a related field such as applied mathematics, statistics, or quantitative ecology, at an institution of higher education in the United States or its territories, or submit a signed letter from the institution indicating provisional acceptance to a PhD degree program conditional on obtaining financial support such as this fellowship. Applications must come from Sea Grant programs and should be submitted through http://www.Grants.gov.

Cost Sharing Requirements: Of the $38,500 award, 50 percent ($19,250) will be contributed by NMFS, 33⅓ percent ($12,833) by the National Sea Grant Office (NSGO), and 16⅔ percent ($6,417) by the institution of higher education as the required 50 percent match of NSGO funds.

Intergovernmental Review: Applications under this program are not subject to Executive Order 12372, Intergovernmental Review of Programs.

3. Fiscal Year 2012 National Sea Grant College Program Dean John A. Knauss Marine Policy Fellowship

Summary Description: This notice announces that applications may be submitted for the National Sea Grant College Program Dean John A. Knauss Marine Policy Fellowship (Sea Grant Knauss Fellowship Program). The Sea Grant Knauss Fellowship Program is a program initiated by the National Oceanic and Atmospheric Administration (NOAA) National Sea Grant College Program, in fulfilling its broad educational responsibilities and legislative mandate of the Sea Grant Act, to provide an educational experience in the policies and processes of the Legislative and Executive Branches of the Government to graduate students in marine and aquatic-related fields. The Sea Grant Knauss Fellowship Program meets NOAA's Mission goal of “Protect, Restore and Manage the Use of Coastal and Ocean Resources Through Ecosystem-Based Management.”

Funding Availability: The state SGCP receives and administers the overall cooperative agreement of $49,000 per student on behalf of each fellow selected from their program. Of this amount, the state SGCP provides $38,000 to each Fellow for stipend and living expenses (per diem). Of the total cooperative agreement amount, the state SGCP provides $9,000 to cover mandatory health insurance for the fellow and moving expenses. Any remaining funds of the $9,000 shall be used for the fellow during the fellowship year, first to satisfy academic degree-related activities, and second for fellowship-related activities. Finally, up to $2,000 from the total $49,000 can be used to cover placement week costs. Indirect costs are not allowable from the federal funds either for the fellowships or for any costs associated with the fellowships, including the $2,000 budgeted for placement week. During the fellowship, the host may provide supplemental funds for work-related travel by the fellow. Not less than 30 applicants will be selected, of which only 10 of the selected applicants may be assigned to the Legislative branch.

Statutory Authority: 33 U.S.C. 1123(c) 4(F) and 33 U.S.C. 1127 (b).

Catalog of Federal Domestic Assistance (CFDA) Number: 11.417, Sea Grant Support.

Application Deadline: Eligible applicants must submit application materials to the State Sea Grant College Programs (SGCP) by 5 p.m. local time February 18, 2011. The sponsoring state SGCP must submit all selected applications through Grants.gov by 5 p.m. EDT on April 1, 2011. Please Note: Validation or rejection of your application by Grants.gov may take up to 2 business days after submission. Please consider this process in developing your submission timeline. Applications received after the deadline will be rejected/returned to the sender without further consideration. No facsimile or electronic mail applications will be accepted. For state SGCP applications submitted through Grants.gov, a date and time receipt will be generated by the system and will be the basis of determining timeliness.

Address for Submitting Proposals: The sponsoring state SGCP must submit all selected applications through Grants.gov. Application information may be obtained directly from Grants.gov. It may also be obtained from the state SGCP directors. The addresses of the state SGCP directors may be found on Sea Grant's World Wide Web (http://www.seagrant.noaa.gov/other/programsdirectors.html).

Information Contacts: Contact Miguel Lugo, Sea Grant Knauss Fellowship Program Manager, National Sea Grant College Program, 1315 East-West Highway, R/SG, Room 11828, Silver Spring, MD 20910; Tel: (301) 734-1077 ext 1075.

Eligibility: An eligible applicant is any student, regardless of citizenship, who, on February 18, 2011, is enrolled towards a degree, in a graduate or professional program in a marine or aquatic-related field. The graduate degree needs to be awarded through a United States accredited institution of higher education in the United States or U.S. Territories. Each eligible applicant will need to submit the application information to the state where their institution of higher education is located. Only state SGCPs are eligible to submit applications to the National Sea Grant College Program. Applicants that have participated in the fellowship in past years will not be eligible to submit an application. This is a onetime fellowship opportunity. Applicants from states not served by a state SGCP should contact the National Sea Grant College Program; subsequently, the applicant will be referred to the appropriate state SGCP. All applicants should consult the state SGCP before submitting an application.

Cost Sharing Requirements: N/A.

Intergovernmental Review: Applications under this program are not subject to Executive Order 12372, Intergovernmental Review of Programs.

4. Fiscal Year 2011 NMFS-Sea Grant Fellowships in Marine Resource Economics

Summary Description: The Graduate Fellowship Program generally awards two new PhD fellowships each year to students who are interested in careers related to the development and implementation of quantitative methods for assessing the economics of the conservation and management of living marine resources. Fellows will work on thesis problems of public interest and relevance to NMFS under the guidance of NMFS mentors at participating NMFS Science Centers or Laboratories. The NMFS-Sea Grant Fellowships in Marine Resource Economics meets NOAA's Mission goal of Protect, Restore and Manage the Use of Coastal and Ocean Resources Through Ecosystem-Based Management.

Funding Availability: The NMFS—Sea Grant Joint Graduate Fellowship Program in Marine Resource Economics expects to support two new fellowships for up to 2 years for each fellowship.

Statutory Authority: Authority for the Resource Economics Graduate Fellowship Program is provided by the following: 33 U.S.C. 1127(a).

Catalog of Federal Domestic Assistance (CFDA) Number: 11.417, Sea Grant Support

Application Deadline: Applications are due to the appropriate State Sea Grant Program by 11:59 p.m. local time on January 21, 2011. If your state does not have a Sea Grant Program, please check VII, Agency Contacts located in the FFO announcement and http://www.seagrant.noaa.gov for information on contacting a Sea Grant program. The Sea Grant Program must transmit the application via http://www.grants.gov so that it is received by the National Sea Grant Office (NSGO) by 4 p.m., Eastern Time February 18, 2011. A date and time receipt generated by the system and will be the basis of determining timeliness. Facsimile transmission and electronic submission of applications will not be accepted. Please Note: Validation or rejection of your application by Grants.gov may take up to 2 business days after submission. Please consider this process in developing your submission timeline.

Address for Submitting Proposals: Applicants must submit their applications to the applicable State Sea Grant Office. Please go to http://www.seagrant.noaa.gov for instructions on contacting a State Sea Grant program office. Applications must come from State Sea Grant programs and must be submitted through http://www.Grants.gov.

Information Contacts: Contact Terry Smith, National Sea Grant College Program, 1315 East-West Highway, Silver Spring, MD 20910; tel: (301) 734-1084; e-mail: Terry.Smith@noaa.gov.

Eligibility: Eligible applicants are institutions of higher education in the United States or its territories. Eligible applicants must apply on behalf of a prospective fellow who has been admitted or received provisional acceptance conditioned on obtaining financial support such as this fellowship, to a PhD degree program in natural resource economics or a related field at an institution of higher education in the United States or its territories. Prospective fellows must submit a signed letter from the institution indicating the provisional acceptance. Prospective Fellows must be United States citizens. Applications must come from Sea Grant programs and must be submitted through http://www.Grants.gov.

Cost Sharing Requirements: Of the $38,500 award, 50 percent ($19,250) will be contributed by NMFS, 33⅓ percent ($12,833) by the National Sea Grant Office (NSGO), and 16⅔ percent ($6,417) by the institution of higher education as the required 50 percent match of NSGO funds.

Intergovernmental Review: Applications under this program are not subject to Executive Order 12372, Intergovernmental Review of Programs.

5. Fiscal Year 2011 Small Grants for Marine Archaeological Exploration

Summary Description: NOAA Office of Ocean Exploration and Research (OER) is seeking pre-proposals and full proposals to support its mission, consistent with NOAA's Strategic Plan (http://www.nrc.noaa.gov), to discover significant or potentially significant maritime heritage sites. Small Grants for Marine Archaeological Exploration is a new type of funding program from OER. The program will provide a researcher with the opportunity to assess the feasibility of a potentially larger marine archaeology exploration project. Proposals should examine new ideas or new opportunities with potential to make significant discoveries of maritime cultural resources. OER anticipates a total of approximately $100,000 will be available through this announcement for small grants ($25K or less). Applicants are encouraged to visit the Ocean Explorer Web site (http://oceanexplorer.noaa.gov) to familiarize themselves with past and present OER-funded activities. All applicants are required to submit pre-proposals in order to be considered for funding for this program. Background on how to apply and the required Pre-Proposal Application Form and required Proposal Cover Sheet are accessible through the OER Office Web site at http://explore.noaa.gov. The office priorities for this opportunity support NOAA's mission support goal of: Ecosystems—Protect, Restore, and Manage Use of Coastal and Ocean Resources through Ecosystem-Based Management.

Funding Availability: In anticipation of the FY 11 President's Budget, OER anticipates a total of approximately $100,000 will be available through this announcement for Small Grants for Marine Archaeological Exploration. OER anticipates supporting four awards through this solicitation, not to exceed $25,000. The OER Director may hold-over select proposals submitted for 2011 funding for consideration in 2012. The amount of funding available through this announcement is subject to the final FY11 appropriation for Ocean Exploration and Research. Publication of this announcement does not obligate NOAA to fund any specific project or to obligate all or any part of available funds. There is no guarantee that sufficient funds will be available to initiate or continue research activities where funding has been recommended by OER. The exact amount of funds that OER may recommend be granted will be determined in pre-award negotiations between the applicant and NOAA representatives. Future opportunities for submitting proposals may be available and will depend on OER funding levels.

Statutory Authority: 33 U.S.C. 3403(a)(4).

Catalog of Federal Domestic Assistance (CFDA) Number: 11.011, Ocean Exploration.

Application Deadline: Completed pre-proposals are required and must be received by 5 p.m. (EDT) on August 16, 2010. If the application is submitted before 5 p.m. (EDT), an auto-reply message will notify applicants that their e-mail with pre-proposal material was received. If the application is submitted after 5 p.m. (EDT), an auto-reply message will notify applicant that their e-mail with pre-proposal material submission is late and will not be considered. A complete pre-proposal is a prerequisite for submission of a full proposal. Applicants will receive an e-mail encouraging or discouraging a full proposal submission by August 25, 2010. If you have not received a reply by September 1, 2010 contact OER (OAR.OE.FAQ@noaa.gov) as soon as possible. Full proposals must be received by 5 p.m. (EDT) on October 12, 2010. For applications submitted through Grants.gov, a date and time receipt generated by the system and will be the basis of determining timeliness. Hard copy, proposals will be date and time stamped when they are received in the Program Office. For applicants without internet access, hard copies of the Proposal Cover Sheet and the application package can be obtained via mail at NOAA Office of Ocean Exploration and Research, 1315 East West Highway, SSMC 3, 10th Floor, Silver Spring, Maryland 20910, or requested by phone at (301) 734-1015 as well. Pre-proposals and Full-Proposals submitted after their respective cutoff date and time will not be considered. Please Note: Applicants may have to register or renew their central contractor registration prior to submitting to Grants.gov. Grants.gov will not accept submissions if the applicant has not been authorized or if credentials are incorrect. Authorizations and credential corrections can take several days to establish. Please plan your time accordingly to avoid late submissions. For further information please visit the Central Contractor Registration Web site (http://www.ccr.gov/). Validation or rejection of your application by Grants.gov may take up to 2 business days after submission. Please consider this process in developing your submission timeline.

Address for Submitting Proposals: Pre-proposal submissions can be either by e-mail, which is the preferred submission method to OAR.OE.FAQ@noaa.gov, or by hard-copy (send one copy to the mailing address below). If by e-mail, please put your last name in the subject heading along with the words OER Pre-proposal, e.g., “Smith OER Pre-proposal.” Adobe PDF format is preferred. No facsimile pre-proposals will be accepted. Full proposal submissions must be submitted through Grants.gov. Applicants without internet access may submit hard-copies to the address below. Please refer to important information in submission dates and times above to help ensure your application is received on time. No e-mail or facsimile full proposal submissions will be accepted. Address for Hard-Copy Submissions: ATTN: Dr. Nicolas Alvarado, NOAA Office of Ocean Exploration & Research, SSMC III, 10th Floor, 1315 East West Highway, Silver Spring, Maryland 20910. Hard copy applications should be binder-clipped together (not bound or stapled) and printed on one-side only. One signed, hard copy original is required (use blue/black ink). Since reviewers will require access to an electronic copy, applicants submitting hard copies are highly encouraged to also submit a digital version in one Adobe PDF file on CD-ROM.

Information Contacts: For further information contact the NOAA Office of Ocean Exploration and Research at (301) 734-1015 or submit inquiries via e-mail to the Frequently Asked Questions address: OAR.OE.FAQ@noaa.gov. E-mail inquiries should include the Principal Investigator's name in the subject heading. Inquiries can be mailed to ATTN: Dr. Nicolas Alvarado (Proposal Manager) NOAA Office of Ocean Exploration 1315 East West Highway SSMC3, 10th Floor, Silver Spring, Maryland 20910

Eligibility: Eligible applicants are institutions of higher education; other nonprofits; commercial organizations; state, local and Indian tribal governments.

Cost Sharing Requirements: Cost-sharing is not required.

Intergovernmental Review: Applications under this program are subject to Executive Order 12372, “Intergovernmental Review of Programs.” Applicants must contact their State's Single Point of Contact (SPOC) to find out about and comply with the State's process under EO 12372. The names and addresses of the SPOC's are listed in the Office of Management and Budget's Web site: http://www.whitehouse.gov/omb/grants/spoc.html.

6. Fiscal Year 2011 Joint Hurricane Testbed

Summary Description: The Office of Oceanic and Atmospheric Research (OAR), National Oceanic and Atmospheric Administration (NOAA), is soliciting Letters of Intent (LOIs) under the United States Weather Research Program (USWRP), as administrated by the USWRP Joint Hurricane Testbed (JHT). This notice also provides guidelines for the submission of full proposals. This notice describes opportunities and application procedures for the transfer of relevant research and technology advances into tropical cyclone analysis and forecast operations. This notice calls for researchers to submit proposals to test and evaluate, and modify if necessary, in a quasi-operational environment, their own scientific and technological research applications. Projects satisfying metrics for success and operational constraints may be selected for operational implementation by the operational center(s) after the completion of the JHT-funded work. The period of the award is from one to two years.

Funding Availability: The estimate for total JHT funding that will be available in FY 2011 is $1,250,000, which will likely be used to fund 10-15 new projects. Award amounts for previous JHT grants have been mostly between $50,000 and $200,000 per year. A similar range is expected for this announcement. Initial and renewal funding of any JHT proposals is contingent upon availability of these funds. In no event will NOAA or the Department of Commerce be responsible for proposal preparation costs.

Statutory Authority: The program authority is 49 U.S.C. 44720(b), 33 U.S.C. 883d.

Catalog of Federal Domestic Assistance (CFDA) Number: 11.431, Climate and Atmospheric Research.

Application Deadline: LOIs submitted must be received no later than 5 p.m. Eastern Daylight Time (EDT) on 30 July 2010. TPC/NHC determines whether an LOI has been submitted before the deadline by the date and time indication on the e-mail or by date and time stamp imprinted on the applications as they are physically received in the NHC office. LOIs received after the deadline will not be reviewed. Although LOIs are strongly recommended, they are not required in order to submit a full application. Full proposal packages must be submitted no later than 5 p.m. Eastern Daylight Time (EDT) on 29 October 2010. A date and time receipt on the submission to Grants.gov will be the basis of determining timeliness. For those without Internet access, hard copy proposals will be date and time stamped when they are received in the program office. Applications received after that time will not be reviewed. Please Note: Validation or rejection of your application by Grants.gov may take up to 2 business days after submission. Please consider this process in developing your submission timeline.

Address for Submitting Proposals: LOIs may be submitted via e-mail or hard copy to the JHT Director Dr. Jiann-Gwo Jiing via e-mail: Jiann-Gwo.Jiing@noaa.gov, DOC/NOAA, Office of Weather & Air Quality Research, Routing Code R/WA, 1315 East-West Highway, Room 11209, Silver Spring, MD 20910.

Federal applications must submit their full proposals to the JHT Director Dr. Jiann-Gwo Jiing via e-mail: Jiann-Gwo.Jiing@noaa.gov. If a non-federal co-Principal Investigator is seeking funds under a Federal Principal Investigator proposal, the non-federal Principal Investigator will need to submit the full proposal package via http://grants.gov/Apply Web site. For non-Federal Principal Investigator(s), full proposal packages should be submitted through the http://grants.gov/Apply Web site. For those without Internet access, hard copy proposals should be addressed to Dorothy Fryar, DOC/NOAA, Office of Weather & Air Quality Research, Routing Code R/WA, 1315 East-West Highway, Room 11209, Silver Spring, MD 20910.

Information Contacts: Please visit the Joint Hurricane Testbed Web site for further information at: http://www.nhc.noaa.gov/jht/index.shtml or contact Dr. Jiann-Gwo Jiing, Director, Joint Hurricane Testbed, Tropical Prediction Center, 11691 SW. 17th Street, Miami, FL 33165, phone (305) 229-4443, or via e-mail at Jiann-Gwo.Jiing@noaa.gov. Any technical questions addressed by Dr. Jiing (or his authorized representative) about this JHT funding opportunity and the answers will be posted on the JHT Web site (http://www.nhc.noaa.gov/jht).

Eligibility: Eligible applicants are institutions of higher education; other nonprofits; commercial organizations; foreign governments; organizations under the jurisdiction of foreign governments; international organizations; state, local and Indian tribal governments; and agencies. Applications will be competed against each other. Proposals selected for funding from applicants will be funded through a cooperative agreement as described in section II. C. of the FFO announcement. Proposals from NOAA scientists selected for funding shall be effected by an intra-agency fund transfer. Proposals from a non-NOAA agency selected for funding will be funded through an inter-agency transfer. Please Note: Before non-NOAA applicants may be funded, they must demonstrate that they have legal authority to receive funds from another agency in excess of their appropriation. The only exception to this is governmental research facilities for awards issued under the authority of 49 U.S.C. 44720(b). Because this announcement is not proposing to procure goods or services from applicants, the Economy Act (31 U.S.C. 1535) is not an appropriate legal basis.

Cost Sharing Requirements: No cost sharing is required under this program.

Intergovernmental Review: Applications under this program are not subject to Executive Order 12372,”Intergovernmental Review of Programs.”

Office of the Under Secretary (USEC)

1. Environmental Literacy Grants for Formal K-12 Education

Summary Description: The goal of this funding opportunity is to support K-12 education projects that advance inquiry-based Earth System Science learning and stewardship directly tied to the school curriculum, with a particular interest in increasing climate literacy. To address this goal, this solicitation will support service-learning and professional development projects related to NOAA's mission in the areas of ocean, coastal, Great Lakes, weather and climate sciences and stewardship. A successful project will catalyze change in K-12 education at the state, regional and national level through development of new programs and/or revision of existing programs to improve the environmental literacy of K-12 teachers and their students. A successful project will also leverage NOAA assets, although use of non-NOAA assets is also encouraged. The target audiences for this funding opportunity are K-12 students, pre- and in-service teachers, and providers of pre-service teacher education and in-service teacher professional development. There is a special interest in projects that address reaching groups traditionally underserved and/or underrepresented in Earth System science. One group that has been identified as underserved is elementary level teachers and students. This funding opportunity has two priorities, which are equal in their importance for funding. Priority 1 is for innovative proof-of-concept projects that are one to two years in duration, for a total minimum request of $200,000 and a total maximum request of $500,000. Priority 2 is for full-scale implementation of educational projects that are three to five years in duration, for a total minimum request of $500,001 and a total maximum request of $1,500,000. This opportunity meets NOAA's Mission Support goal to provide critical support for NOAA's mission. It is anticipated that awards under this announcement will be made by June 30, 2011 and that projects funded under this announcement will have a start date no earlier than July 1, 2011. Note: a PDF version of this announcement is available at http://www.oesd.noaa.gov/funding_opps.html.

Funding Availability: NOAA anticipates the availability of approximately $8,000,000 of total financial assistance in FY 2011 for this solicitation. Approximately 5 to 10 awards total among both priorities in the form of grants or cooperative agreements will be made. For Priority 1, the total amount that may be requested from NOAA shall not exceed $500,000 for all years including direct and indirect costs. The minimum amount that must be requested from NOAA for all years for the direct and indirect costs for this priority is $200,000. Applications requesting support from NOAA of less than $200,000 or more than $500,000 total for all years will not be considered for funding. For Priority 2, the total amount that may be requested from NOAA shall not exceed $1,500,000 for all years including direct and indirect costs. The minimum amount that must be requested from NOAA for all years for the direct and indirect costs for this priority is $500,001. Applications requesting support from NOAA of more than $1,500,000 or less than $500,001 total for all years will not be considered for funding. The amount of funding available through this announcement will be dependent upon final FY11 appropriations. Publication of this notice does not oblige DOC/NOAA to award any specific project or to obligate any available funds. If an applicant incurs any costs prior to receiving an award agreement from an authorized NOAA Grants Officer, the applicant would do so solely at one's own risk of such costs not being included under the award. The exact amount of funds that may be awarded will be determined in pre-award negotiations between the applicant and NOAA representatives.

Statutory Authority: Authority for this program is provided by the following 33 U.S.C. 893a(a), the America COMPETES Act.

Catalog of Federal Domestic Assistance (CFDA) Number: 11.008, NOAA Mission-Related Education Awards

Application Deadline: An informational teleconference with the program officers will occur on July 28 2010, 3 to 5 p.m. EDT. Interested applicants should register by contacting oed.grants@noaa.gov, including in the Subject line of the e-mail: “Interested in FFO Teleconference—Need Details”. Please provide the interested parties' name, institution and telephone number in the body of the e-mail. Whenever possible, people from the same institution should try to call in through the same phone line.

Pre-proposal Submission Dates and Times: Pre-proposals are required for all applications and must be received by 5 p.m., EDT, September 8, 2010. Late pre-proposals will not be merit reviewed. Pre-proposals should be submitted via http://www.Grants.gov. Pre-proposals submitted through Grants.gov will generate an automated receipt indicating the date and time of submission. For pre-proposals submitted through Grants.gov, there will be two automated e-mail receipts sent to the application submitter with the date and time of submission (the first e-mail confirms receipt, the second e-mail confirms that there are no errors with your pre-proposal submission and it has been forwarded to NOAA for further processing). If both e-mail confirmation receipts are not provided within two (2) days of pre-proposal submission, contact the Grants.gov Help Desk and oed.grants@noaa.gov. Please Note: It may take Grants.gov up to 48 hours to validate or reject the pre-proposal. Please keep this in mind in developing your submission timeline. Applicants are responsible for ensuring that all required elements have been appropriately submitted. Additional instructions for Grants.gov can be found at http://www.oesd.noaa.gov/elg/elg_faqs.html.

Hard copy pre-proposals will be hand stamped with the time and date when received in the Office of Education. (Note that late-arriving hard copy pre-proposals provided to a delivery service on or before 5 p.m., EDT September 8, 2010 will be accepted for review if the applicant can document that the pre-proposal was provided to the guaranteed delivery service by the specified closing date and time and if the applications are received in the Office of Education no later than 5 p.m. EDT two business days following the closing date.) Please Note: hard copy applications submitted via the U.S. Postal Service can take up to 4 weeks to reach this office; therefore applicants are advised to send hard copy applications via expedited shipping methods (e.g., Airborne Express, DHL, Fed Ex, UPS). If you have submitted a hard-copy application, you must either call Stacey Rudolph at 202-482-3739 or send an e-mail to oed.grants@noaa.gov indicating that you have submitted a hard copy full application within 24 hours after the deadline. The submitter will receive a response from the program office acknowledging receipt of the phone call or e-mail and including an update on the receipt of the application. If you do not receive this response within 72 hours of the deadline, then call Stacey Rudolph: 202-482-3739 to confirm that your application has been received. Pre-proposals are a prerequisite for submission of a full application. Applicants who submit a pre-proposal by 5 p.m. EDT, September 8, 2010 will receive notification authorizing or not authorizing a full application on or about November 19, 2010. Please contact Stacey Rudolph at 202-482-3739 or oed.grants@noaa.gov if you have not received this notification by Nov 23, 2010.

Full Application Submission Dates and Times: The deadline for full applications is 5 p.m., EST on January 12, 2011. Full applications should be submitted via http://www.grants.gov. Late applications will not be merit reviewed. Full applications submitted through Grants.gov will generate an automated receipt indicating the date and time of submission. For applications submitted through Grants.gov, there will be two automated e-mail receipts sent to the application submitter with the date and time of submission (the first e-mail confirms receipt, the second e-mail confirms that there are no errors with your application submission and it has been forwarded to NOAA for further processing). If both e-mail confirmation receipts are not provided within two (2) days of application submission, contact the Grants.gov Help Desk and oed.grants@noaa.gov. Please Note: It may take Grants.gov up to 48 hours to validate or reject the application. Please keep this in mind in developing your submission timeline. Applicants are responsible for ensuring that all required elements have been appropriately submitted. Additional instructions for Grants.gov can be found at http://www.oesd.noaa.gov/elg/elg_faqs.html.

Hard copy applications will be hand stamped with time and date when received in the Office of Education. (Note that late-arriving hard copy applications provided to a delivery service on or before 5 p.m., EST January 12, 2011 will be accepted for review if the applicant can provide official proof that their application was provided to the guaranteed delivery service by the specified closing date and time and if the application is received in the Office of Education no later than 5 p.m. EST two business days following the closing date.) Please Note: hard copy applications submitted via the US Postal Service can take up to 4 weeks to reach this office; therefore applicants are advised to send hard copy applications via expedited shipping methods (e.g., Airborne Express, DHL, Fed Ex, UPS). If you have submitted a hard-copy application, you must either call Stacey Rudolph at 202-482-3739 or send an e-mail to oed.grants@noaa.gov indicating that you have submitted a hard copy full application within 24 hours after the deadline. The submitter will receive a response from the program office acknowledging receipt of the phone call or e-mail and including an update on the receipt of the application. If you do not receive this response within 72 hours of the deadline, then call Stacey Rudolph: 202-482-3739 to confirm that your application has been received. See Section F of the full funding opportunity for additional guidance.

Address for Submitting Proposals: Pre-proposals and full applications must be submitted through Grants.gov APPLY (http://www.grants.gov.) However, if an applicant does not have Internet access or if technical issues prohibit submission through Grants.gov, hard copy pre-proposals or full applications will be accepted. Hard copy pre-proposals and full applications should be delivered to: Stacey Rudolph, Dept. of Commerce, NOAA Office of Education, 1401 Constitution Avenue, NW., HCHB 6863, Washington, DC 20230; Telephone: 202-482-3739. Please Note: hard copy applications submitted via the US Postal Service can take up to 4 weeks to reach this office; therefore applicants are advised to send hard copy applications via expedited shipping methods (e.g., Airborne Express, DHL, Fed Ex, UPS) and to retain proof of their submission to the expedited shipping company.

Information Contacts: Please visit the OEd Web site for further information at http://www.oesd.noaa.gov/funding_opps.html or contact the Program Officers: Carrie McDougall at 202-482-0875; or Sarah Schoedinger at 704-370-3528; or John McLaughlin at 202-482-2893; or by e-mailing any of them at oed.grants@noaa.gov. For those applicants without Internet access, hard copies of referenced documents may be requested from NOAA's Office of Education by contacting Stacey Rudolph at 202-482-3739 or sending a letter to: Stacey Rudolph, Dept. of Commerce, NOAA Office of Education, 1401 Constitution Avenue, NW., HCHB 6863, Washington, DC 20230; Telephone: 202-482-3739.

Eligibility: Eligible applicants are institutions of higher education, other nonprofits, K-12 public and independent schools and school systems, and state, local and Indian tribal governments in the United States. U.S. federal agencies, for-profit organizations, foreign organizations and foreign government agencies are not eligible to apply as the lead institution. The following types of organizations may be partners on an application submitted by an eligible applicant: NOAA programs and offices, other Agencies, Funded Research and Development Centers, for-profit companies, non-U.S. organizations and institutions. Federally Funded Research and Development Centers conduct research for the United States Government. They are administered in accordance with U.S Code of Federal Regulations, Title 48, Part 35, Section 35.017 by universities and corporations. For the most up to date master list of every FFRDC, please view the following Web site: http://www.nsf.gov/statistics/ffrdclist/start.cfm. NOAA will consider applications that request a portion of the funding be used to support these types of partners. Please Note: although NOAA programs and offices can receive a small portion of funds associated with a project, the principal benefit of the project cannot be to support NOAA. Home-school organizations are eligible to apply. However, individuals are not eligible to apply. The Department of Commerce/National Oceanic and Atmospheric Administration (DOC/NOAA) is strongly committed to increasing the participation of Minority Serving Institutions (MSIs), i.e., Historically Black Colleges and Universities, Hispanic-serving institutions, Tribal colleges and universities, Alaskan Native and Native Hawaiian institutions, and institutions that work in underserved communities. Applications are encouraged that involve any of the above types of institutions. An individual may apply only once as principal investigator (PI) through this funding opportunity. However institutions may submit more than one application and individuals may serve as co-PIs or key personnel on more than one application.

Cost Sharing Requirements: There is no cost share requirement.

Intergovernmental Review: Applications submitted to this funding opportunity are not subject to Executive Order 12372, Intergovernmental Review of Programs.

2. Financial Assistance to Establish Five NOAA Cooperative Science Centers at Minority Serving Institutions

Summary Description: NOAA's Office of Education (OEd), Educational Partnership Program (EPP) with Minority Serving Institutions (MSIs) solicits applications from accredited postsecondary MSIs to establish five NOAA Cooperative Science Centers (CSCs). These five CSCs are designed to create collaborative partnerships among MSIs and NOAA's Line Offices. NOAA's mission as stated in the FY2009-2014 NOAA Strategic Plan, is “[t]o understand and predict changes in Earth's environment and conserve and manage coastal and marine resources to meet our nation's economic, social, and environmental needs.” The Uniform Resource Locator for NOAA Strategic Planning is http://www.ppi.noaa.gov/strategic_planning.html. Additional information about NOAA may be found on the Web site: http://www.noaa.gov. Each NOAA Cooperative Science Center must conduct education and research that directly supports NOAA's mission. The purpose of these CSCs at MSIs is to: (1) Educate students in science, technology, engineering, and mathematics (STEM) fields related to the CSCs' research areas to increase the number and diversity of NOAA's and the nation's STEM workforce; (2) conduct research in collaboration with NOAA scientists and engineers to better understand the significance of changes in the Earth's oceans, coasts, Great Lakes, weather and climate; and, (3) build capacity and sustainability in NOAA-relevant STEM areas at all center institutions. The CSCs are to leverage existing education and research program capabilities to train and graduate students in NOAA-mission STEM fields including broader disciplines (e.g., economics and social sciences). The CSCs are to build sustainable capacity, maintaining newly established curricula, as well as upgraded research facilities that will enhance their ability to conduct NOAA education and research that contributes to a pipeline of students trained in STEM fields. The EPP is designed to enhance capacity at MSIs that educate, train, and graduate students in STEM fields and to increase environmental literacy by establishing partnerships with academia, the private sector, and other state, tribal and local agencies. Additional program details may be found on the Web site: http://www.epp.noaa.gov. Interested applicants should be responsive to both the notice in the Federal Register and the Federal Funding Opportunity (FFO) announcement. A PDF version of both the Federal Register Notice and the FFO are available at http://www.epp.noaa.gov/.

Funding Availability: All funding is contingent upon availability of appropriations. NOAA anticipates that up to $3 million will be available annually for each Cooperative Science Center. Five awards will be made to five successful applicants; total funds of approximately $75 million are available to support the proposed five (5) Cooperative Science Centers for a period of five years, subject to appropriations. NOAA will not accept applications requesting more than $15 million under this solicitation. Subject to Congressional appropriations, NOAA anticipates making awards in the summer 2011. Awards will be funded incrementally on an annual basis for a five-year period and are subject to the availability of funds and acceptable performance. There is no obligation on the part of NOAA to cover pre-award costs unless approved by the Grants Officer as part of the terms when the award is made.

Statutory Authority: The applicable statutory authorities follow: 15 U.S.C. 1540; Fish and Wildlife Coordination Act, 16 U.S.C. 661, as amended by the Reorganization Plan No. 4 of 1970; Cooperative research and training programs for fish and wildlife resources, 16 U.S.C. 753(a); National Marine Sanctuaries Act, 16 U.S.C. 1431; Coastal Zone Management Act of 1972, as amended, 16 U.S.C. 1451 et seq.; Magnuson-Stevenson Fishery Conservation and Management Reauthorization Act of 2006, 16 U.S.C. 1891a; 33 U.S.C.—US Code—Title 33: Navigation and Navigable Waters (January 2003) Sec. 883a. Surveys and other activities, and, Sec. 883d. Improvement of methods, instruments, and equipments; investigations and research; Sec. 1442. Research program respecting possible long-range effects of pollution, overfishing, and man-induced changes of ocean ecosystems; Meteorological Services, 49 U.S.C. 44720; White House Initiative on Educational Excellence for Hispanic Americans Commission, Executive Orders 13230; White House Initiative on Historically Black Colleges and Universities, Executive Order 13256; White House Initiative on Tribal Colleges and Universities, Executive Order 13270; American Indian and Alaska Native Education, Executive Order 13336; Increasing Economic Opportunity and Business Participation of Asian Americans and Pacific Islanders, Executive Order 13339; and, America Competes Act H.R. 2272.

Catalog of Federal Domestic Assistance (CFDA) Number: 11.481, Educational Partnership Program.

Application Deadline: Informational teleconferences with the Program Officer are scheduled for Wednesday, July 21, 2010 and Wednesday, August 25, 2010, at 3 p.m. Eastern Time on both days. Interested applicants should register by contacting oed.epp10@noaa.gov. The e-mail should include in the Subject line of the e-mail: “Interested in FFO Teleconference—Need Details” and provide the interested parties name, institution, telephone number, and selected information teleconference date in the body of the e-mail no later than two weeks prior to the scheduled informational teleconference. Where possible, individuals from the same institution should try to call in using one telephone line. Full applications must be submitted through http://www.grants.gov no later than November 15, 2010. Applicants must comply with all requirements contained in this notice in the Federal Register and the FFO announcement. For those applicants without Internet access, paper applications (a signed original and two copies) and a flash drive with the application in MS Word and/or PDF format may be submitted to the Office of Education: NOAA Office of Education, Educational Partnership Program, 1315 East-West Highway, Room 10600, Silver Spring, Maryland 20910. Paper applications must be received or postmarked no later than November 15, 2010. Facsimile transmissions and electronic mail submission of full applications will not be accepted. Please Note: Hard copy applications submitted via the U.S. Postal Service may take up to four (4) weeks to reach NOAA's Office of Education; therefore applicants are advised to send hard copy applications via expedited shipping methods (e.g. Fed Ex, UPS). Use of U.S. Postal Service or another delivery service must be documented with a receipt. Please Note: It may take Grants.gov up to two (2) business days to validate or reject the application. Please keep this in mind in developing your submission timeline. Applications postmarked or provided to a delivery service after that time will not be considered for funding. Applications submitted via the U.S. Postal Service must have an official postmark; private metered postmarks are not acceptable. In any event, applications received later than five (5) business days following the postmark closing date will not be accepted.

Address for Submitting Proposals: Applicants must comply with all requirements contained in the Federal Funding Opportunity announcement. If Internet access is unavailable, paper applications (a signed original and two copies) and a flash drive with the application in MS Word and/or PDF format may be submitted to the Office of Education, Educational Partnership Program at the following address: NOAA Office of Education, Educational Partnership Program, 1315 East-West Highway, Room 10700, Silver Spring, Maryland 20910. Facsimile transmissions and electronic mail submission of full applications will not be accepted.

Information Contacts: For further information please contact Audrey Trotman (Federal Program Officer) for administrative and technical questions, telephone 301-713-9437 ext. 155, fax 301-713-9465, or e-mail Audrey.Trotman@noaa.gov. The alternative technical contact is Meka Laster, telephone 301-713-9437 ext. 147 or e-mail Meka.Laster@noaa.gov.

Eligibility: For the purpose of this program Minority Serving Institutions: Historically Black Colleges and Universities, Hispanic-Serving Institutions, Indian Tribally Controlled Colleges and Universities, Alaska Native-Serving Institutions, and Native Hawaiian-Serving Institutions, as identified on the 2007 United States Department of Education, Accredited Postsecondary Minority Institution list (http://www.ed.gov/about/offices/list/ocr/edlite-minorityinst.html and http://www.ed.gov/about/offices/list/ocr/edlite-minorityinst-list-tab.html) are eligible to apply. A proposed center's principal academic institution must be an accredited MSI with a PhD degree-granting program in a STEM field that supports NOAA's mission. Applications will not be accepted from non-profit organizations (except organizations that are classified as Institutions of Higher Education), foundations (except foundations that represent Institutions of Higher Education), auxiliary services or any other entity submitted on behalf of MSIs. Private and/or public sector and community college partnerships are encouraged. Partnerships with community colleges may be considered as a mechanism to build the undergraduate pipeline of four-year academic institutions. A Cooperative Science Center may partner with one or more institutions that have demonstrated education and research performance in NOAA-related sciences. While the center will be established at an MSI, consortia with non-minority serving institutions partners will not be restricted. If a cooperative agreement is awarded to a consortium of institutions, the consortium must propose a governance structure that includes a single director and one award. Where multi-institutional applications between majority and MSIs are submitted, no less than eighty percent (80%) of the total funds shall be awarded to the MSI(s). The MSI lead cannot issue sub-awards for more than twenty percent (20%) of the total project costs to majority institutions.

Cost Sharing Requirements: There is no statutory matching requirement for this funding.

Intergovernmental Review: Applications under this program are not subject to Executive Order 12372, “Intergovernmental Review of Programs.”

National Environmental Satellite Data and Information Service (NESDIS)

1. Climate Data Record Program Office for Fiscal Year 2011

Summary Description: The Climate Data Record Program (CDRP) seeks to support the development and stewardship of Climate Data Records (CDRs) for the atmosphere, cryosphere, oceans, and land surface. The Program follows the National Research Council's 2004 distinction between Fundamental and Thematic Climate Data Records, and is initially focused on Fundamental CDRs and Thematic CDRs related to Earth's water and energy cycles and sea level. The Program seeks CDRs that will provide demonstrable benefit to end users and society. The CDRP is managed by NOAA, but is informed by other government agencies such that its results represent a government-wide contribution to climate change detection, assessment, understanding, adaptation and/or mitigation.

Funding Availability: In FY 2007, the first year of SDS grants, the Project made eight awards totaling approximately $800K. In FY 2008, the Project expanded total funding to nearly $1,000K, which included funding for three new starts. In FY 2009, funding increased to $2.6M, with seven proposals being funded. In FY 2010, four additional proposals, totaling $1.2M, from the FY 2009 competition were funded. The grant selection abstracts for FY2007 through 2010 may be found at: http://www.ncdc.noaa.gov/sds/sds-opportunities.html For the present grants competition, the CDR Program expects to select proposals over a two year period (FY 2011 and FY 2012) for funding. The total anticipated Federal funding in FY 2011 is $2.5M for new awards. The anticipated number of new awards, pending adequate proposals of merit, is from 5- to 15. The CDR Program anticipates new funding availability in FY 2012 for additional awards from the present grants competition. The total anticipated Federal funding in FY 2012 and the number of additional awards will be dependent on the enacted budget. Please be advised that actual funding levels will depend upon the final FY 2011 and FY 2012 budget appropriations. Current plans assume that 100% of the total resources provided through the present FY 2011 CDRP Announcement will support extramural efforts that include the broad academic, non-profit, Federal and commercial communities. Past or current grantees funded under this announcement are eligible to apply for a new award, which builds on previous activities or areas of research not covered in the previous award. Current grantees should not request supplementary funding for ongoing research through this announcement. The exact amount of funds that may be awarded will be determined in pre-award negotiations between the applicant and NOAA representatives.

Statutory Authority: 49 U.S.C. 44720(b) and 33 U.S.C. 883d.

Catalog of Federal Domestic Assistance (CFDA) Number: 11.440, Environmental Sciences, Applications, Data, and Education.

Application Deadline: Letters of Intent (LOI) should be received at the CDRP Office no later than 5 p.m. Eastern Time, September 15, 2010. Applicants who have not received a response to their LOI within four weeks should contact the CDRP Grants Manager. Applicants are encouraged, but not required, to submit LOIs. Full proposals must be received no later than 5 p.m. Eastern Time, November 10, 2010. Proposals received after that time will not be considered for funding. For applications submitted through Grants.gov, the system will generate a date time receipt that will be the basis of determining timeliness for applications. Hard copy applications will be date and time stamped when they are received. Please Note: Validation or rejection of your application by Grants.gov may take up to 2 business days after submission. Please consider this process in developing your submission timeline.

Address for Submitting Proposals: Applications must be submitted through Grants.gov (http://www.grants.gov,) unless an applicant does not have Internet access or is a agency. If an applicant does not have Internet access, please contact the CDRP Grants Manager, Linda S. Statler, for hard copy instructions (see Section VII of the FFO announcement for contact information). Federal agencies must submit applications by E-mail to the CDRP Grants Manager, Linda S. Statler (see Section VII below for E-mail address). In cases where a proposal includes both and personnel in the budget, the respective personnel should submit duplicate proposal narratives, but unique budget sheets, through the respective submission channels. The overall Team leader, as well as the submitting investigator for each piece or should be clearly identified on the cover sheet of each submission. The overall Team leader submission should itemize the lead's budget including any subcontract costs, but also state the overall Team cost that includes the costs of all and team members.

Information Contacts: CDRP Grants Manager: Linda S. Statler, NOAA Climate Data Record Program Office, 151 Patton Ave, Asheville, NC 28801; Phone: 828-271-4657; E-mail: Linda.S.Statler-at-noaa.gov. CDRP Program Manager: Jeff Privette, NOAA Climate Data Record Program Office, 151 Patton Ave, Asheville, NC 28801; Phone: 828-271-4331; E-mail: Jeff.Privette-at-noaa.gov.

Eligibility: Eligible applicants are institutions of higher education; other nonprofits; for profits; commercial organizations; international organizations; state, local and Indian tribal governments; and agencies. Applications from and applicants will be competed against each other. Please Note: Before non-NOAA applicants may be funded, they must demonstrate that they have legal authority to receive funds from another agency in excess of their appropriation. The only exception to this is governmental research facilities for awards issued under the authority of 49 U.S.C. 44720(b). Because this announcement is not proposing to procure goods or services from applicants, the Economy Act (31 U.S.C. 1535) is not an appropriate legal basis.

Cost Sharing Requirements: This competition does not have Cost Sharing requirements. However, applicants are welcome to describe applicable cost-sharing when relevant.

Intergovernmental Review: Applications under the CDR Program are not subject to Executive Order 12372, “Intergovernmental Review of Programs.”

Limitation of Liability

Funding for programs listed in this notice is contingent upon the availability of Fiscal Year 2011 appropriations. Applicants are hereby given notice that funds have not yet been appropriated for the programs listed in this notice. In no event will NOAA or the Department of Commerce be responsible for proposal preparation costs if these programs fail to receive funding or are cancelled because of other agency priorities. Publication of this announcement does not oblige NOAA to award any specific project or to obligate any available funds.

Universal Identifier

Applicants should be aware that they are required to provide a Dun and Bradstreet Data Universal Numbering System (DUNS) number during the application process. See the October 30, 2002 Federal Register (67 FR 66177) for additional information. Organizations can receive a DUNS number at no cost by calling the dedicated toll-free DUNS Number request line at 1-866-705-5711 or via the Internet http://www.dunandbradstreet.com.

National Environmental Policy Act (NEPA)

NOAA must analyze the potential environmental impacts, as required by the National Environmental Policy Act (NEPA), for applicant projects or proposals which are seeking NOAA Federal funding opportunities. Detailed information on NOAA compliance with NEPA can be found at the following NOAA NEPA Web site: http://www.nepa.noaa.gov/, including our NOAA Administrative Order 216-6 for NEPA, http://www.nepa.noaa.gov/NAO216-6-TOC.pdf, NEPA Questionnaire, http://www.nepa.noaa.gov/questionnaire.pdf, and the Council on Environmental Quality implementation regulations, http://ceq.eh.doe.gov/nepa/regs/ceq/toc-ceq.htm . Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying feasible measures to reduce or avoid any identified adverse environmental impacts of their proposal. The failure to do so shall be grounds for not selecting an application. In some cases, if additional information is required after an application is selected, funds can be withheld by the Grants Officer under a special award condition requiring the recipient to submit additional environmental compliance information sufficient to enable NOAA to make an assessment on any impacts that a project may have on the environment.

Compliance With Department of Commerce Bureau of Industry and Security Export Administration Regulations

(a) This clause applies to the extent that this financial assistance award involves access to export-controlled information or technology.

(b) In performing this financial assistance award, the recipient may gain access to export-controlled information or technology. The recipient is responsible for compliance with all applicable laws and regulations regarding export-controlled information and technology, including deemed exports. The recipient shall establish and maintain throughout performance of the financial assistance award effective export compliance procedures at non-NOAA facilities. At a minimum, these export compliance procedures must include adequate controls of physical, verbal, visual, and electronic access to export-controlled information and technology.

(c) Definitions.

(1) Deemed export. The Export Administration Regulations (EAR) define a deemed export as any release of technology or source code subject to the EAR to a foreign national, both in the United States and abroad. Such release is “deemed' to be an export to the home country of the foreign national. 15 CFR 734.2(b)(2)(ii).

(2) Export-controlled information and technology. Export-controlled information and technology is information and technology subject to the EAR (15 CFR parts 730 et seq.), implemented by the DOC Bureau of Industry and Security, or the International Traffic I Arms Regulations (ITAR) (22 CFR parts 120-130), implemented by the Department of State, respectively. This includes, but is not limited to, dual-use items, defense articles and any related assistance, services, software or technical data as defined in the EAR and ITAR.

(d) The recipient shall control access to all export-controlled information and technology that it possesses or that comes into its possession in performance of a financial assistance award, to ensure that access is restricted, or licensed, as required by applicable laws, Executive Orders, and/or regulations.

(e) Nothing in the terms of this financial assistance award is intended to change, supersede, or waive any of the requirements of applicable laws, Executive Orders or regulations.

(f) The recipient shall include this clause, including this paragraph (f), in all lower tier transactions (subawards, contracts, and subcontracts) under the financial assistance award that may involve access to export-controlled information technology.

NOAA Implementation of Homeland Security Presidential Directive—12

If the performance of a financial assistance award, if approved by NOAA, requires recipients to have physical access to premises for more than 180 days or access to an information system, any items or services delivered under a financial assistance award shall comply with the Department of Commerce personal identity verification procedures that implement Homeland Security Presidential Directive-12, FIPS PUB 201, and the Office of Management and Budget Memorandum M-05-24. The recipient shall insert this clause in all subawards or contracts when the subaward recipient or contractor is required to have physical access to a controlled facility or access to an information system.

The Department of Commerce Pre-Award Notification Requirements for Grants and Cooperative Agreements

The Department of Commerce Pre-Award Notification Requirements for Grants and Cooperative Agreements contained in the Federal Register notice of February 11, 2008 (73 FR 7696) are applicable to this solicitation.

Paperwork Reduction Act

This document contains collection-of-information requirements subject to the Paperwork Reduction Act (PRA). The use of Standard Forms 424 and 424A, 424B, 424C, 424D, and SF-LLL has been approved by OMB under the respective control numbers 4040-0004, 0348-0044, 4040-0007, 0348-0041, 4040-0009, and 0348-0046. Notwithstanding any other provision of law, no person is required to respond to, nor shall any person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with federalism implications as that term is defined in Executive Order 13132.

Administrative Procedure Act/Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: July 12, 2010.
Tammy Journet,
Deputy Director, Acquisition and Grants Office, National Oceanic and Atmospheric Administration (NOAA).

[FR Doc. 2010-17294 Filed 7-15-10; 8:45 am]

BILLING CODE 3510-12-P